DEPARTMENT OF AGRICULTURE

Forest Service

36 CFR Part 242

DEPARTMENT OF THE INTERIOR

Fish and Wildlife Service

50 CFR Part 100

RIN 1018-AI62

Subsistence Management Regulations for Public Lands in Alaska, Subpart C and Subpart D—2003-2004 Subsistence Taking of Fish and Wildlife Regulations

AGENCIES: Forest Service, Agriculture; Fish and Wildlife Service, Interior.

ACTION: Final rule.

SUMMARY: This final rule establishes regulations for seasons, harvest limits, methods, and means related to taking of wildlife for subsistence uses in Alaska during the 2003-2004 regulatory year. The rulemaking is necessary because the regulations governing the subsistence harvest of wildlife in Alaska are subject to an annual public review cycle. This rulemaking replaces the wildlife regulations that expire on June 30, 2003. This rule also amends the regulations that establish which Alaska residents are eligible to take specific species for subsistence uses.

DATES: Sections __.24(a)(1) and __.25 are effective July 1, 2003. Section __.26 is effective July 1, 2003, through June 30, 2004.

FOR FURTHER INFORMATION CONTACT: Chair, Federal Subsistence Board, c/o U.S. Fish and Wildlife Service, Attention: Thomas H. Boyd, Office of Subsistence Management; (907) 786-3888. For questions specific to National Forest System lands, contact Ken Thompson, Regional Subsistence Program Manager, USDA, Forest Service, Alaska Region, (907) 786-3888.

SUPPLEMENTARY INFORMATION:

Background

In Title VIII of the Alaska National Interest Lands Conservation Act (ANILCA) (16 U.S.C. 3111-3126), Congress found that “the situation in Alaska is unique in that, in most cases, no practical alternative means are available to replace the food supplies and other items gathered from fish and wildlife which supply rural residents dependent on subsistence uses * * *” and that “continuation of the opportunity for subsistence uses of resources on public and other lands in Alaska is threatened * * *.” As a result, Title VIII requires, among other things, that the Secretary of the Interior and the Secretary of Agriculture (Secretaries) implement a joint program to grant a preference for subsistence uses of fish and wildlife resources on public lands in Alaska, unless the State of Alaska enacts and implements laws of general applicability that are consistent with ANILCA and that provide for the subsistence definition, preference, and participation specified in Sections 803, 804, and 805 of ANILCA.

The State implemented a program that the Department of the Interior previously found to be consistent with ANILCA. However, in December 1989, the Alaska Supreme Court ruled in McDowell v. State of Alaska that the rural preference in the State subsistence statute violated the Alaska Constitution. The Court's ruling in McDowell required the State to delete the rural preference from the subsistence statute and, therefore, negated State compliance with ANILCA. The Court stayed the effect of the decision until July 1, 1990. As a result of the McDowell decision, the Department of the Interior and the Department of Agriculture (Departments) assumed, on July 1, 1990, responsibility for implementation of Title VIII of ANILCA on public lands. On June 29, 1990, the Temporary Subsistence Management Regulations for Public Lands in Alaska were published in the Federal Register (55 FR 27114-27170).

As a result of this joint process between Interior and Agriculture, these regulations can be found in both Code of Federal Regulations (CFR) title 36, “Parks, Forests, and Public Property,” and title 50, “Wildlife and Fisheries,” at 36 CFR 242.1-28 and 50 CFR 100.1-28, respectively. The regulations contain subparts as follows: Subpart A, General Provisions; subpart B, Program Structure, subpart C, Board Determinations, and subpart D, Subsistence Taking of Fish and Wildlife.

Consistent with Subparts A, B, and C of these regulations, as revised May 7, 2002 (67 FR 30559), the Departments established a Federal Subsistence Board to administer the Federal Subsistence Management Program. The Board's composition includes a Chair appointed by the Secretary of the Interior with concurrence of the Secretary of Agriculture; the Alaska Regional Director, U.S. Fish and Wildlife Service; the Alaska Regional Director, U.S. National Park Service; the Alaska State Director, U.S. Bureau of Land Management; the Alaska Regional Director, U.S. Bureau of Indian Affairs; and the Alaska Regional Forester, USDA Forest Service. Through the Board, these agencies participated in the development of regulations for Subparts A, B, and C, and the annual Subpart D regulations.

Federal Subsistence Regional Advisory Councils

Pursuant to the Record of Decision, Subsistence Management Regulations for Federal Public Lands in Alaska, April 6, 1992, and the Subsistence Management Regulations for Federal Public Lands in Alaska, 36 CFR 242.11 (2002) and 50 CFR 100.11 (2002), and for the purposes identified therein, we divide Alaska into 10 subsistence resource regions, each of which is represented by a Federal Subsistence Regional Advisory Council (Regional Council). The Regional Councils provide a forum for rural residents, who have personal knowledge of local conditions and resource requirements, to have a meaningful role in the subsistence management of fish and wildlife on Alaska public lands. The Regional Council members represent varied geographical, cultural, and user diversity within each region.

Current Rule

Because the Subpart D regulations, which establish seasons and harvest limits and methods and means, are subject to an annual cycle, they require development of an entire new rule each year. Customary and traditional use determinations (Subpart C) are also subject to an annual review process providing for modification each year. Section _.24 (Customary and traditional use determinations) was originally published in the Federal Register (57 FR 22940) on May 29, 1992. The regulations at 36 CFR 242.4 and 50 CFR 100.4 define “customary and traditional use” as “a long-established, consistent pattern of use, incorporating beliefs and customs which have been transmitted from generation to generation. * * *“ Since that time, the Board has made a number of Customary and Traditional Use Determinations at the request of impacted subsistence users. Those modifications, along with some administrative corrections, were published in the Federal Register as follows:

Modifications to _.24.
Federal Register citation | Date of publication | Rule made changes to the following provisions of _.24:
59 FR 27462 | May 27, 1994 | Wildlife and Fish/Shellfish.
59 FR 51855 | October 13, 1994 | Wildlife and Fish/Shellfish.
60 FR 10317 | February 24, 1995 | Wildlife and Fish/Shellfish.
61 FR 39698 | July 30, 1996 | Wildlife and Fish/Shellfish.
62 FR 29016 | May 29, 1997 | Wildlife and Fish/Shellfish.
63 FR 35332 | June 29, 1998 | Wildlife and Fish/Shellfish.
63 FR 46148 | August 28, 1998 | Wildlife and Fish/Shellfish.
64 FR 35776 | July 1, 1999 | Wildlife and Fish/Shellfish.
65 FR 40730 | June 30, 2000 | Wildlife.
66 FR 10142 | February 13, 2001 | Fish/Shellfish.
66 FR 33744 | June 25, 2001 | Wildlife.
67 FR 5890 | February 7, 2002 | Fish/Shellfish.
67 FR 43710 | June 28, 2002 | Wildlife.
68 FR 7276 | February 12, 2003 | Fish/Shellfish.

During its May 20-22, 2003, meeting, the Board did not make any additional customary and traditional use determinations.

The Departments of the Interior and Agriculture published a proposed rule on August 5, 2002 (67 FR 50619), to amend Subparts C and D of 36 CFR 242 and 50 CFR 100. The proposed rule opened a 75-day comment period, which closed on October 18, 2002. The Departments advertised the proposed rule by mail, radio, and newspaper. During that period, the Regional Councils met and, in addition to other Regional Council business, received suggestions for proposals from the public. The Board received a total of 55 proposals for changes to Subparts C and D. Subsequent to the 60-day review period, the Board prepared a booklet describing the proposals and distributed it to the public. The public had an additional 30 days in which to comment on the proposals for changes to the regulations. The 10 Regional Councils met again, received public comments, and formulated their recommendations to the Board on proposals for their respective regions. Six of the proposals were withdrawn from consideration by their originators. The Regional Councils had a substantial role in reviewing the proposed rule and making recommendations for the final rule. Moreover, the Council Chairs, or their designated representatives, presented their Council's recommendations at the Board meeting of May 20-22, 2003. These final regulations reflect Board review and consideration of Regional Council recommendations and public comments. The public has had extensive opportunity to review and comment on all changes. Additional details on the recent Board modifications are contained below in Analysis of Proposals Adopted by the Board.

Applicability of Subparts A, B, and C

Subparts A, B, and C (unless otherwise amended) of the Subsistence Management Regulations for Public Lands in Alaska, 50 CFR 100.1 to 100.23 and 36 CFR 242.1 to 242.23, remain effective and apply to this rule. Therefore, all definitions located at 50 CFR 100.4 and 36 CFR 242.4 apply to regulations found in this subpart.

Analysis of Proposals Rejected by the Board

The Board rejected 6 proposals. All these rejections were based on recommendations from the respective Regional Council and additional factors.

Two proposals requested prohibiting or revising the designated hunter provisions for moose in Unit 6(C). The Board rejected these proposals as being detrimental to subsistence users in one case and rendered moot in the second case by the adoption of other proposals.

One proposal requested imposing special hunter qualifications on moose hunters in Unit 6(C). The Board rejected this proposal because the changes would have constituted an unnecessary restriction on subsistence users.

One proposal requested the establishment of a customary and traditional use determination and harvest system for goat in Unit 8. The Board rejected this proposal based on the recommendations of the Regional Council that the harvest system worked out between the local users and the State would meet the needs of subsistence users best.

One proposal requested deletion of the requirement to remove the claws and the skin of the skull before transporting a brown bear hide from the Western Alaska Brown Bear Management Area. The Board rejected this proposal because of conservation concerns and because the Regional Councils recommended that the WABBMA Working Group should be involved in the development and review of proposals impacting this area.

One proposal requested closure of Federal lands to moose hunting in Units 21(D) and 24 by nonsubsistence users. This proposal was rejected because the area proposed for closure has an adequate population of moose to allow the harvest by both subsistence and nonsubsistence users.

The Board deferred action on eight proposals in order to allow communities or Regional Councils additional time to review the issues and provide additional information. Six of the originally submitted proposals were withdrawn from consideration by their originators.

Analysis of Proposals Adopted by the Board

The Board adopted 35 proposals. Some of these proposals were adopted as submitted and others were adopted with modifications suggested by the respective Regional Council, developed during the analysis process, or during the Board's public deliberations.

All of the adopted proposals were recommended for adoption by at least one of the Regional Councils and were based on meeting customary and traditional uses, harvest practices, or protecting wildlife populations. Detailed information relating to justification for the action on each proposal may be found in the Board meeting transcripts, available for review at the Office of Subsistence Management, 3601 C Street, Suite 1030, Anchorage, Alaska, or on the Office of Subsistence Management Web site (http://alaska.fws.gov/asm/home.html). Additional minor technical clarifications have been made, which result in a more readable document.

Multiple Regions

The Board adopted two proposals resulting in the following changes in the regulations found in §§ _.25 and _.26, which affect residents of all Regions.

• In § _.25, added a definition for “field''.

• In § .25, established a Statewide designated hunter program for subsistence harvest of moose, deer, and caribou, subject to unit-specific provisions.

• In § _.26, established a Statewide provision for the taking of wildlife for use in traditional funerary or mortuary ceremonies.

Southeast Region

The Board adopted seven proposals affecting residents of the Southeast Region resulting in the following change to the regulations found in § _.26.

• Revised the brown bear seasons in a portion of Unit 4.

• Expanded the deer season in Unit 2 and closed Prince of Wales Island for part of the season to non-Federally qualified users.

• Expanded a hunt area for deer on Kupreanof Island in Unit 3.

• Reduced the harvest limit for goat and closed portions of Unit 1(A) and (B).

• Revised the season and instituted a permit requirement for moose in Unit 1(A).

• Revised the season and provided a closure mechanism for wolf hunting in Unit 2.

Southcentral Region

The Board adopted three proposals affecting residents in the Southcentral Region resulting in the following changes to the regulations found in § _.26.

• Expanded a season for brown bear in Unit 11.

• Revised the harvest regulations for caribou in Unit 13.

• Established a specific designated hunter program for moose in Unit 6.

The Board also expanded the harvest dates for the take of a moose for the Batzulnetas Culture Camp based on concerns related to the condition of the trail providing access to the camp.

Additionally, the U.S. Fish and Wildlife Service, Office of Subsistence Management, used its delegated authority to adjust lynx seasons and harvest limits consistent with the ADF&G Lynx Harvest Management Strategy. The Office of Subsistence Management, in May 2002, exercised this authority and adjusted the lynx harvest limits in Units 6, 14, and 16.

Bristol Bay Region

The Board adopted four proposals affecting residents in the Bristol Bay Region resulting in the following changes to the regulations found in § _.26.

• Revised the harvest limit and closure conditions for caribou in a portion of Unit 17.

• Deleted the winter antlerless hunt and shifted the winter season for moose in a portion of Unit 9(C).

• Increased the harvest limit for wolves in Units 9 and 17.

• Increased the trapping season and harvest limit for beaver in Units 9 and 17.

Yukon/Kuskokwim Region

The Board adopted one proposal affecting residents of the Yukon/Kuskokwim Region resulting in the following change to the regulations found in § _.26.

• Included a requirement for meat of the front and hind quarters of moose remain on the bone until removed from the field in a portion of Unit 18.

Western Interior Region

The Board adopted seven proposals affecting residents of the Western Interior Region resulting in the following change to the regulations found in § _.26.

• Included a requirement for meat of the front and hind quarters and ribs of moose remain on the bone until removed from the field in Unit 21 and for meat of the front and hind quarters and ribs of moose and caribou remain on the bone until removed from the field in Unit 24.

• Deleted the winter antlerless hunt and reduced the winter season length for moose in a portion of Unit 19(A).

• Reduced the fall season length for moose in Unit 19(C).

• Expanded the coyote hunting season in Units 19, 21, and 24.

• Increased the harvest limit for wolf in Unit 24.

• Increased the harvest limit for wolverine in Unit 24.

Seward Peninsula Region

The Board adopted one proposal affecting residents of the Seward Peninsula Region resulting in the following change to the regulations found in § _.26.

• Opened a portion of two subunits for caribou in Unit 22.

Eastern Interior Region

The Board adopted nine proposals affecting residents of the Eastern Interior Region resulting in the following changes to the regulations found in § _.26.

• Established a community harvest limit for black bear and provided for use of fall bait stations in Unit 25(D).

• Revised the season for brown bear in Units 25(A) and (B).

• Deleted the fall cow season for caribou in a portion of Unit 25(C).

• Revised the harvest limit and the season dates for moose in a portion of Unit 12.

• Revised the description of a special hunt area for moose in Unit 20.

• Expanded the season for moose in a portion of Unit 20(F).

• Expanded the season and method of take for beaver in portions of Units 12 and 20(E).

• Increased the harvest limit and expanded the season for coyote in Units 12, 20, and 25.

• Inserted trap and snare restrictions for coyote in Units 12 and 20(E).

North Slope Region

The Board adopted one proposal affecting residents of the North Slope Region resulting in the following change to the regulations found in § _.26.

• Revised the harvest regulations and provided for designated hunting for muskox in Unit 26(C).

These final regulations reflect Board review and consideration of Regional Council recommendations and public comments. All Board members have reviewed this rule and agree with its substance. Because this rule relates to public lands managed by an agency or agencies in both the Departments of Agriculture and the Interior, identical text would be incorporated into 36 CFR part 242 and 50 CFR part 100.

Administrative Procedure Act Compliance

The Board finds that additional public notice under the Administrative Procedure Act (APA) for this final rule is unnecessary, and contrary to the public interest. The Board has provided extensive opportunity for public input and involvement in excess of standard APA requirements, including participation in multiple Regional Council meetings, additional public review and comment on all proposals for regulatory change, and opportunity for additional public comment during the Board meeting prior to deliberation. Additionally, an administrative mechanism exists (and has been used by the public) to request reconsideration of the Board's decision on any particular proposal for regulatory change. Over the 12 years the Program has been operating, no benefit to the public has been demonstrated by delaying the effective date of the regulations. A lapse in regulatory control could seriously affect the continued viability of wildlife populations, adversely impact future subsistence opportunities for rural Alaskans, and would generally fail to serve the overall public interest. Therefore, the Board finds good cause pursuant to 5 U.S.C. 553 (d) to make this rule effective less than 30 days after publication.

Conformance With Statutory and Regulatory Authorities

National Environmental Policy Act Compliance

A Draft Environmental Impact Statement (DEIS) for developing a Federal Subsistence Management Program was distributed for public comment on October 7, 1991. That document described the major issues associated with Federal subsistence management as identified through public meetings, written comments, and staff analysis and examined the environmental consequences of four alternatives. Proposed regulations (Subparts A, B, and C) that would implement the preferred alternative were included in the DEIS as an appendix. The DEIS and the proposed administrative regulations presented a framework for an annual regulatory cycle regarding subsistence hunting and fishing regulations (Subpart D). The Final Environmental Impact Statement (FEIS) was published on February 28, 1992.

Based on the public comments received, the analysis contained in the FEIS, and the recommendations of the Federal Subsistence Board and the Department of the Interior's Subsistence Policy Group, the Secretary of the Interior, with the concurrence of the Secretary of Agriculture, through the U.S. Department of Agriculture-Forest Service, implemented Alternative IV as identified in the DEIS and FEIS (Record of Decision on Subsistence Management for Federal Public Lands in Alaska (ROD), signed April 6, 1992). The DEIS and the selected alternative in the FEIS defined the administrative framework of an annual regulatory cycle for subsistence hunting and fishing regulations. The final rule for Subsistence Management Regulations for Public Lands in Alaska, Subparts A, B, and C implemented the Federal Subsistence Management Program and included a framework for an annual cycle for subsistence hunting and fishing regulations. The following Federal Register documents pertain to this rulemaking:

Subsistence Management Regulations for Public Lands in Alaska, Subparts A, B, and C: Federal Register Documents Pertaining to the Final Rule
Federal Register citation | Date of publication | Category | Details
57 FR 22940 | May 29, 1992 | Final Rule (FR) | “Subsistence Management Regulations for Public Lands in Alaska; Final Rule” was published in the Federal Register.
64 FR 1276 | January 8, 1999 | FR (amended) | Amended to include subsistence activities occurring on inland navigable waters in which the United States has a reserved water right and to identify specific Federal land units where reserved water rights exist. Extended the Federal Subsistence Board's management to all Federal lands selected under the Alaska Native Claims Settlement Act and the Alaska Statehood Act and situated within the boundaries of a Conservation System Unit, National Recreation Area, National Conservation Area, or any new national forest or forest addition, until conveyed to the State of Alaska or an Alaska Native Corporation. Specified and clarified Secretaries' authority to determine when hunting, fishing, or trapping activities taking place in Alaska off the public lands interfere with the subsistence priority.
66 FR 31533 | June 12, 2001 | Interim Final Rule | Expanded the authority that the Board may delegate to agency field officials and clarified the procedures for enacting emergency or temporary restrictions, closures, or openings.
67 FR 30559 | May 7, 2002 | Direct Final Rule | In response to comments on an interim rule, amended the operating regulations. Also corrected some inadvertent errors and oversights of previous rules.
68 FR 23035 | April 30, 2003 | Affirmation of Direct Final Rule | Received no adverse comments on the direct final rule (67 FR 30559). Adopted direct final rule.

An environmental assessment was prepared in 1997 on the expansion of Federal jurisdiction over fisheries and is available by contacting the office listed under FOR FURTHER INFORMATION CONTACT. The Secretary of the Interior with the concurrence of the Secretary of Agriculture determined that the expansion of Federal jurisdiction did not constitute a major Federal action, significantly affecting the human environment and has, therefore, signed a Finding of No Significant Impact.

Compliance With Section 810 of ANILCA

The intent of all Federal subsistence regulations is to accord subsistence uses of fish and wildlife on public lands a priority over the taking of fish and wildlife on such lands for other purposes, unless restriction is necessary to conserve healthy fish and wildlife populations. A Section 810 analysis was completed as part of the FEIS process. The final Section 810 analysis determination appeared in the April 6, 1992, ROD, which concluded that the Federal Subsistence Management Program may have some local impacts on subsistence uses, but the program is not likely to significantly restrict subsistence uses.

Paperwork Reduction Act

These rules contain information collection requirements subject to Office of Management and Budget (OMB) approval under the Paperwork Reduction Act of 1995. They apply to the use of public lands in Alaska. The information collection requirements described below were approved by OMB under 44 U.S.C. 3501 and were assigned clearance number 1018-0075, which expires July 31, 2003. On January 16, 2003, we published in the Federal Register (68 FR 2347) a notice of our intent to request OMB approval of a 3-year renewal of this information collection. We will not conduct or sponsor, and you are not required to respond to, a collection of information request unless it displays a currently valid OMB control number.

Other Requirements

This rule was not subject to OMB review under Executive Order 12866.

The Regulatory Flexibility Act of 1980 (5 U.S.C. 601 et seq.) requires preparation of flexibility analyses for rules that will have a significant economic effect on a substantial number of small entities, which include small businesses, organizations, or governmental jurisdictions. The Departments have determined that this rulemaking will not have a significant economic effect on a substantial number of small entities within the meaning of the Regulatory Flexibility Act.

This rulemaking will impose no significant costs on small entities; the exact number of businesses and the amount of trade that will result from this Federal land-related activity is unknown. The aggregate effect is an insignificant positive economic effect on a number of small entities, such as ammunition, snowmachine, and gasoline dealers. The number of small entities affected is unknown; but, the fact that the positive effects will be seasonal in nature and will, in most cases, merely continue preexisting uses of public lands indicates that the effects will not be significant.

In general, the resources to be harvested under this rule are already being harvested and consumed by the local harvester and do not result in an additional dollar benefit to the economy. However, we estimate that 2 million pounds of meat are harvested by subsistence users annually and, if given an estimated dollar value of $3.00 per pound, would equate to about $6 million in food value state-wide.

Title VIII of ANILCA requires the Secretaries to administer a subsistence preference on public lands. The scope of this program is limited by definition to certain public lands. Likewise, these regulations have no potential takings of private property implications as defined by Executive Order 12630.

The Service has determined and certifies pursuant to the Unfunded Mandates Reform Act, 2 U.S.C. 1502 et seq., that this rulemaking will not impose a cost of $100 million or more in any given year on local or State governments or private entities. The implementation of this rule is by Federal agencies, and no cost is involved to any State or local entities or Tribal governments.

The Service has determined that these final regulations meet the applicable standards provided in Sections 3(a) and 3(b)(2) of Executive Order 12988 on Civil Justice Reform.

In accordance with Executive Order 13132, the rule does not have sufficient federalism implications to warrant the preparation of a Federalism Assessment. Title VIII of ANILCA precludes the State from exercising management authority over wildlife resources on Federal lands.

In accordance with the President's memorandum of April 29, 1994, “Government-to-Government Relations with Native American Tribal Governments” (59 FR 22951), 512 DM 2, and E.O. 13175, we have evaluated possible effects on Federally recognized Indian tribes and have determined that there are no effects. The Bureau of Indian Affairs is a participating agency in this rulemaking.

On May 18, 2001, the President issued Executive Order 13211 on regulations that significantly affect energy supply, distribution, or use. This Executive Order requires agencies to prepare Statements of Energy Effects when undertaking certain actions. As this rule is not a significant regulatory action under Executive Order 13211, affecting energy supply, distribution, or use, this action is not a significant action and no Statement of Energy Effects is required.

Drafting Information—William Knauer drafted these regulations under the guidance of Thomas H. Boyd, of the Office of Subsistence Management, Alaska Regional Office, U.S. Fish and Wildlife Service, Anchorage, Alaska. Taylor Brelsford, Alaska State Office, Bureau of Land Management; Sandy Rabinowitch, Alaska Regional Office, National Park Service; Warren Eastland, Alaska Regional Office, Bureau of Indian Affairs; Greg Bos, Alaska Regional Office, U.S. Fish and Wildlife Service; and Ken Thompson, USDA-Forest Service provided additional guidance.

List of Subjects

36 CFR Part 242

Administrative practice and procedure, Alaska, Fish, National forests, Public lands, Reporting and recordkeeping requirements, Wildlife.

50 CFR Part 100

Administrative practice and procedure, Alaska, Fish, National forests, Public lands, Reporting and recordkeeping requirements, Wildlife.

For the reasons set out in the preamble, the Federal Subsistence Board amends Title 36, part 242, and Title 50, part 100, of the Code of Federal Regulations, as set forth below.

PART —SUBSISTENCE MANAGEMENT REGULATIONS FOR PUBLIC LANDS IN ALASKA

1. The authority citation for both 36 CFR Part 242 and 50 CFR Part 100 continues to read as follows:

Authority: 16 U.S.C. 3, 472, 551, 668dd, 3101-3126; 18 U.S.C. 3551-3586; 43 U.S.C. 1733.

Subpart C—Board Determinations

2. In Subpart C of 36 CFR part 242 and 50 CFR part 100, § _.24(a)(1) is reprinted without change to read as follows:

§ __.24 Customary and traditional use determinations.

(a) * * *

(1) Wildlife determinations. The rural Alaska residents of the listed communities and areas have a customary and traditional use of the specified species on Federal public lands within the listed areas:

Area | Species | Determination
Unit 1(C) | Black Bear | Residents of Unit 1(C), 1(D), 3, and residents of Hoonah, Pelican, Point Baker, Sitka, and Tenakee Springs.
1(A) | Brown Bear | Residents of Unit 1(A) except no subsistence for residents of Hyder.
1(B) | Brown Bear | Residents of Unit 1(A), Petersburg, and Wrangell, except no subsistence for residents of Hyder.
1(C) | Brown Bear | Residents of Unit 1(C), Haines, Hoonah, Kake, Klukwan, Skagway, and Wrangell, except no subsistence for residents of Gustavus.
1(D) | Brown Bear | Residents of 1(D).
1(A) | Deer | Residents of 1(A) and 2.
1(B) | Deer | Residents of Unit 1(A), residents of 1(B), 2 and 3.
1(C) | Deer | Residents of 1(C) and (D), and residents of Hoonah, Kake, and Petersburg.
1(D) | Deer | No Federal subsistence priority.
1(B) | Goat | Residents of Units 1(B) and 3.
1(C) | Goat | Residents of Haines, Kake, Klukwan, Petersburg, and Hoonah.
1(B) | Moose | Residents of Units 1, 2, 3, and 4.
1(C) Berner's Bay | Moose | No Federal subsistence priority.
1(D) | Moose | Residents of Unit 1(D).
Unit 2 | Brown Bear | No Federal subsistence priority.
2 | Deer | Residents of Unit 1(A) and residents of Units 2 and 3.
Unit 3 | Deer | Residents of Unit 1(B) and 3, and residents of Port Alexander, Port Protection, Pt. Baker, and Meyer's Chuck.
3, Wrangell and Mitkof Islands | Moose | Residents of Units 1(B), 2, and 3.
Unit 4 | Brown Bear | Residents of Unit 4 and Kake.
4 | Deer | Residents of Unit 4 and residents of Kake, Gustavus, Haines, Petersburg, Pt. Baker, Klukwan, Port Protection, Wrangell, and Yakutat.
4 | Goat | Residents of Sitka, Hoonah, Tenakee, Pelican, Funter Bay, Angoon, Port Alexander, and Elfin Cove.
Unit 5 | Black Bear | Residents of Unit 5(A).
5 | Brown Bear | Residents of Yakutat.
5 | Deer | Residents of Yakutat.
5 | Goat | Residents of Unit 5(A).
5 | Moose | Residents of Unit 5(A).
5 | Wolf | Residents of Unit 5(A).
Unit 6(A) | Black Bear | Residents of Yakutat and residents of 6(C) and 6(D), except no subsistence for Whittier.
6, remainder | Black Bear | Residents of Unit 6(C) and 6(D), except no subsistence for Whittier.
6 | Brown Bear | No Federal subsistence priority.
6(A) | Goat | Residents of Unit 5(A), 6(C), Chenega Bay and Tatitlek.
6(C) and (D) | Goat | Residents of Unit 6(C) and (D).
6(A) | Moose | Unit 6(A)—Residents of Units 5(A), 6(A), 6(B) and 6(C).
6(B) and (C) | Moose | Residents of Units 6(A), 6(B) and 6(C).
6(D) | Moose | No Federal subsistence priority.
6(A) | Wolf | Residents of Units 5(A), 6, 9, 10 (Unimak Island only), 11-13 and the residents of Chickaloon, and 16-26.
6, remainder | Wolf | Residents of Units 6, 9, 10 (Unimak Island only), 11-13 and the residents of Chickaloon and 16-26.
Unit 7 | Brown Bear | No Federal subsistence priority.
7 | Caribou | No Federal subsistence priority.
7, Brown Mountain hunt area. | Goat | Residents of Port Graham and English Bay.
7, that portion draining into Kings Bay | Moose | Residents of Chenega Bay and Tatitlek.
7, remainder | Moose | No Federal subsistence priority.
7 | Sheep | No Federal subsistence priority.
7 | Ruffed Grouse | No Federal subsistence priority.
Unit 8 | Brown Bear | Residents of Old Harbor, Akhiok, Larsen Bay, Karluk, Ouzinkie, and Port Lions.
8 | Deer | Residents of Unit 8.
8 | Elk | Residents of Unit 8.
8 | Goat | No Federal subsistence priority.
Unit 9(D) | Bison | No Federal subsistence priority.
9(A) and (B) | Black Bear | Residents of Units 9(A) and (B), and 17(A), (B), and (C).
9(A) | Brown Bear | Residents of Pedro Bay.
9(B) | Brown Bear | Residents of Unit 9(B).
9(C) | Brown Bear | Residents of Unit 9(C).
9(D) | Brown Bear | Residents of Units 9(D) and 10 (Unimak Island).
9(E) | Brown Bear | Residents of Chignik, Chignik Lagoon, Chignik Lake, Egegik, Ivanof Bay, Perryville, Pilot Point, Ugashik, and Port Heiden/Meshik.
9(A) and (B) | Caribou | Residents of Units 9(B), 9(C) and 17.
9 (C) | Caribou | Residents of Unit 9(B), 9(C), 17 and residents of Egegik.
9(D) | Caribou | Residents of Unit 9(D), and residents of Akutan, False Pass.
9(E) | Caribou | Residents of Units 9(B), (C), (E), 17, and residents of Nelson Lagoon and Sand and Point.
9(A), (B), (C) and (E). | Moose | Residents of Unit 9(A), (B), (C) and (E)
9(D) | Moose | Residents of Cold Bay, False Pass, King Cove, Nelson Lagoon, and Sand Point.
9(B) | Sheep | Residents of Iliamna, Newhalen, Nondalton, Pedro Bay, Port Alsworth, and residents of Lake Clark National Park and Preserve within Unit 9(B).
9, remainder | Sheep | No determination.
9 | Wolf | Residents of Units 6, 9, 10 (Unimak Island only), 11-13 and the residents of Chickaloon and 16-26.
9(A), (B), (C), & (E) | Beaver | Residents of Units 9(A), (B), (C), (E), and 17.
Unit 10 Unimak Island | Brown Bear | Residents of Units 9(D) and 10 (Unimak Island).
Unit 10 Unimak Island | Caribou | Residents of Akutan, False Pass, King Cove, and Sand Point.
10, remainder | Caribou | No determination.
10 | Wolf | Residents of Units 6, 9, 10 (Unimak Island only), 11-13 and the residents of Chickaloon and 16-26.
Unit 11 | Bison | No Federal subsistence priority.
11, north of the Sanford River | Black Bear | Residents of Chistochina, Chitina, Copper Center, Gakona, Glennallen, Gulkana, Kenny Lake, Mentasta Lake, Slana, Tazlina, Tonsina, and Units 11 and 12.
11, remainder | Black Bear | Residents of Chistochina, Chitina, Copper Center, Gakona, Glennallen, Gulkana, Kenny Lake, Mentasta Lake, Slana, Tazlina, Tonsina, and Unit 11.
11, north of the Sanford River | Brown Bear | Residents of Chistochina, Chitina, Copper Center, Gakona, Glennallen, Gulkana, Kenny Lake, Mentasta Lake, Slana, Tazlina, Tonsina, and Units 11 and 12.
11, remainder | Brown Bear | Residents of Chistochina, Chitina, Copper Center, Gakona, Glennallen, Gulkana, Kenny Lake, Mentasta Lake, Slana, Tazlina, Tonsina, and Unit 11.
11, north of the Sanford River | Caribou | Residents of Units 11, 12, and 13(A)-(D) and the residents of Chickaloon, Healy Lake, and Dot Lake.
11, remainder | Caribou | Residents of Units 11 and 13(A)-(D) and the residents of Chickaloon.
11 | Goat | Residents of Unit 11 and the residents of Chitina, Chistochina, Copper Center, Gakona, Glennallen, Gulkana, Mentasta Lake, Slana, Tazlina, Tonsina, and Dot Lake.
11, north of the Sanford River | Moose | Residents of Units 11, 12, and 13(A)-(D) and the residents of Chickaloon, Healy Lake, and Dot Lake.
11, remainder | Moose | Residents of Units 11, 13(A)-(D), and residents of Chickaloon.
11, north of the Sanford River | Sheep | Residents of Unit 12 and the communities and areas of Chistochina, Chitina, Copper Center, Dot Lake, Gakona, Glennallen, Gulkana, Healy Lake, Kenny Lake, Mentasta Lake, Slana, McCarthy/South, Wrangell/South Park, Tazlina and Tonsina; residents along the Nabesna Road—Milepost 0-46 (Nabesna Road), and residents along the McCarthy Road—Milepost 0-62 (McCarthy Road).
11, remainder | Sheep | Residents of the communities and areas of Chisana, Chistochina, Chitina, Copper Center, Gakona, Glennallen, Gulkana, Kenny Lake, Mentasta Lake, Slana, McCarthy/South Wrangell/South Park, Tazlina and Tonsina; residents along the Tok Cutoff—Milepost 79-110 (Mentasta Pass), residents along the Nabesna Road—Milepost 0-46 (Nabesna Road), and residents along the McCarthy Road—Milepost 0-62 (McCarthy Road).
11 | Wolf | Residents of Units 6, 9, 10 (Unimak Island only), 11-13 and the residents of Chickaloon and 16-26.
11 | Grouse (Spruce, Blue, Ruffed and Sharp-tailed) | Residents of Units 11, 12, 13 and the residents of Chickaloon, 15, 16, 20(D), 22 and 23.
11 | Ptarmigan (Rock, Willow and White-tailed) | Residents of Units 11, 12, 13 and the residents of Chickaloon, 15, 16, 20(D), 22 and 23.
Unit 12 | Brown Bear | Residents of Unit 12 and Dot Lake, Chistochina, Gakona, Mentasta Lake, and Slana.
12 | Caribou | Residents of Unit 12 and residents of Dot Lake, Healy Lake, and Mentasta Lake.
12, south of a line from Noyes Mountain, southeast of the confluence of Tatschunda Creek to Nabesna River | Moose | Residents of Unit 11 north of 62nd parallel, residents of Unit 12, 13(A)-(D) and the residents of Chickaloon, Dot Lake, and Healy Lake.
12, east of the Nabesna River and Nabesna Glacier, south of the Winter Trail from Pickerel Lake to the Canadian Border | Moose | Residents of Unit 12 and Healy Lake.
12, remainder | Moose | Residents of Unit 12 and residents of Dot Lake, Healy Lake, and Mentasta Lake.
12 | Sheep | Residents of Unit 12 and residents of Chistochina, Dot Lake, Healy Lake, and Mentasta Lake.
12 | Wolf | Residents of Units 6, 9, 10 (Unimak Island only), 11-13 and the residents of Chickaloon and 16-26.
Unit 13 | Brown Bear | Residents of Unit 13 and Slana.
13(B) | Caribou | Residents of Units 11, 12 (along the Nabesna Road), 13, residents of Unit 20(D) except Fort Greely, and the residents of Chickaloon.
13(C) | Caribou | Residents of Units 11, 12 (along the Nabesna Road), 13, and the residents of Chickaloon, Dot Lake and Healy Lake.
13(A) & (D) | Caribou | Residents of Units 11, 12 (along the Nabesna Road), 13, and the residents of Chickaloon.
13(E) | Caribou | Residents of Units 11, 12 (along the Nabesna Road), 13, and the residents of Chickaloon, McKinley Village, and the area along the Parks Highway between milepost 216 and 239 (except no subsistence for residents of Denali National Park headquarters).
13(D) | Goat | No Federal subsistence priority.
13(A) and (D) | Moose | Residents of Unit 13 and the residents of Chickaloon and Slana.
13(B) | Moose | Residents of Units 13, 20(D) except Fort Greely, and the residents of Chickaloon and Slana.
13(C) | Moose | Residents of Units 12, 13 and the residents of Chickaloon, Healy Lake, Dot Lake and Slana.
13(E) | Moose | Residents of Unit 13 and the residents of Chickaloon, McKinley Village, Slana, and the area along the Parks Highway between milepost 216 and 239 (except no subsistence for residents of Denali National Park headquarters).
13(D) | Sheep | No Federal subsistence priority.
13 | Wolf | Residents of Units 6, 9, 10 (Unimak Island only), 11-13 and the residents of Chickaloon, and 16-26.
13 | Grouse (Spruce, Blue, Ruffed & Sharp-tailed) | Residents of Units 11, 13 and the residents of Chickaloon, 15, 16, 20(D), 22 & 23.
13 | Ptarmigan (Rock, Willow and White-tailed) | Residents of Units 11, 13 and the residents of Chickaloon, 15, 16, 20(D), 22 & 23.
Unit 14(B) and (C) | Brown Bear | No Federal subsistence priority.
14 | Goat | No Federal subsistence priority.
14 | Moose | No Federal subsistence priority.
14(A) and (C) | Sheep | No Federal subsistence priority.
Unit 15(C) | Black Bear | Residents of Port Graham and Nanwalek only.
15, remainder | Black Bear | No Federal subsistence priority.
15 | Brown Bear | No Federal subsistence priority.
15(C), Port Graham and English Bay hunt areas | Goat | Residents of Port Graham and Nanwalek.
15(C), Seldovia hunt area | Goat | Residents of Seldovia area.
15 | Moose | Residents of Ninilchik, Nanwalek, Port Graham, and Seldovia.
15 | Sheep | No Federal subsistence priority.
15 | Ptarmigan (Rock, Willow and White-tailed) | Residents of Unit 15.
15 | Grouse (Spruce) | Residents of Unit 15.
15 | Grouse (Ruffed) | No Federal subsistence priority.
Unit 16(B) | Black Bear | Residents of Unit 16(B).
16 | Brown Bear | No Federal subsistence priority.
16(A) | Moose | No Federal subsistence priority.
16(B) | Moose | Residents of Unit 16(B).
16 | Sheep | No Federal subsistence priority.
16 | Wolf | Residents of Units 6, 9, 10 (Unimak Island only), 11-13 and the residents of Chickaloon, and 16-26.
16 | Grouse (Spruce and Ruffed) | Residents of Units 11, 13 and the residents of Chickaloon, 15, 16, 20(D), 22 and 23.
16 | Ptarmigan (Rock, Willow and White-tailed) | Residents of Units 11, 13 and the residents of Chickaloon, 15, 16, 20(D), 22 and 23.
Unit 17(A) and that portion of 17(B) draining into Nuyakuk Lake and Tikchik Lake | Black Bear | Residents of Units 9(A) and (B), 17, and residents of Akiak and Akiachak.
17, remainder | Black Bear | Residents of Units 9(A) and (B), and 17.
17(A) | Brown Bear | Residents of Unit 17, and residents of Akiak, Akiachak, Goodnews Bay and Platinum.
17(A) and (B), those portions north and west of a line beginning from the Unit 18 boundary at the northwest end of Nenevok Lake, to the southern point of upper Togiak Lake, and northeast to the northern point of Nuyakuk Lake, northeast to the point where the Unit 17 boundary intersects the Shotgun Hills | Brown Bear | Residents of Kwethluk.
17(B), that portion draining into Nuyakuk Lake and Tikchik Lake | Brown Bear | Residents of Akiak and Akiachak.
17(B) and (C) | Brown Bear | Residents of Unit 17.
17 | Caribou | Residents of Units 9(B), 17 and residents of Lime Village and Stony River.
Unit 17(A), that portion west of the Izavieknik River, Upper Togiak Lake, Togiak Lake, and the main course of the Togiak River | Caribou | Residents of Goodnews Bay, Platinum, Quinhagak, Eek, Tuntutuliak, and Napakiak.
Unit 17(A)—That portion north of Togiak Lake that includes Izavieknik River drainages | Caribou | Residents of Akiak, Akiachak, and Tuluksak.
17(A) and (B), those portions north and west of a line beginning from the Unit 18 boundary at the northwest end of Nenevok Lake, to the southern point of upper Togiak Lake, and northeast to the northern point of Nuyakuk Lake, northeast to the point where the Unit 17 boundary intersects the Shotgun Hills | Caribou | Residents of Kwethluk.
Unit 17(B), that portion of Togiak National Wildlife Refuge within Unit 17(B) | Caribou | Residents of Bethel, Goodnews Bay, Platinum, Quinhagak, Eek, Akiak, Akiachak, and Tuluksak, Tuntutuliak, and Napakiak.
17(A) and (B), those portions north and west of a line beginning from the Unit 18 boundary at the northwest end of Nenevok Lake, to the southern point of upper Togiak Lake, and northeast to the northern point of Nuyakuk Lake, northeast to the point where the Unit 17 boundary intersects the Shotgun Hills | Moose | Residents of Kwethluk.
17(A) | Moose | Residents of Unit 17 and residents of Goodnews Bay and Platinum; however, no subsistence for residents of Akiachak, Akiak and Quinhagak.
Unit 17(A)—That portion north of Togiak Lake that includes Izavieknik River drainages | Moose | Residents of Akiak, Akiachak.
Unit 17(B)—That portion within the Togiak National Wildlife Refuge | Moose | Residents of Akiak, Akiachak.
17(B) and (C) | Moose | Residents of Unit 17, and residents of Nondalton, Levelock, Goodnews Bay, and Platinum.
17 | Wolf | Residents of Units 6, 9, 10 (Unimak Island only), 11-13 and the residents of Chickaloon, and 16-26.
17 | Beaver | Residents of Units 9(A), (B), (C), (E), and 17.
Unit 18 | Black Bear | Residents of Unit 18, residents of Unit 19(A) living downstream of the Holokuk River, and residents of Holy Cross, Stebbins, St. Michael, Twin Hills, and Togiak.
18 | Brown Bear | Residents of Akiachak, Akiak, Eek, Goodnews Bay, Kwethluk, Mt. Village, Napaskiak, Platinum, Quinhagak, St. Mary's, and Tuluksak.
18 | Caribou | Residents of Unit 18 and residents of Manokotak, Stebbins, St. Michael, Togiak, Twin Hills, and Upper Kalskag.
18, that portion of the Yukon River drainage upstream of Russian Mission and that portion of the Kuskokwim River drainage upstream of, but not including the Tuluksak River drainage | Moose | Residents of Unit 18 and residents of Upper Kalskag, Aniak, and Chuathbaluk.
18, remainder | Moose | Residents of Unit 18 and residents of Upper Kalskag and Lower Kalskag.
18 | Muskox | No Federal subsistence priority.
18 | Wolf | Residents of Units 6, 9, 10 (Unimak Island only), 11-13 and the residents of Chickaloon and 16-26.
Unit 19(C), (D) | Bison | No Federal subsistence priority.
19(A) and (B) | Brown Bear | Residents of Units 19 and 18 within the Kuskokwim River drainage upstream from, and including, the Johnson River.
19(C) | Brown Bear | No Federal subsistence priority.
19(D) | Brown Bear | Residents of Units 19(A) and (D), and residents of Tulusak and Lower Kalskag.
19(A) and (B) | Caribou | Residents of Units 19(A) and 19(B), residents of Unit 18 within the Kuskokwim River drainage upstream from, and including, the Johnson River, and residents of St. Marys, Marshall, Pilot Station, Russian Mission.
19(C) | Caribou | Residents of Unit 19(C), and residents of Lime Village, McGrath, Nikolai, and Telida.
19(D) | Caribou | Residents of Unit 19(D), and residents of Lime Village, Sleetmute, and Stony River.
19(A) and (B) | Moose | Residents of Unit 18 within Kuskokwim River drainage upstream from and including the Johnson River, and Unit 19.
Unit 19(B), west of the Kogrukluk River | Moose | Residents of Eek and Quinhagak.
19(C) | Moose | Residents of Unit 19.
19(D) | Moose | Residents of Unit 19 and residents of Lake Minchumina.
19 | Wolf | Residents of Units 6, 9, 10 (Unimak Island only), 11-13 and the residents of Chickaloon and 16-26.
Unit 20(D) | Bison | No Federal subsistence priority.
20(F) | Black Bear | Residents of Unit 20(F)and residents of Stevens Village and Manley.
20(E) | Brown Bear | Residents of Unit 12 and Dot Lake.
20(F) | Brown Bear | Residents of Unit 20(F) and residents of Stevens Village and Manley.
20(A) | Caribou | Residents of Cantwell, Nenana, and those domiciled between milepost 216 and 239 of the Parks Highway. No subsistence priority for residents of households of the Denali National Park Headquarters.
20(B) | Caribou | Residents of Unit 20(B), Nenana, and Tanana.
20(C) | Caribou | Residents of Unit 20(C) living east of the Teklanika River, residents of Cantwell, Lake Minchumina, Manley Hot Springs, Minto, Nenana, Nikolai, Tanana, Talida, and those domiciled between milepost 216 and 239 of the Parks Highway 20(D) and (E) Caribou and between milepost 300 and 309. No subsistence priority for residents of households of the Denali National Park Headquarters.
20(D) and (E) | Caribou | Residents of 20(D), 20(E), and Unit 12 north of the Wrangell-St. Elias National Park and Preserve.
20(F) | Caribou | Residents of 20(F), 25(D), and Manley.
20(A) | Moose | Residents of Cantwell, Minto, and Nenana, McKinley Village, the area along the Parks Highway between mileposts 216 and 239,except no subsistence for residents of households of the Denali National Park Headquarters.
20(B) | Moose | Minto Flats Management Area—residents of Minto and Nenana.
20(B) | Moose | Remainder—residents of Unit 20(B), and residents of Nenana and Tanana.
20(C) | Moose | Residents of Unit 20(C) (except that portion within Denali National Park and Preserve and that portion east of the Teklanika River), and residents of Cantwell, Manley, Minto, Nenana, the Parks Highway from milepost 300-309, Nikolai, Tanana, Telida, McKinley Village, and the area along the Parks Highway between mileposts 216 and 239. No subsistence for residents of households of the Denali National Park Headquarters.
20(D) | Moose | Residents of Unit 20(D) and residents of Tanacross.
20(F) | Moose | Residents of Unit 20(F), Manley, Minto, and Stevens Village.
20(F) | Wolf | Residents of Unit 20(F) and residents of Stevens Village and Manley.
20, remainder | Wolf | Residents of Units 6, 9, 10 (Unimak Island only), 11-13 and the residents of Chickaloon and 16-26.
20(D) | Grouse, (Spruce, Ruffed and Sharp-tailed) | Residents of Units 11, 13 and the residents of Chickaloon, 15, 16, 20(D), 22, and 23.
20(D) | Ptarmigan (Rock and Willow) | Residents of Units 11, 13 and the residents of Chickaloon, 15, 16, 20(D), 22, and 23.
Unit 21 | Brown Bear | Residents of Units 21 and 23.
21(A) | Caribou | Residents of Units 21(A), 21(D), 21(E), Aniak, Chuathbaluk, Crooked Creek, McGrath, and Takotna.
21(B) & (C) | Caribou | Residents of Units 21(B), 21(C), 21(D), and Tanana.
21(D) | Caribou | Residents of Units 21(B), 21(C), 21(D), and Huslia.
21(E) | Caribou | Residents of Units 21(A), 21(E) and Aniak, Chuathbaluk, Crooked Creek, McGrath, and Takotna.
21(A) | Moose | Residents of Units 21(A), (E), Takotna, McGrath, Aniak, and Crooked Creek.
21(B) and (C) | Moose | Residents of Units 21(B) and (C), Tanana, Ruby, and Galena.
21(D) | Moose | Residents of Units 21(D), Huslia, and Ruby.
21(E) | Moose | Residents of Unit 21(E) and residents of Russian Mission.
21 | Wolf | Residents of Units 6, 9, 10 (Unimak Island only), 11-13 and the residents of Chickaloon, and 16-26.
Unit 22(A) | Black Bear | Residents of Unit 22(A) and Koyuk.
22(B) | Black Bear | Residents of Unit 22(B).
22(C), (D), and (E) | Black Bear | No Federal subsistence priority.
22 | Brown Bear | Residents of Unit 22.
22(A) | Caribou | Residents of Unit 21(D) west of the Koyukuk and Yukon Rivers, and residents of Units 22 (except residents of St. Lawrence Island), 23, 24, and residents of Kotlik, Emmonak, Hooper Bay, Scammon Bay, Chevak, Marshall, Mountain Village, Pilot Station, Pitka's Point, Russian Mission, St. Marys, Nunam Iqua, and Alakanuk.
22, remainder | Caribou | Residents of Unit 21(D) west of the Koyukuk and Yukon Rivers, and residents of Units 22 (except residents of St. Lawrence Island), 23, 24.
22 | Moose | Residents of Unit 22.
22(B) | Muskox | Residents of Unit 22(B).
22(C) | Muskox | Residents of Unit 22(C).
22(D) | Muskox | Residents of Unit 22(D) excluding St. Lawrence Island.
22(E) | Muskox | Residents of Unit 22(E) excluding Little Diomede Island.
22 | Wolf | Residents of Units 23, 22, 21(D) north and west of the Yukon River, and residents of Kotlik.
22 | Grouse (Spruce) | Residents of Units 11, 13 and the residents of Chickaloon, 15, 16, 20(D), 22, and 23.
22 | Ptarmigan (Rock and Willow) | Residents of Units 11, 13 and the residents of Chickaloon, 15, 16, 20(D), 22, and 23.
Unit 23 | Black Bear | Residents of Unit 23, Alatna, Allakaket, Bettles, Evansville, Galena, Hughes, Huslia, and Koyukuk.
23 | Brown Bear | Residents of Units 21 and 23.
23 | Caribou | Residents of Unit 21(D) west of the Koyukuk and Yukon Rivers, residents of Galena, and residents of Units 22, 23, 24 including residents of Wiseman but not including other residents of the Dalton Highway Corridor Management Area, and 26(A).
23 | Moose | Residents of Unit 23.
23, south of Kotzebue Sound and west of and including the Buckland River drainage | Muskox | Residents of Unit 23 South of Kotzebue Sound and west of and including the Buckland River drainage.
23, remainder | Muskox | Residents of Unit 23 east and north of the Buckland River drainage.
23 | Sheep | Residents of Point Lay and Unit 23 north of the Arctic Circle.
23 | Wolf | Residents of Units 6, 9, 10 (Unimak Island only), 11-13 and the residents of Chickaloon, and 16-26.
23 | Grouse (Spruce and Ruffed) | Residents of Units 11, 13 and the residents of Chickaloon, 15, 16, 20(D), 22, and 23.
23 | Ptarmigan (Rock, Willow and White-tailed) | Residents of Units 11, 13 and the residents of Chickaloon, 15, 16, 20(D), 22, and 23.
Unit 24, that portion south of Caribou Mountain, and within the public lands composing or immediately adjacent to the Dalton Highway Corridor Management Area | Black Bear | Residents of Stevens Village and residents of Unit 24 and Wiseman, but not including any other residents of the Dalton Highway Corridor Management Area.
24, remainder | Black Bear | Residents of Unit 24 and Wiseman, but not including any other residents of the Dalton Highway Corridor Management Area.
24, that portion south of Caribou Mountain, and within the public lands composing or immediately adjacent to the Dalton Highway Corridor Management Area | Brown Bear | Residents of Stevens Village and residents of Unit 24 and Wiseman, but not including any other residents of the Dalton Highway Corridor Management Area.
24, remainder | Brown Bear | Residents of Unit 24 including Wiseman, but not including any other residents of the Dalton Highway Corridor Management Area.
24 | Caribou | Residents of Unit 24, Galena, Kobuk, Koyukuk, Stevens Village, and Tanana.
24 | Moose | Residents of Unit 24, Koyukuk, and Galena.
24 | Sheep | Residents of Unit 24 residing north of the Arctic Circle and residents of Allakaket, Alatna, Hughes, and Huslia.
24 | Wolf | Residents of Units 6, 9, 10 (Unimak Island only), 11-13 and the residents of Chickaloon and 16-26.
Unit 25(D) | Black Bear | Residents of Unit 25(D).
25(D) | Brown Bear | Residents of Unit 25(D).
25, remainder | Brown Bear | Residents of Unit 25 and Eagle.
25(D) | Caribou | Residents of 20(F), 25(D), and Manley.
25(A) | Moose | Residents of Units 25(A) and 25(D).
25(D) West | Moose | Residents of Unit 25(D) west.
25(D), remainder | Moose | Residents of remainder of Unit 25.
25(A) | Sheep | Residents of Arctic Village, Chalkytsik, Fort Yukon, Kaktovik, and Venetie.
25(B) and (C) | Sheep | No Federal subsistence priority.
25(D) | Wolf | Residents of Unit 25(D).
25, remainder | Wolf | Residents of Units 6, 9, 10 (Unimak Island only), 11-13 and the residents of Chickaloon and 16-26.
Unit 26 | Brown Bear | Residents of Unit 26 (except the Prudhoe Bay-Deadhorse Industrial Complex) and residents of Anaktuvuk Pass and Point Hope.
26(A) | Caribou | Residents of Unit 26, Anaktuvuk Pass and Point Hope.
26(B) | Caribou | Residents of Unit 26, Anaktuvuk Pass, Point Hope, and Wiseman.
26(C) | Caribou | Residents of Unit 26, Anaktuvuk Pass and Point Hope.
26 | Moose | Residents of Unit 26, (except the Prudhoe Bay-Deadhorse Industrial Complex), and residents of Point Hope and Anaktuvuk Pass.
26(A) | Muskox | Residents of Anaktuvuk Pass, Atqasuk, Barrow, Nuiqsut, Point Hope, Point Lay, and Wainwright.
26(B) | Muskox | Residents of Anaktuvuk Pass, Nuiqsut, and Kaktovik.
26(C) | Muskox | Residents of Kaktovik.
26(A) | Sheep | Residents of Unit 26, Anaktuvuk Pass, and Point Hope.
26(B) | Sheep | Residents of Unit 26, Anaktuvuk Pass, Point Hope, and Wiseman.
26(C) | Sheep | Residents of Unit 26, Anaktuvuk Pass, Arctic Village, Chalkytsik, Fort Yukon, Point Hope, and Venetie.
26 | Wolf | Residents of Units 6, 9, 10 (Unimak Island only), 11-13 and the residents of Chickaloon and 16-26.

* * * * *

Subpart D—Subsistence Taking of Fish and Wildlife

3. In Subpart D of 36 CFR part 242 and 50 CFR part 100, § _.25 is revised to read as follows:

§ _.25 Subsistence taking of fish, wildlife, and shellfish: general regulations.

(a) Definitions. The following definitions shall apply to all regulations contained in this part:

Abalone iron means a flat device which is used for taking abalone and which is more than 1 inch (24 mm) in width and less than 24 inches (610 mm) in length, with all prying edges rounded and smooth.

ADF&G means the Alaska Department of Fish and Game.

Airborne means transported by aircraft.

Aircraft means any kind of airplane, glider, or other device used to transport people or equipment through the air, excluding helicopters.

Airport means an airport listed in the Federal Aviation Administration, Alaska Airman's Guide and chart supplement.

Anchor means a device used to hold a fishing vessel or net in a fixed position relative to the beach; this includes using part of the seine or lead, a ship's anchor, or being secured to another vessel or net that is anchored.

Animal means those species with a vertebral column (backbone).

Antler means one or more solid, horn-like appendages protruding from the head of a caribou, deer, elk, or moose.

Antlered means any caribou, deer, elk, or moose having at least one visible antler.

Antlerless means any caribou, deer, elk, or moose not having visible antlers attached to the skull.

Bait means any material excluding a scent lure that is placed to attract an animal by its sense of smell or taste; however, those parts of legally taken animals that are not required to be salvaged and which are left at the kill site are not considered bait.

Beach seine means a floating net which is designed to surround fish and is set from and hauled to the beach.

Bear means black bear, or brown or grizzly bear.

Bow means a longbow, recurve bow, or compound bow, excluding a crossbow, or any bow equipped with a mechanical device that holds arrows at full draw.

Broadhead means an arrowhead that is not barbed and has two or more steel cutting edges having a minimum cutting diameter of not less than seven-eighths inch.

Brow tine means a tine on the front portion of a moose antler, typically projecting forward from the base of the antler toward the nose.

Buck means any male deer.

Bull means any male moose, caribou, elk, or musk oxen.

Cast net means a circular net with a mesh size of no more than 1½ inches and weights attached to the perimeter which, when thrown, surrounds the fish and closes at the bottom when retrieved.

Char means the following species: Arctic char (Salvelinus alpinis); lake trout (Salvelinus namaycush); brook trout (Salvelinus fontinalis), and Dolly Varden (Salvelinus malma).

Closed season means the time when fish, wildlife, or shellfish may not be taken.

Crab means the following species: Red king crab (Paralithodes camshatica); blue king crab (Paralithodes platypus); brown king crab (Lithodes aequispina); Lithodes couesi; all species of tanner or snow crab (Chionoecetes spp.); and Dungeness crab (Cancer magister).

Cub bear means a brown or grizzly bear in its first or second year of life, or a black bear (including cinnamon and blue phases) in its first year of life.

Depth of net means the perpendicular distance between cork line and lead line expressed as either linear units of measure or as a number of meshes, including all of the web of which the net is composed.

Designated hunter or fisherman means a Federally qualified hunter or fisherman who may take all or a portion of another Federally qualified hunter's or fisherman's harvest limit(s) only under situations approved by the Board.

Dip net means a bag-shaped net supported on all sides by a rigid frame; the maximum straight-line distance between any two points on the net frame, as measured through the net opening, may not exceed 5 feet; the depth of the bag must be at least one-half of the greatest straight-line distance, as measured through the net opening; no portion of the bag may be constructed of webbing that exceeds a stretched measurement of 4.5 inches; the frame must be attached to a single rigid handle and be operated by hand.

Diving gear means any type of hard hat or skin diving equipment, including SCUBA equipment; a tethered, umbilical, surface-supplied unit; or snorkel.

Drainage means all of the lands and waters comprising a watershed, including tributary rivers, streams, sloughs, ponds, and lakes, which contribute to the water supply of the watershed.

Drift gillnet means a drifting gillnet that has not been intentionally staked, anchored, or otherwise fixed in one place.

Edible meat means the breast meat of ptarmigan and grouse, and, those parts of caribou, deer, elk, mountain goat, moose, musk oxen, and Dall sheep that are typically used for human consumption, which are: The meat of the ribs, neck, brisket, front quarters as far as the distal (bottom) joint of the radius-ulna (knee), hindquarters as far as the distal joint (bottom) of the tibia-fibula (hock) and that portion of the animal between the front and hindquarters; however, edible meat of species listed in this definition does not include: Meat of the head, meat that has been damaged and made inedible by the method of taking, bones, sinew, and incidental meat reasonably lost as a result of boning or close trimming of the bones, or viscera. For black bear, brown and grizzly bear, “edible meat” means the meat of the front quarter and hindquarters and meat along the backbone (backstrap).

Federally-qualified subsistence user means a rural Alaska resident qualified to harvest fish or wildlife on Federal public lands in accordance with the Federal Subsistence Management Regulations in this part.

Field means an area outside of established year-round dwellings, businesses, or other developments usually associated with a city, town, or village; field does not include permanent hotels or roadhouses on the State road system or at State or Federally maintained airports.

Fifty-inch (50-inch) moose means a bull moose with an antler spread of 50 inches or more.

Fish wheel means a fixed, rotating device, with no more than four baskets on a single axle, for catching fish, which is driven by river current or other means.

Freshwater of streams and rivers means the line at which freshwater is separated from saltwater at the mouth of streams and rivers by a line drawn headland to headland across the mouth as the waters flow into the sea.

Full curl horn means the horn of a Dall sheep ram; the tip of which has grown through 360 degrees of a circle described by the outer surface of the horn, as viewed from the side, or that both horns are broken, or that the sheep is at least 8 years of age as determined by horn growth annuli.

Furbearer means a beaver, coyote, arctic fox, red fox, lynx, marten, mink, weasel, muskrat, river (land) otter, red squirrel, flying squirrel, ground squirrel, marmot, wolf, or wolverine.

Fyke net means a fixed, funneling (fyke) device used to entrap fish.

Gear means any type of fishing apparatus.

Gillnet means a net primarily designed to catch fish by entanglement in a mesh that consists of a single sheet of webbing which hangs between cork line and lead line, and which is fished from the surface of the water.

Grappling hook means a hooked device with flukes or claws, which is attached to a line and operated by hand.

Groundfish or bottomfish means any marine fish except halibut, osmerids, herring and salmonids.

Grouse collectively refers to all species found in Alaska, including spruce grouse, ruffed grouse, blue grouse, and sharp-tailed grouse.

Hand purse seine means a floating net which is designed to surround fish and which can be closed at the bottom by pursing the lead line; pursing may only be done by hand power, and a free-running line through one or more rings attached to the lead line is not allowed.

Handicraft means a finished product in which the shape and appearance of the natural material has been substantially changed by the skillful use of hands, such as sewing, carving, etching, scrimshawing, painting, or other means, and which has substantially greater monetary and aesthetic value than the unaltered natural material alone.

Handline means a hand-held and operated line, with one or more hooks attached.

Hare or hares collectively refers to all species of hares (commonly called rabbits) in Alaska and includes snowshoe hare and tundra hare.

Harvest limit means the number of any one species permitted to be taken by any one person or designated group, per specified time period, in a Unit or portion of a Unit in which the taking occurs even if part or all of the harvest is preserved. A fish, when landed and killed by means of rod and reel becomes part of the harvest limit of the person originally hooking it.

Herring pound means an enclosure used primarily to contain live herring over extended periods of time.

Highway means the driveable surface of any constructed road.

Household means that group of people residing in the same residence.

Hung measure means the maximum length of the cork line when measured wet or dry with traction applied at one end only.

Hunting means the taking of wildlife within established hunting seasons with archery equipment or firearms, and as authorized by a required hunting license.

Hydraulic clam digger means a device using water or a combination of air and water used to harvest clams.

Jigging gear means a line or lines with lures or baited hooks, drawn through the water by hand, and which are operated during periods of ice cover from holes cut in the ice, or from shore ice and which are drawn through the water by hand.

Lead means either a length of net employed for guiding fish into a seine, set gillnet, or other length of net, or a length of fencing employed for guiding fish into a fish wheel, fyke net, or dip net.

Legal limit of fishing gear means the maximum aggregate of a single type of fishing gear permitted to be used by one individual or boat, or combination of boats in any particular regulatory area, district, or section.

Long line means either a stationary, buoyed, or anchored line, or a floating, free-drifting line with lures or baited hooks attached.

Marmot collectively refers to all species of marmot that occur in Alaska including the hoary marmot, Alaska marmot, and the woodchuck.

Mechanical clam digger means a mechanical device used or capable of being used for the taking of clams.

Mechanical jigging machine means a mechanical device with line and hooks used to jig for halibut and bottomfish, but does not include hand gurdies or rods with reels.

Mile means a nautical mile when used in reference to marine waters or a statute mile when used in reference to fresh water.

Motorized vehicle means a motor-driven land, air, or water conveyance.

Open season means the time when wildlife may be taken by hunting or trapping; an open season includes the first and last days of the prescribed season period.

Otter means river or land otter only, excluding sea otter.

Permit hunt means a hunt for which State or Federal permits are issued by registration or other means.

Poison means any substance that is toxic or poisonous upon contact or ingestion.

Possession means having direct physical control of wildlife at a given time or having both the power and intention to exercise dominion or control of wildlife either directly or through another person or persons.

Possession limit means the maximum number of fish, grouse, or ptarmigan a person or designated group may have in possession if they have not been canned, salted, frozen, smoked, dried, or otherwise preserved so as to be fit for human consumption after a 15-day period.

Pot means a portable structure designed and constructed to capture and retain live fish and shellfish in the water.

Ptarmigan collectively refers to all species found in Alaska, including white-tailed ptarmigan, rock ptarmigan, and willow ptarmigan.

Purse seine means a floating net which is designed to surround fish and which can be closed at the bottom by means of a free-running line through one or more rings attached to the lead line.

Ram means a male Dall sheep.

Registration permit means a permit that authorizes hunting and is issued to a person who agrees to the specified hunting conditions. Hunting permitted by a registration permit begins on an announced date and continues throughout the open season, or until the season is closed by Board action. Registration permits are issued in the order applications are received and/or are based on priorities as determined by 50 CFR 100.17 and 36 CFR 242.17.

Ring net means a bag-shaped net suspended between no more than two frames; the bottom frame may not be larger in perimeter than the top frame; the gear must be nonrigid and collapsible so that free movement of fish or shellfish across the top of the net is not prohibited when the net is employed.

Rockfish means all species of the genus Sebastes.

Rod and reel means either a device upon which a line is stored on a fixed or revolving spool and is deployed through guides mounted on a flexible pole, or a line that is attached to a pole. In either case, bait or an artificial fly or lure is used as terminal tackle. This definition does not include the use of rod and reel gear for snagging.

Salmon means the following species: pink salmon (Oncorhynchus gorbuscha); sockeye salmon (Oncorhynchus nerka); chinook salmon (Oncorhynchus tshawytscha); coho salmon (Oncorhynchus kisutch); and chum salmon (Oncorhynchus keta).

Salmon stream means any stream used by salmon for spawning, rearing, or for traveling to a spawning or rearing area.

Salvage means to transport the edible meat, skull, or hide, as required by regulation, of a regulated fish, wildlife, or shellfish to the location where the edible meat will be consumed by humans or processed for human consumption in a manner which saves or prevents the edible meat from waste, and preserves the skull or hide for human use.

Scallop dredge means a dredge-like device designed specifically for and capable of taking scallops by being towed along the ocean floor.

Sea urchin rake means a hand-held implement, no longer than 4 feet, equipped with projecting prongs used to gather sea urchins.

Sealing means placing a mark or tag on a portion of a harvested animal by an authorized representative of the ADF&G; sealing includes collecting and recording information about the conditions under which the animal was harvested, and measurements of the specimen submitted for sealing or surrendering a specific portion of the animal for biological information.

Set gillnet means a gillnet that has been intentionally set, staked, anchored, or otherwise fixed.

Seven-eighths curl horn means the horn of a male Dall sheep, the tip of which has grown through seven-eights (315 degrees) of a circle, described by the outer surface of the horn, as viewed from the side, or with both horns broken.

Shovel means a hand-operated implement for digging clams.

Skin, hide, pelt, or fur means any tanned or untanned external covering of an animal's body; excluding bear. The skin, hide, fur, or pelt of a bear shall mean the entire external covering with claws attached.

Spear means a shaft with a sharp point or fork-like implement attached to one end which is used to thrust through the water to impale or retrieve fish and which is operated by hand.

Spike-fork moose means a bull moose with only one or two tines on either antler; male calves are not spike-fork bulls.

Stretched measure means the average length of any series of 10 consecutive meshes measured from inside the first knot and including the last knot when wet; the 10 meshes, when being measured, shall be an integral part of the net, as hung, and measured perpendicular to the selvages; measurements shall be made by means of a metal tape measure while the 10 meshes being measured are suspended vertically from a single peg or nail, under 5-pound weight.

Subsistence fishing permit means a permit issued by the Alaska Department of Fish and Game or the Federal Subsistence Board.

Take or Taking means to fish, pursue, hunt, shoot, trap, net, capture, collect, kill, harm, or attempt to engage in any such conduct.

Tine or antler point refers to any point on an antler, the length of which is greater than its width and is at least one inch.

To operate fishing gear means any of the following: To deploy gear in the water; to remove gear from the water; to remove fish or shellfish from the gear during an open season or period; or to possess a gillnet containing fish during an open fishing period, except that a gillnet which is completely clear of the water is not considered to be operating for the purposes of minimum distance requirement.

Transportation means to ship, convey, carry, or transport by any means whatever and deliver or receive for such shipment, conveyance, carriage, or transportation.

Trapping means the taking of furbearers within established trapping seasons and with a required trapping license.

Trawl means a bag-shaped net towed through the water to capture fish or shellfish, and includes beam, otter, or pelagic trawl.

Troll gear means a power gurdy troll gear consisting of a line or lines with lures or baited hooks which are drawn through the water by a power gurdy; hand troll gear consisting of a line or lines with lures or baited hooks which are drawn through the water from a vessel by hand trolling, strip fishing, or other types of trolling, and which are retrieved by hand power or hand-powered crank and not by any type of electrical, hydraulic, mechanical, or other assisting device or attachment; or dinglebar troll gear consisting of one or more lines, retrieved and set with a troll gurdy or hand troll gurdy, with a terminally attached weight from which one or more leaders with one or more lures or baited hooks are pulled through the water while a vessel is making way.

Trout means the following species: Cutthroat trout (Oncorhynchus clarki) and rainbow/steelhead trout (Oncorhynchus mykiss).

Unclassified wildlife or unclassified species means all species of animals not otherwise classified by the definitions in this paragraph (a), or regulated under other Federal law as listed in paragraph (i) of this section.

Ungulate means any species of hoofed mammal, including deer, caribou, elk, moose, mountain goat, Dall sheep, and musk oxen.

Unit means one of the 26 geographical areas in the State of Alaska known as Game Management Units, or GMU, and collectively listed in this section as Units.

Wildlife means any hare (rabbit), ptarmigan, grouse, ungulate, bear, furbearer, or unclassified species and includes any part, product, egg, or offspring thereof, or carcass or part thereof.

(b) Taking fish, wildlife, or shellfish for subsistence uses by a prohibited method is a violation of this part. Seasons are closed unless opened by Federal regulation. Hunting, trapping, or fishing during a closed season or in an area closed by this part is prohibited. You may not take for subsistence fish, wildlife, or shellfish outside established Unit or Area seasons, or in excess of the established Unit or Area harvest limits, unless otherwise provided for by the Board. You may take fish, wildlife, or shellfish under State regulations on public lands, except as otherwise restricted at §§ _.26 through _.28. Unit/Area-specific restrictions or allowances for subsistence taking of fish, wildlife, or shellfish are identified at §§ _.26 through _.28.

(c) Harvest limits. (1) Harvest limits authorized by this section and harvest limits established in State regulations may not be accumulated.

(2) Fish, wildlife, or shellfish taken by a designated individual for another person pursuant to § .10(d)(5)(ii), counts toward the individual harvest limit of the person for whom the fish, wildlife, or shellfish is taken.

(3) A harvest limit applies to the number of fish, wildlife, or shellfish that can be taken during a regulatory year; however, harvest limits for grouse, ptarmigan, and caribou (in some Units) are regulated by the number that may be taken per day. Harvest limits of grouse and ptarmigan are also regulated by the number that can be held in possession.

(4) Unless otherwise provided, any person who gives or receives fish, wildlife, or shellfish shall furnish, upon a request made by a Federal or State agent, a signed statement describing the following: Names and addresses of persons who gave and received fish, wildlife, or shellfish, the time and place that the fish, wildlife, or shellfish was taken, and identification of species transferred. Where a qualified subsistence user has designated another qualified subsistence user to take fish, wildlife, or shellfish on his or her behalf in accordance with §_.10(d)(5)(ii), the permit shall be furnished in place of a signed statement.

(d) Fishing by designated harvest permit. (1) Any species of fish that may be taken by subsistence fishing under this part may be taken under a designated harvest permit.

(2) If you are a Federally-qualified subsistence user, you (beneficiary) may designate another Federally-qualified subsistence user to take fish on your behalf. The designated fisherman must obtain a designated harvest permit prior to attempting to harvest fish and must return a completed harvest report. The designated fisherman may fish for any number of beneficiaries but may have no more than two harvest limits in his/her possession at any one time.

(3) The designated fisherman must have in possession a valid designated fishing permit when taking, attempting to take, or transporting fish taken under this section, on behalf of a beneficiary.

(4) The designated fisherman may not fish with more than one legal limit of gear.

(5) You may not designate more than one person to take or attempt to take fish on your behalf at one time. You may not personally take or attempt to take fish at the same time that a designated fisherman is taking or attempting to take fish on your behalf.

(e) Hunting by designated harvest permit. In Units 1-8, 9(D), 10-16, 18-26, if you are a Federally qualified subsistence user (recipient), you may designate another Federally qualified subsistence user to take deer, moose and caribou on your behalf unless you are a member of a community operating under a community harvest system or unless Unit specific regulations in section _.26 preclude or modify the use of the designated hunter system or allow the harvest of additional species by a designated hunter. The designated hunter must obtain a designated hunter permit and must return a completed harvest report. The designated hunter may hunt for any number of recipients but may have no more than two harvest limits in his/her possession at any one time, unless otherwise specified in Unit-Specific regulations in Section _.26.

(f) A rural Alaska resident who has been designated to take fish, wildlife, or shellfish on behalf of another rural Alaska resident in accordance with § _.10(d)(5)(ii), shall promptly deliver the fish, wildlife, or shellfish to that rural Alaska resident and may not charge the recipient for his/her services in taking the fish, wildlife, or shellfish or claim for themselves the meat or any part of the harvested fish, wildlife, or shellfish.

(g) The U.S. Fish and Wildlife Service, Office of Subsistence Management may issue a permit to harvest fish, wildlife, or shellfish for a qualifying cultural/educational program to an organization that has been granted a Federal subsistence permit for a similar event within the previous five years. A qualifying program must have instructors, enrolled students, minimum attendance requirements, and standards for successful completion of the course. Applications must be submitted to the Office of Subsistence Management 60 days prior to the earliest desired date of harvest. Permits will be issued for no more than one large mammal per culture/education camp. Large mammal species allowed to be harvested are limited to deer, moose, caribou, black bear, and mountain goat. Permits will be issued for no more than 25 fish per culture/education camp. Any animals harvested will count against any established Federal harvest quota for the area in which harvested. Appeal of a rejected request can be made to the Federal Subsistence Board. Application for an initial permit for a qualifying cultural/educational program, for a permit when the circumstances have changed significantly, when no permit has been issued within the previous five years, or when there is a request for harvest in excess of that provided in this paragraph (g), will be considered by the Federal Subsistence Board.

(h) If a subsistence fishing or hunting permit is required by this part, the following permit conditions apply unless otherwise specified in this section:

(1) You may not take more fish, wildlife, or shellfish for subsistence use than the limits set out in the permit;

(2) You must obtain the permit prior to fishing or hunting;

(3) You must have the permit in your possession and readily available for inspection while fishing, hunting, or transporting subsistence-taken fish, wildlife, or shellfish;

(4) If specified on the permit, you shall keep accurate daily records of the harvest, showing the number of fish, wildlife, or shellfish taken by species, location and date of harvest, and other such information as may be required for management or conservation purposes; and

(5) If the return of harvest information necessary for management and conservation purposes is required by a permit and you fail to comply with such reporting requirements, you are ineligible to receive a subsistence permit for that activity during the following calendar year, unless you demonstrate that failure to report was due to loss in the mail, accident, sickness, or other unavoidable circumstances.

(i) You may not possess, transport, give, receive, or barter fish, wildlife, or shellfish that was taken in violation of Federal or State statutes or a regulation promulgated thereunder.

(j) Utilization of fish, wildlife, or shellfish. (1) You may not use wildlife as food for a dog or furbearer, or as bait, except as allowed for in § _.26, § _.27, or § _.28, or except for the following:

(i) The hide, skin, viscera, head, or bones of wildlife;

(ii) The skinned carcass of a furbearer;

(iii) Squirrels, hares (rabbits), grouse, and ptarmigan; however, you may not use the breast meat of grouse and ptarmigan as animal food or bait;

(iv) Unclassified wildlife.

(2) If you take wildlife for subsistence, you must salvage the following parts for human use:

(i) The hide of a wolf, wolverine, coyote, fox, lynx, marten, mink, weasel, or otter;

(ii) The hide and edible meat of a brown bear, except that the hide of brown bears taken in the Western and Northwestern Alaska Brown Bear Management Areas and Units 5 and 9(B) need not be salvaged;

(iii) The hide and edible meat of a black bear;

(iv) The hide or meat of squirrels, hares (rabbits), marmots, beaver, muskrats, or unclassified wildlife.

(3) You must salvage the edible meat of ungulates, bear, grouse and ptarmigan.

(4) You may not intentionally waste or destroy any subsistence-caught fish or shellfish; however, you may use for bait or other purposes, whitefish, herring, and species for which bag limits, seasons, or other regulatory methods and means are not provided in this section, as well as the head, tail, fins, and viscera of legally-taken subsistence fish.

(5) Failure to salvage the edible meat may not be a violation if such failure is caused by circumstances beyond the control of a person, including theft of the harvested fish, wildlife, or shellfish, unanticipated weather conditions, or unavoidable loss to another animal.

(6) You may sell handicraft articles made from the fur of a black bear.

(k) The regulations found in this part do not apply to the subsistence taking and use of fish, wildlife, or shellfish regulated pursuant to the Fur Seal Act of 1966 (80 Stat. 1091, 16 U.S.C. 1187), the Endangered Species Act of 1973 (87 Stat. 884, 16 U.S.C. 1531-1543), the Marine Mammal Protection Act of 1972 (86 Stat. 1027; 16 U.S.C. 1361-1407), and the Migratory Bird Treaty Act (40 Stat. 755; 16 U.S.C. 703-711), or any amendments to these Acts. The taking and use of fish, wildlife, or shellfish, covered by these Acts, will conform to the specific provisions contained in these Acts, as amended, and any implementing regulations.

(l) Rural residents, nonrural residents, and nonresidents not specifically prohibited by Federal regulations from fishing, hunting, or trapping on public lands in an area, may fish, hunt, or trap on public lands in accordance with the appropriate State regulations.

4. In Subpart D of 36 CFR part 242 and 50 CFR part 100, § _.26 is added effective July 1, 2003, through June 30, 2004, to read as follows:

§ _.26 Subsistence taking of wildlife.

(a) You may take wildlife for subsistence uses by any method, except as prohibited in this section or by other Federal statute. Taking wildlife for subsistence uses by a prohibited method is a violation of this part. Seasons are closed unless opened by Federal regulation. Hunting or trapping during a closed season or in an area closed by this part is prohibited.

(b) Except for special provisions found at paragraphs (m)(1) through (26) of this section, the following methods and means of taking wildlife for subsistence uses are prohibited:

(1) Shooting from, on, or across a highway;

(2) Using any poison;

(3) Using a helicopter in any manner, including transportation of individuals, equipment, or wildlife; however, this prohibition does not apply to transportation of an individual, gear, or wildlife during an emergency rescue operation in a life-threatening situation;

(4) Taking wildlife from a motorized land or air vehicle, when that vehicle is in motion or from a motor-driven boat when the boat's progress from the motor's power has not ceased;

(5) Using a motorized vehicle to drive, herd, or molest wildlife;

(6) Using or being aided by use of a machine gun, set gun, or a shotgun larger than 10 gauge;

(7) Using a firearm other than a shotgun, muzzle-loaded rifle, rifle or pistol using center-firing cartridges, for the taking of ungulates, bear, wolves or wolverine, except that—

(i) An individual in possession of a valid trapping license may use a firearm that shoots rimfire cartridges to take wolves and wolverine;

(ii) Only a muzzle-loading rifle of .54-caliber or larger, or a .45-caliber muzzle-loading rifle with a 250-grain, or larger, elongated slug may be used to take brown bear, black bear, elk, moose, musk oxen and mountain goat;

(8) Using or being aided by use of a pit, fire, artificial light, radio communication, artificial salt lick, explosive, barbed arrow, bomb, smoke, chemical, conventional steel trap with a jaw spread over nine inches, or conibear style trap with a jaw spread over 11 inches;

(9) Using a snare, except that an individual in possession of a valid hunting license may use nets and snares to take unclassified wildlife, ptarmigan, grouse, or hares; and, individuals in possession of a valid trapping license may use snares to take furbearers;

(10) Using a trap to take ungulates or bear;

(11) Using hooks to physically snag, impale, or otherwise take wildlife; however, hooks may be used as a trap drag;

(12) Using a crossbow to take ungulates, bear, wolf, or wolverine in any area restricted to hunting by bow and arrow only;

(13) Taking of ungulates, bear, wolf, or wolverine with a bow, unless the bow is capable of casting a 7/8 inch wide broadhead-tipped arrow at least 175 yards horizontally, and the arrow and broadhead together weigh at least one ounce (437.5 grains);

(14) Using bait for taking ungulates, bear, wolf, or wolverine; except, you may use bait to take wolves and wolverine with a trapping license, and, you may use bait to take black bears with a hunting license as authorized in Unit-specific regulations at paragraphs (m)(1) through (26) of this section. Baiting of black bears is subject to the following restrictions:

(i) Before establishing a black bear bait station, you must register the site with ADF&G;

(ii) When using bait you must clearly mark the site with a sign reading “black bear bait station” that also displays your hunting license number and ADF&G assigned number;

(iii) You may use only biodegradable materials for bait; you may use only the head, bones, viscera, or skin of legally harvested fish and wildlife for bait;

(iv) You may not use bait within one-quarter mile of a publicly maintained road or trail;

(v) You may not use bait within one mile of a house or other permanent dwelling, or within one mile of a developed campground, or developed recreational facility;

(vi) When using bait, you must remove litter and equipment from the bait station site when done hunting;

(vii) You may not give or receive payment for the use of a bait station, including barter or exchange of goods;

(viii) You may not have more than two bait stations with bait present at any one time;

(15) Taking swimming ungulates, bears, wolves or wolverine;

(16) Taking or assisting in the taking of ungulates, bear, wolves, wolverine, or other furbearers before 3 a.m. following the day in which airborne travel occurred (except for flights in regularly scheduled commercial aircraft); however, this restriction does not apply to subsistence taking of deer, the setting of snares or traps, or the removal of furbearers from traps or snares;

(17) Taking a bear cub or a sow accompanied by cub(s).

(c) Wildlife taken in defense of life or property is not a subsistence use; wildlife so taken is subject to State regulations.

(d) The following methods and means of trapping furbearers, for subsistence uses pursuant to the requirements of a trapping license are prohibited, in addition to the prohibitions listed at paragraph (b) of this section:

(1) Disturbing or destroying a den, except that you may disturb a muskrat pushup or feeding house in the course of trapping;

(2) Disturbing or destroying any beaver house;

(3) Taking beaver by any means other than a steel trap or snare, except that you may use firearms in certain Units with established seasons as identified in Unit-specific regulations found in this subpart;

(4) Taking otter with a steel trap having a jaw spread of less than five and seven-eighths inches during any closed mink and marten season in the same Unit;

(5) Using a net, or fish trap (except a blackfish or fyke trap);

(6) Taking or assisting in the taking of furbearers by firearm before 3 a.m. on the day following the day on which airborne travel occurred; however, this does not apply to a trapper using a firearm to dispatch furbearers caught in a trap or snare.

(e) Possession and transportation of wildlife. (1) Except as specified in paragraph (e)(2) or (f)(1) of this section, or as otherwise provided, you may not take a species of wildlife in any Unit, or portion of a Unit, if your total take of that species already obtained anywhere in the State under Federal and State regulations equals or exceeds the harvest limit in that Unit.

(2) An animal taken under Federal or State regulations by any member of a community with an established community harvest limit for that species counts toward the community harvest limit for that species. Except for wildlife taken pursuant to §_.10(d)(5)(iii) or as otherwise provided for by this Part, an animal taken as part of a community harvest limit counts toward every community member's harvest limit for that species taken under Federal or State of Alaska regulations.

(f) Harvest limits. (1) The harvest limit specified for a trapping season for a species and the harvest limit set for a hunting season for the same species are separate and distinct. This means that if you have taken a harvest limit for a particular species under a trapping season, you may take additional animals under the harvest limit specified for a hunting season or vice versa.

(2) A brown/grizzly bear taken in a Unit or portion of a Unit having a harvest limit of one brown/grizzly bear per year counts against a one brown/grizzly bear every four regulatory years harvest limit in other Units; an individual may not take more than one brown/grizzly bear in a regulatory year.

(g) Evidence of sex and identity. (1) If subsistence take of Dall sheep is restricted to a ram, you may not possess or transport a harvested sheep unless both horns accompany the animal.

(2) If the subsistence taking of an ungulate, except sheep, is restricted to one sex in the local area, you may not possess or transport the carcass of an animal taken in that area unless sufficient portions of the external sex organs remain attached to indicate conclusively the sex of the animal, except in Units 11, 13, 19, 21, and 24 where you may possess either sufficient portions of the external sex organs (still attached to a portion of the carcass) or the head (with or without antlers attached; however, the antler stumps must remain attached), to indicate the sex of the harvested moose; however, this paragraph (g)(2) does not apply to the carcass of an ungulate that has been butchered and placed in storage or otherwise prepared for consumption upon arrival at the location where it is to be consumed.

(3) If a moose harvest limit requires an antlered bull, an antler size, or configuration restriction, you may not possess or transport the moose carcass or its parts unless both antlers accompany the carcass or its parts. If you possess a set of antlers with less than the required number of brow tines on one antler, you must leave the antlers naturally attached to the unbroken, uncut skull plate; however, this paragraph (g)(3) does not apply to a moose carcass or its parts that have been butchered and placed in storage or otherwise prepared for consumption after arrival at the place where it is to be stored or consumed.

(h) You must leave all edible meat on the bones of the front quarters and hind quarters of caribou and moose harvested in Units 9(B), 17, 18 south of the Yukon River, and 19(B) prior to October 1 until you remove the meat from the field or process it for human consumption. You must leave all edible meat on the bones of the front quarters, hind quarters, and ribs of moose harvested in Unit 21 prior to October 1 until you remove the meat from the field or process it for human consumption. You must leave all edible meat on the bones of the front quarters, hind quarters, and ribs of caribou and moose harvested in Unit 24 prior to October 1 until you remove the meat from the field or process it for human consumption. Meat of the front quarters, hind quarters, or ribs from a harvested moose or caribou may be processed for human consumption and consumed in the field; however, meat may not be removed from the bones for purposes of transport out of the field.

(i) If you take an animal that has been marked or tagged for scientific studies, you must, within a reasonable time, notify the ADF&G or the agency identified on the collar or marker, when and where the animal was taken. You also must retain any ear tag, collar, radio, tattoo, or other identification with the hide until it is sealed, if sealing is required; in all cases, you must return any identification equipment to the ADF&G or to an agency identified on such equipment.

(j) Sealing of bear skins and skulls. (1) Sealing requirements for bear shall apply to brown bears taken in all Units, except as specified in this paragraph, and black bears of all color phases taken in Units 1-7, 11-17, and 20.

(2) You may not possess or transport from Alaska, the untanned skin or skull of a bear unless the skin and skull have been sealed by an authorized representative of ADF&G in accordance with State or Federal regulations, except that the skin and skull of a brown bear taken under a registration permit in the Western Alaska Brown Bear Management Area, the Northwest Alaska Brown Bear Management Area, Unit 5, or Unit 9(B) need not be sealed unless removed from the area.

(3) You must keep a bear skin and skull together until a representative of the ADF&G has removed a rudimentary premolar tooth from the skull and sealed both the skull and the skin; however, this provision shall not apply to brown bears taken within the Western Alaska Brown Bear Management Area, the Northwest Alaska Brown Bear Management Area, Unit 5, or Unit 9(B) which are not removed from the Management Area or Unit.

(i) In areas where sealing is required by Federal regulations, you may not possess or transport the hide of a bear which does not have the penis sheath or vaginal orifice naturally attached to indicate conclusively the sex of the bear.

(ii) If the skin or skull of a bear taken in the Western Alaska Brown Bear Management Area is removed from the area, you must first have it sealed by an ADF&G representative in Bethel, Dillingham, or McGrath; at the time of sealing, the ADF&G representative shall remove and retain the skin of the skull and front claws of the bear.

(iii) If you remove the skin or skull of a bear taken in the Northwestern Alaska Brown Bear Management Area from the area or present it for commercial tanning within the Management Area, you must first have it sealed by an ADF&G representative in Barrow, Fairbanks, Galena, Nome, or Kotzebue; at the time of sealing, the ADF&G representative shall remove and retain the skin of the skull and front claws of the bear.

(iv) If you remove the skin or skull of a bear taken in Unit 5 from the area, you must first have it sealed by an ADF&G representative in Yakutat; at the time of sealing, the ADF&G representative shall remove and retain the skin of the skull and front claws of the bear.

(4) You may not falsify any information required on the sealing certificate or temporary sealing form provided by the ADF&G in accordance with State regulations.

(k) Sealing of beaver, lynx, marten, otter, wolf, and wolverine. You may not possess or transport from Alaska the untanned skin of a marten taken in Units 1-5, 7, 13(E), and 14-16 or the untanned skin of a beaver, lynx, otter, wolf, or wolverine, whether taken inside or outside the State, unless the skin has been sealed by an authorized representative of ADF&G in accordance with State regulations. In Unit 18, you must obtain an ADF&G seal for beaver skins only if they are to be sold or commercially sold.

(1) You must seal any wolf taken in Unit 2 on or before the 30th day after the date of taking.

(2) You must leave the radius and ulna of the left foreleg naturally attached to the hide of any wolf taken in Units 1-5 until the hide is sealed.

(l) If you take a species listed in paragraph (k) of this section but are unable to present the skin in person, you must complete and sign a temporary sealing form and ensure that the completed temporary sealing form and skin are presented to an authorized representative of ADF&G for sealing consistent with requirements listed in paragraph (k) of this section.

(m) You may take wildlife, outside of established season or harvest limits, for food in traditional religious ceremonies, that are part of a funerary or mortuary cycle, including memorial potlatches, under the following provisions:

(1) The harvest does not violate recognized principles of wildlife conservation and uses the methods and means allowable for the particular species published in the applicable Federal regulations. The appropriate Federal land manager will establish the number, species, sex, or location of harvest, if necessary, for conservation purposes. Other regulations relating to ceremonial harvest may be found in the unit-specific regulations in § _.26(n).

(2) No permit or harvest ticket is required for harvesting under this section; however, the harvester must be a Federally qualified subsistence user with customary and traditional use in the area where the harvesting will occur.

(3) In Units 1-26 (except for Koyukon/Gwich'in potlatch ceremonies in Units 20(F), 21, 24, or 25):

(i) A tribal chief, village council president or the chief's or president's designee for the village in which the religious ceremony will be held, or a Federally qualified subsistence user outside of a village or tribal-organized ceremony, must notify the nearest Federal land manager that a wildlife harvest will take place. The notification must include the species, harvest location, and number of animals expected to be taken.

(ii) Immediately after the wildlife is taken, the tribal chief, village council president or designee, or other Federally qualified subsistence user must create a list of the successful hunters and maintain these records including the name of the decedent for whom the ceremony will be held. If requested, this information must be available to an authorized representative of the Federal land manager.

(iii) The tribal chief, village council president or designee, or other Federally qualified subsistence user outside of the village in which the religious ceremony will be held must report to the Federal land manager the harvest location, species, sex, and number of animals taken as soon as practicable, but not more than 15 days after the wildlife is taken.

(4) In Units 20(F), 21, 24, and 25 (for Koyukon/Gwich'in potlatch ceremonies only):

(i) Taking wildlife outside of established season and harvest limits is authorized if it is for food for the traditional Koyukon/Gwich'in Potlatch Funerary or Mortuary ceremony and if it is consistent with conservation of healthy populations.

(ii) Immediately after the wildlife is taken, the tribal chief, village council president, or the chief's or president's designee for the village in which the religious ceremony will be held must create a list of the successful hunters and maintain these records. The list must be made available, after the harvest is completed, to a Federal land manager upon request.

(iii) As soon as practical, but not more than 15 days after the harvest, the tribal chief, village council president, or designee must notify the Federal land manager about the harvest location, species, sex, and number of animals taken.

(n) Unit regulations. You may take for subsistence unclassified wildlife, all squirrel species, and marmots in all Units, without harvest limits, for the period of July 1-June 30. Unit-specific restrictions or allowances for subsistence taking of wildlife are identified at paragraphs (m)(1) through (26) of this section.

(1) Unit 1. Unit 1 consists of all mainland drainages from Dixon Entrance to Cape Fairweather, and those islands east of the center line of Clarence Strait from Dixon Entrance to Caamano Point, and all islands in Stephens Passage and Lynn Canal north of Taku Inlet:

(i) Unit 1(A) consists of all drainages south of the latitude of Lemesurier Point including all drainages into Behm Canal, excluding all drainages of Ernest Sound;

(ii) Unit 1(B) consists of all drainages between the latitude of Lemesurier Point and the latitude of Cape Fanshaw including all drainages of Ernest Sound and Farragut Bay, and including the islands east of the center lines of Frederick Sound, Dry Strait (between Sergief and Kadin Islands), Eastern Passage, Blake Channel (excluding Blake Island), Ernest Sound, and Seward Passage;

(iii) Unit 1(C) consists of that portion of Unit 1 draining into Stephens Passage and Lynn Canal north of Cape Fanshaw and south of the latitude of Eldred Rock including Berners Bay, Sullivan Island, and all mainland portions north of Chichagof Island and south of the latitude of Eldred Rock, excluding drainages into Farragut Bay;

(iv) Unit 1(D) consists of that portion of Unit 1 north of the latitude of Eldred Rock, excluding Sullivan Island and the drainages of Berners Bay;

(v) In the following areas, the taking of wildlife for subsistence uses is prohibited or restricted on public lands:

(A) Public lands within Glacier Bay National Park are closed to all taking of wildlife for subsistence uses;

(B) Unit 1(A)—in the Hyder area, the Salmon River drainage downstream from the Riverside Mine, excluding the Thumb Creek drainage, is closed to the taking of bear;

(C) Unit 1(B)—the Anan Creek drainage within one mile of Anan Creek downstream from the mouth of Anan Lake, including the area within a one-mile radius from the mouth of Anan Creek Lagoon, is closed to the taking of black bear and brown bear;

(D) Unit 1(C):

(1) You may not hunt within one-fourth mile of Mendenhall Lake, the U.S. Forest Service Mendenhall Glacier Visitor's Center, and the Center's parking area;

(2) You may not take mountain goat in the area of Mt. Bullard bounded by the Mendenhall Glacier, Nugget Creek from its mouth to its confluence with Goat Creek, and a line from the mouth of Goat Creek north to the Mendenhall Glacier;

(vi) You may not trap furbearers for subsistence uses in Unit 1(C), Juneau area, on the following public lands:

(A) A strip within one-quarter mile of the mainland coast between the end of Thane Road and the end of Glacier Highway at Echo Cove;

(B) That area of the Mendenhall Valley bounded on the south by the Glacier Highway, on the west by the Mendenhall Loop Road and Montana Creek Road and Spur Road to Mendenhall Lake, on the north by Mendenhall Lake, and on the east by the Mendenhall Loop Road and Forest Service Glacier Spur Road to the Forest Service Visitor Center;

(C) That area within the U.S. Forest Service Mendenhall Glacier Recreation Area;

(D) A strip within one-quarter mile of the following trails as designated on U.S. Geological Survey maps: Herbert Glacier Trail, Windfall Lake Trail, Peterson Lake Trail, Spaulding Meadows Trail (including the loop trail), Nugget Creek Trail, Outer Point Trail, Dan Moller Trail, Perseverance Trail, Granite Creek Trail, Mt. Roberts Trail and Nelson Water Supply Trail, Sheep Creek Trail, and Point Bishop Trail;

(vii) Unit-specific regulations:

(A) You may hunt black bear with bait in Units 1(A), 1(B), and 1(D) between April 15 and June 15;

(B) You may not shoot ungulates, bear, wolves, or wolverine from a boat, unless you are certified as disabled.

Harvest limits | Open season
Hunting
Black Bear:
2 bears, no more than one may be a blue or glacier bear | Sept. 1-June 30.
Brown Bear:
1 bear every four regulatory years by State registration permit only | Sept. 15-Dec. 31.
| Mar. 15-May 31.
Deer:
Unit 1(A)-4 antlered deer | Aug. 1-Dec. 31.
Unit 1(B)-2 antlered deer | Aug. 1-Dec. 31.
Unit 1(C)-4 deer; however, antlerless deer may be taken only from Sept. 15-Dec. 31 | Aug. 1-Dec. 31.
Goat:
Unit 1(A)-Revillagigedo Island only | No open season.
Unit 1(B)-that portion north of LeConte Bay. 1 goat by State registration permit only; the taking of kids or nannies accompanied by kids is prohibited | Aug. 1-Dec. 31.
Unit 1(A) and 1(B), that portion on the Cleveland Peninsula south of the divide between Yes Bay and Santa Anna Inlet | No open season.
Unit 1(A) and Unit 1(B)-remainder-2 goats; a State registration permit will be required for the taking of the first goat and a Federal registration permit for the taking of a second goat. The taking of kids or nannies accompanied by kids is prohibited | Aug. 1-Dec. 31.
Unit 1(C)-that portion draining into Lynn Canal and Stephens Passage between Antler River and Eagle Glacier and River, and all drainages of the Chilkat Range south of the Endicott River-1 goat by State registration permit only | Oct. 1-Nov. 30.
Unit 1(C)-that portion draining into Stephens Passage and Taku Inlet between Eagle Glacier and River and Taku Glacier | No open season.
Unit 1(C)-remainder-1 goat by State registration permit only | Aug. 1-Nov. 30.
Unit 1(D)-that portion lying north of the Katzehin River and northeast of the Haines highway-1 goat by State registration permit only | Sept. 15-Nov. 30.
Unit 1(D)-that portion lying between Taiya Inlet and River and the White Pass and Yukon Railroad | No open season.
Unit 1(D)-remainder-1 goat by State registration permit only | Aug. 1-Dec. 31.
Moose:
Unit 1(A)-1 antlered bull by Federal registration permit | Sept. 5-Oct. 15.
Unit 1(B)-1 antlered bull with spike-fork or 50-inch antlers or 3 or more brow tines on either antler, by State registration permit only | Sept. 15-Oct. 15.
Unit 1(C), that portion south of Point Hobart including all Port Houghton drainages-1 antlered bull with spike-fork or 50-inch antlers or 3 or more brow tines on either antler, by State registration permit only | Sept. 15-Oct. 15.
Unit 1(C)-remainder, excluding drainages of Berners Bay-1 antlered bull by State registration permit only | Sept. 15-Oct. 15.
Unit 1(D) | No open season.
Coyote:
2 coyotes | Sept. 1-Apr. 30.
Fox, Red (including Cross, Black, and Silver Phases):
2 foxes | Nov. 1-Feb. 15.
Hare (Snowshoe):
5 hares per day | Sept. 1-Apr. 30.
Lynx:
2 lynx | Dec. 1-Feb. 15.
Wolf:
5 wolves | Aug. 1-Apr. 30.
Wolverine:
1 wolverine | Nov. 10-Feb. 15.
Grouse (Spruce, Blue, and Ruffed):
5 per day, 10 in possession | Aug. 1-May 15.
Ptarmigan (Rock, Willow, and White-tailed):
20 per day, 40 in possession | Aug. 1-May 15.
Trapping
Beaver:
Unit 1(A), (B), and (C)-No limit | Dec. 1-May 15.
Coyote:
No limit | Dec. 1-Feb. 15.
Fox, Red (including Cross, Black, and Silver Phases):
No limit | Dec. 1-Feb. 15.
Lynx:
No limit | Dec. 1-Feb. 15.
Marten:
No limit | Dec. 1-Feb. 15.
Mink and Weasel:
No limit | Dec. 1-Feb. 15.
Muskrat:
No limit | Dec. 1-Feb. 15.
Otter:
No limit | Dec. 1-Feb. 15.
Wolf:
No limit | Nov. 10-Apr. 30.
Wolverine:
No limit | Nov. 10-Apr. 30.

(2) Unit 2. Unit 2 consists of Prince of Wales Island and all islands west of the center lines of Clarence Strait and Kashevarof Passage, south and east of the center lines of Sumner Strait, and east of the longitude of the western most point on Warren Island.

(i) Unit-specific regulations:

(A) You may use bait to hunt black bear between April 15 and June 15;

(B) You may not shoot ungulates, bear, wolves, or wolverine from a boat, unless you are certified as disabled.

(ii) [Reserved]

Harvest limits | Open season
Hunting
Black Bear: 2 bears, no more than one may be a blue or glacier bear | Sept. 1-June 30.
Deer:
4 deer by Federal registration permit; however, no more than one may be an antlerless deer. Antlerless deer may be taken only during the period Oct. 15-Dec. 31 | July 24-Dec. 31.
The Federal public lands on Prince of Wales Island are closed to hunting of deer from Aug. 1 to Aug. 21, except by Federally-qualified subsistence users
Coyote: 2 coyotes | Sept. 1-Apr. 30.
Fox, Red (including Cross, Black, and Silver Phases): 2 foxes | Nov. 1-Feb. 15.
Hare (Snowshoe): 5 hares per day | Sept. 1-Apr. 30.
Lynx: 2 lynx | Dec. 1-Feb. 15.
Wolf: wolves. The Forest Supervisor (or designee) may close the Federal hunting and trapping season in consultation with ADF&G and the Chair of the Southeast Alaska Subsistence Regional Advisory Council, when the combined Federal-State harvest quota is reached | Sept. 1-Mar. 15.
Wolverine: 1 wolverine | Nov. 10-Feb. 15.
Grouse (Spruce and Ruffed): 5 per day, 10 in possession | Aug. 1-May 15.
Ptarmigan (Rock, Willow, and White-tailed): 20 per day, 40 in possession | Aug. 1-May 15.
Trapping
Beaver: No limit | Dec. 1-May 15.
Coyote: No limit | Dec. 1-Feb. 15.
Fox, Red (including Cross, Black, and Silver Phases):
No limit | Dec. 1-Feb. 15.
Lynx: No limit | Dec. 1-Feb. 15.
Marten: No limit | Dec. 1-Feb. 15.
Mink and Weasel: No limit | Dec. 1-Feb. 15.
Muskrat: No limit | Dec. 1-Feb. 15.
Otter: No limit | Dec. 1-Feb. 15.
Wolf: No limit | Nov. 15-Mar. 15.
Wolverine: No limit | Nov. 10-Apr. 30.

(3) Unit 3. (i) Unit 3 consists of all islands west of Unit 1(B), north of Unit 2, south of the center line of Frederick Sound, and east of the center line of Chatham Strait including Coronation, Kuiu, Kupreanof, Mitkof, Zarembo, Kashevarof, Woronkofski, Etolin, Wrangell, and Deer Islands.

(ii) In the following areas, the taking of wildlife for subsistence uses is prohibited or restricted on public lands:

(A) In the Petersburg vicinity, you may not take ungulates, bear, wolves, and wolverine along a strip one-fourth mile wide on each side of the Mitkof Highway from Milepost 0 to Crystal Lake campground;

(B) You may not take black bears in the Petersburg Creek drainage on Kupreanof Island;

(C) You may not hunt in the Blind Slough draining into Wrangell Narrows and a strip one-fourth mile wide on each side of Blind Slough, from the hunting closure markers at the southernmost portion of Blind Island to the hunting closure markers one mile south of the Blind Slough bridge.

(iii) Unit-specific regulations:

(A) You may use bait to hunt black bear between April 15 and June 15;

(B) You may not shoot ungulates, bear, wolves, or wolverine from a boat, unless you are certified as disabled.

Harvest limits | Open season
Hunting
Black Bear: 2 bears, no more than one may be a blue or glacier bear | Sept. 1-June 30.
Deer:
Unit 3—Mitkof, Woewodski, and Butterworth Islands—1 antlered deer | Oct. 15-Oct. 31.
Unit 3—remainder—2 antlered deer | Aug. 1-Nov. 30.
Moose: 1 antlered bull with spike-fork or 50-inch antlers or 3 or more brow tines on either antler by State registration permit only | Sept. 15-Oct. 15.
Coyote: 2 coyotes | Sept. 1-Apr. 30.
Fox, Red (including Cross, Black, and Silver Phases): 2 foxes | Nov. 1-Feb. 15.
Hare (Snowshoe): 5 hares per day | Sept. 1-Apr. 30.
Lynx: 2 lynx | Dec. 1-Feb. 15.
Wolf: 5 wolves | Aug. 1-Apr. 30.
Wolverine: 1 wolverine | Nov. 10-Feb. 15.
Grouse (Spruce, Blue, and Ruffed): 5 per day, 10 in possession | Aug. 1-May 15.
Ptarmigan (Rock, Willow, and White-tailed): 20 per day, 40 in possession | Aug. 1-May 15.
Trapping
Beaver:
Unit 3—Mitkof Island—No limit | Dec. 1-Apr. 15.
Unit 3—except Mitkof Island—No limit | Dec. 1-May 15.
Coyote: No limit | Dec. 1-Feb. 15.
Fox, Red (including Cross, Black, and Silver Phases): No limit | Dec. 1-Feb. 15.
Lynx: No limit | Dec. 1-Feb. 15.
Marten: No limit | Dec. 1-Feb. 15.
Mink and Weasel: No limit | Dec. 1-Feb. 15.
Muskrat: No limit | Dec. 1-Feb. 15.
Otter: No limit | Dec. 1-Feb. 15.
Wolf: No limit | Nov. 10-Apr. 30.
Wolverine: No limit | Nov. 10.-Apr. 30.

(4) Unit 4. (i) Unit 4 consists of all islands south and west of Unit 1(C) and north of Unit 3 including Admiralty, Baranof, Chichagof, Yakobi, Inian, Lemesurier, and Pleasant Islands.

(ii) In the following areas, the taking of wildlife for subsistence uses is prohibited or restricted on public lands:

(A) You may not take bears in the Seymour Canal Closed Area (Admiralty Island) including all drainages into northwestern Seymour Canal between Staunch Point and the southernmost tip of the unnamed peninsula separating Swan Cove and King Salmon Bay including Swan and Windfall Islands;

(B) You may not take bears in the Salt Lake Closed Area (Admiralty Island) including all lands within one-fourth mile of Salt Lake above Klutchman Rock at the head of Mitchell Bay;

(C) You may not take brown bears in the Port Althorp Closed Area (Chichagof Island), that area within the Port Althorp watershed south of a line from Point Lucan to Salt Chuck Point (Trap Rock);

(D) You may not use any motorized land vehicle for brown bear hunting in the Northeast Chichagof Controlled Use Area (NECCUA) consisting of all portions of Unit 4 on Chichagof Island north of Tenakee Inlet and east of the drainage divide from the northwest point of Gull Cove to Port Frederick Portage, including all drainages into Port Frederick and Mud Bay;

(E) You may not use any motorized land vehicle for the taking of marten, mink, and weasel on Chichagof Island.

(iii) Unit-specific regulations:

(A) You may shoot ungulates from a boat. You may not shoot bear, wolves, or wolverine from a boat, unless you are certified as disabled;

(B) Five Federal registration permits will be issued for the taking of brown bear for educational purposes associated with teaching customary and traditional subsistence harvest and use practices. Any bear taken under an educational permit does not count in an individual's one bear every four regulatory years limit.

Harvest limits | Open season
Hunting
Brown Bear:
Unit 4—Chichagof Island south and west of a line that follows the crest of the island from Rock Point (58° N. lat., 136° 21′ W. long.) to Rodgers Point (57° 35′ N. lat., 135° 33′ W. long.) including Yakobi and other adjacent islands; Baranof Island south and west of a line which follows the crest of the island from Nismeni Point (57° 34′ N. lat., 135° 25′ W. long.) to the entrance of Gut Bay (56° 44′ N. lat., 134° 38′ W. long.) including the drainages into Gut Bay and including Kruzof and other adjacent islands—1 bear every four regulatory years by State registration permit only | Sept. 15-Dec. 31. Mar. 15-May 31.
Unit 4—remainder—1 bear every four regulatory years by State registration permit only | Sept. 15-Dec. 31. Mar. 15-May 20.
Deer: 6 deer; however, antlerless deer may be taken only from Sept. 15-Jan. 31 | Aug. 1-Jan. 31.
Goat: 1 goat by State registration permit only | Aug. 1-Dec. 31.
Coyote: 2 coyotes | Sept. 1-Apr. 30.
Fox, Red (including Cross, Black, and Silver Phases): 2 foxes | Nov. 1-Feb. 15.
Hare (Snowshoe): 5 hares per day | Sept. 1-Apr. 30.
Lynx: 2 lynx | Dec. 1-Feb. 15.
Wolf: 5 wolves | Aug. 1-Apr. 30.
Wolverine: 1 wolverine | Nov. 10-Feb. 15.
Grouse (Spruce, Blue, and Ruffed): 5 per day, 10 in possession | Aug. 1-May 15.
Ptarmigan (Rock, Willow, and White-tailed): 20 per day, 40 in possession | Aug. 1-May 15.
Trapping
Beaver: Unit 4—that portion east of Chatham Strait—No limit | Dec. 1-May 15.
Remainder of Unit 4 | No open season.
Coyote: No limit | Dec. 1-Feb. 15.
Fox, Red (including Cross, Black, and Silver Phases): No limit | Dec. 1-Feb. 15.
Lynx: No limit | Dec. 1-Feb. 15.
Marten: No limit | Dec. 1-Feb. 15.
Mink and Weasel: No limit | Dec. 1-Feb. 15.
Muskrat: No limit | Dec. 1-Feb. 15.
Otter: No limit | Dec. 1-Feb. 15.
Wolf: No limit | Nov. 10-Apr. 30.
Wolverine: No limit | Nov. 10-Apr. 30.

(5) Unit 5. (i) Unit 5 consists of all Gulf of Alaska drainages and islands between Cape Fairweather and the center line of Icy Bay, including the Guyot Hills:

(A) Unit 5(A) consists of all drainages east of Yakutat Bay, Disenchantment Bay, and the eastern edge of Hubbard Glacier, and includes the islands of Yakutat and Disenchantment Bays;

(B) Unit 5(B) consists of the remainder of Unit 5.

(ii) You may not take wildlife for subsistence uses on public lands within Glacier Bay National Park.

(iii) Unit-specific regulations:

(A) You may use bait to hunt black bear between April 15 and June 15;

(B) You may not shoot ungulates, bear, wolves, or wolverine from a boat, unless you are certified as disabled;

(C) You may hunt brown bear in Unit 5 with a Federal registration permit in lieu of a State metal locking tag; if you have obtained a Federal registration permit prior to hunting.

Harvest limits | Open season
Hunting
Black Bear:
2 bears, no more than one may be a blue or glacier bear | Sept. 1-June 30.
Brown Bear:
1 bear by Federal registration permit only | Sept. 1-May 31.
Deer:
Unit 5(A)—1 buck | Nov. 1-Nov. 30.
Unit 5(B) | No open season.
Goat:
Unit 5(A)—that area between the Hubbard Glacier and the West Nunatak Glacier on the north and east sides of Nunatak Fjord—1 goat by Federal registration permit. The Yakutat District Ranger and ADF&G will jointly announce the harvest quota prior to the season. A minimum of two goats in the harvest quota will be reserved for Federally qualified subsistence users. The season will be closed by local announcement when the quota has been taken. The harvest quota and season announcements will be made in consultation with NPS and local residents | Aug. 1-Jan. 31.
Unit 5(A)—remainder—1 goat by Federal registration permit. The Yakutat District Ranger and ADF&G will jointly announce the harvest quota prior to the season. A minimum of four goats in the harvest quota will be reserved for Federally qualified subsistence users. The season will be closed by local announcement when the quota has been taken. The harvest quota and season announcements will be made in consultation with NPS and local residents | Aug. 1-Jan. 31.
Unit 5(B)—1 goat by Federal registration permit only. | Aug. 1-Jan. 31.
Moose:
Unit 5(A), Nunatak Bench—1 moose by State registration permit only. The season will be closed when 5 moose have been taken from the Nunatak Bench. | Nov. 15-Feb. 15.
Unit 5(A), except Nunatak Bench—1 antlered bull by Federal registration permit only. The season will be closed when 60 antlered bulls have been taken from the Unit. The season will be closed in that portion west of the Dangerous River when 30 antlered bulls have been taken in that area. From Oct. 8—Oct. 21, public lands will be closed to taking of moose, except by residents of Unit 5(A) | Oct. 8-Nov. 15.
Unit 5(B)—1 antlered bull by State registration permit only. The season will be closed when 25 antlered bulls have been taken from the entirety of Unit 5(B) | Sept. 1-Dec. 15.
Coyote:
2 coyotes | Sept. 1-Apr. 30.
Fox, Red (including Cross, Black and Silver Phases):
2 foxes | Nov. 1-Feb. 15.
Hare (Snowshoe):
5 hares per day | Sept. 1-Apr. 30.
Lynx:
2 lynx | Dec. 1-Feb. 15.
Wolf:
5 wolves | Aug. 1-Apr. 30.
Wolverine:
1 wolverine | Nov. 10-Feb. 15.
Grouse (Spruce and Ruffed):
5 per day, 10 in possession | Aug. 1-May 15.
Ptarmigan (Rock, Willow, and White-tailed):
20 per day, 40 in possession | Aug. 1-May 15.
Trapping
Beaver:
No limit | Nov. 10-May 15.
Coyote:
No limit | Dec. 1-Feb. 15.
Fox, Red (including Cross, Black and Silver Phases):
No limit | Dec. 1-Feb. 15.
Lynx:
No limit | Dec. 1-Feb. 15.
Marten:
No limit | Nov. 10-Feb. 15.
Mink and Weasel:
No limit | Nov. 10-Feb. 15.
Muskrat:
No limit | Dec. 1-Feb. 15.
Otter:
No limit | Nov. 10-Feb. 15.
Wolf:
No limit | Nov. 10-Apr. 30.
Wolverine:
No limit | Nov. 10-Apr. 30.

(6) Unit 6. (i) Unit 6 consists of all Gulf of Alaska and Prince William Sound drainages from the center line of Icy Bay (excluding the Guyot Hills) to Cape Fairfield including Kayak, Hinchinbrook, Montague, and adjacent islands, and Middleton Island, but excluding the Copper River drainage upstream from Miles Glacier, and excluding the Nellie Juan and Kings River drainages:

(A) Unit 6(A) consists of Gulf of Alaska drainages east of Palm Point near Katalla including Kanak, Wingham, and Kayak Islands;

(B) Unit 6(B) consists of Gulf of Alaska and Copper River Basin drainages west of Palm Point near Katalla, east of the west bank of the Copper River, and east of a line from Flag Point to Cottonwood Point;

(C) Unit 6(C) consists of drainages west of the west bank of the Copper River, and west of a line from Flag Point to Cottonwood Point, and drainages east of the east bank of Rude River and drainages into the eastern shore of Nelson Bay and Orca Inlet;

(D) Unit 6(D) consists of the remainder of Unit 6.

(ii) For the following areas, the taking of wildlife for subsistence uses is prohibited or restricted on public lands:

(A) You may not take mountain goat in the Goat Mountain goat observation area, which consists of that portion of Unit 6(B) bounded on the north by Miles Lake and Miles Glacier, on the south and east by Pleasant Valley River and Pleasant Glacier, and on the west by the Copper River;

(B) You may not take mountain goat in the Heney Range goat observation area, which consists of that portion of Unit 6(C) south of the Copper River Highway and west of the Eyak River.

(iii) Unit-specific regulations:

(A) You may use bait to hunt black bear between April 15 and June 15;

(B) You may take coyotes in Units 6(B) and 6(C) with the aid of artificial lights;

(C) One permit will be issued to the Native Village of Eyak to take one bull moose from Federal lands in Units 6(B) or (C) for their annual Memorial/Sobriety Day potlatch;

(D) A Federally-qualified subsistence user (recipient) who is either blind, 65 years of age or older, at least 70 percent disabled, or temporarily disabled may designate another Federally-qualified subsistence user to take any moose, deer, black bear and beaver on his or her behalf in Unit 6, unless the recipient is a member of a community operating under a community harvest system. The designated hunter must obtain a designated hunter permit and must return a completed harvest report. The designated hunter may hunt for any number of recipients, but may have no more than one harvest limit in his or her possession at any one time.

Harvest limits | Open season
Hunting
Black Bear: 1 bear | Sept. 1-June 30.
Deer: 4 deer; however, antlerless deer may be taken only from Oct. 1-Dec. 31 | Aug. 1-Dec. 31.
Goats:
Unit 6(A), (B)—1 goat by State registration permit only | Aug. 20-Jan. 31.
Unit 6(C) | No open season.
Unit 6(D) (subareas RG242, RG243, RG244, RG249, RG266 and RG252 only)—1 goat by Federal registration permit only. In each of the Unit 6(D) subareas, goat seasons will be closed when harvest limits for that subarea are reached. Harvest quotas are as follows: RG242—2 goats, RG243—4 goats, RG244—2 goats, RG249—4 goats, RG266—4 goats, RG252—1 goat | Aug. 20-Jan. 31.
Unit 6(D) (subarea RG245)—Federal public lands are closed to all taking of goats | No open season.
Moose:
Unit 6(C)—1 cow by Federal registration permit only. | Sept. 1-Oct. 31.
Unit 6(C)—1 bull by Federal registration permit only. | Sept. 1-Dec. 31.
(In Unit 6(C), only one moose permit may be issued per household. A household receiving a State permit may not receive a Federal permit. The annual harvest quota will be announced by the U.S. Forest Service, Cordova Office, in consultation with ADF&G. The Federal harvest allocation will be 100% of the cow permits and 75% of the bull permits.)
Unit 6—remainder | No open season.
Beaver: 1 beaver per day, 1 in possession. | May 1-Oct. 31.
Coyote:
Unit 6(A) and (D)—2 coyotes | Sept. 1-Apr. 30.
Unit 6(B) and 6(C)—No limit | July 1-June 30.
Fox, Red (including Cross, Black and Silver Phases) | No open season.
Hare (Snowshoe): No limit | July 1-June 30.
Lynx: | No open season.
Wolf: 5 wolves | Aug. 10-Apr. 30.
Wolverine: 1 wolverine | Sept. 1-Mar. 31.
Grouse (Spruce): 5 per day, 10 in possession | Aug. 1-May 15.
Ptarmigan (Rock, Willow, and White-tailed): 20 per day, 40 in possession | Aug. 1-May 15.
Trapping
Beaver: No limit | Dec. 1-Apr. 30.
Coyote:
Unit 6(C)—south of the Copper River Highway and east of the Heney Range—No limit | Nov. 10-Apr. 30.
Unit 6(A), (B), (C)—remainder, and (D)—No limit | Nov. 10-Mar. 31.
Fox, Red (including Cross, Black and Silver Phases): No limit | Nov. 10-Feb. 28.
Marten: No limit | Nov. 10-Feb. 28.
Mink and Weasel: No limit | Nov. 10-Jan. 31.
Muskrat: No limit | Nov. 10-June 10.
Otter: No limit | Nov. 10-Mar. 31
Wolf: No limit | Nov. 10-Mar. 31.
Wolverine: No limit | Nov. 10-Feb. 28.

(7) Unit 7. (i) Unit 7 consists of Gulf of Alaska drainages between Gore Point and Cape Fairfield including the Nellie Juan and Kings River drainages, and including the Kenai River drainage upstream from the Russian River, the drainages into the south side of Turnagain Arm west of and including the Portage Creek drainage, and east of 150° W. long., and all Kenai Peninsula drainages east of 150° W. long., from Turnagain Arm to the Kenai River.

(ii) In the following areas, the taking of wildlife for subsistence uses is prohibited or restricted on public lands:

(A) You may not take wildlife for subsistence uses in the Kenai Fjords National Park;

(B) You may not hunt in the Portage Glacier Closed Area in Unit 7, which consists of Portage Creek drainages between the Anchorage-Seward Railroad and Placer Creek in Bear Valley, Portage Lake, the mouth of Byron Creek, Glacier Creek, and Byron Glacier; however, you may hunt grouse, ptarmigan, hares, and squirrels with shotguns after September 1.

(iii) Unit-specific regulations:

(A) You may use bait to hunt black bear between April 15 and June 15; except in the drainages of Resurrection Creek and its tributaries.

(B) [Reserved]

Harvest limits | Open season
Hunting
Black Bear: Unit 7—3 bears | July 1-June 30.
Moose:
Unit 7—that portion draining into Kings Bay—1 bull with spike-fork or 50-inch antlers or 3 or more brow tines on either antler may be taken by the community of Chenega Bay and also by the community of Tatitlek. Public lands are closed to the taking of moose except by eligible rural residents | Aug. 10-Sept. 20.
Unit 7—remainder | No open season.
Beaver: 1 beaver per day, 1 in possession | May 1-Oct. 10.
Coyote: No limit | Sept. 1-Apr. 30.
Fox, Red (including Cross, Black and Silver Phases): 2 foxes | Nov. 1-Feb. 15.
Hare (Snowshoe): No limit | July 1-June 30.
Wolf:
Unit 7—that portion within the Kenai National Wildlife Refuge—2 wolves | Aug. 10-Apr. 30.
Unit 7—Remainder—5 wolves | Aug. 10-Apr. 30.
Wolverine: 1 wolverine | Sept. 1-Mar. 31.
Grouse (Spruce): 10 per day, 20 in possession | Aug. 10-Mar. 31.
Grouse (Ruffed) | No open season.
Ptarmigan (Rock, Willow, and White-tailed): 20 per day, 40 in possession | Aug. 10-Mar. 31.
Trapping
Beaver: 20 beaver per season | Nov. 10-Mar. 31.
Coyote: No limit. | Nov. 10-Mar. 31.
Fox, Red (including Cross, Black and Silver Phases): No limit. | Nov. 10-Feb. 28.
Marten: No limit | Nov. 10-Jan. 31.
Mink and Weasel: No limit | Nov. 10-Jan. 31.
Muskrat: No limit | Nov. 10-May 15.
Otter: No limit | Nov. 10-Feb. 28.
Wolf: No limit | Nov. 10-Mar. 31.
Wolverine: No limit | Nov. 10-Feb. 28.

(8) Unit 8. Unit 8 consists of all islands southeast of the centerline of Shelikof Strait including Kodiak, Afognak, Whale, Raspberry, Shuyak, Spruce, Marmot, Sitkalidak, Amook, Uganik, and Chirikof Islands, the Trinity Islands, the Semidi Islands, and other adjacent islands.

(i) If you have a trapping license, you may take beaver with a firearm in Unit 8 from Nov. 10-Apr. 30.

(ii) [Reserved]

Harvest limits | Open season
Hunting
Brown Bear: 1 bear by Federal registration permit only. Up to 1 permit may be issued in Akhiok; up to 1 permit may be issued in Karluk; up to 3 permits may be issued in Larsen Bay; up to 2 permits may be issued in Old Harbor; up to 2 permits may be issued in Ouzinkie; and up to 2 permits may be issued in Port Lions | Dec. 1-Dec. 15. Apr. 1-May 15.
Deer: Unit 8—all lands within the Kodiak Archipelago within the Kodiak National Wildlife Refuge, including lands on Kodiak, Ban, Uganik, and Afognak Islands—3 deer; however, antlerless deer may be taken only from Nov. 1-Jan. 31 | Aug. 1-Jan. 31.
Elk: Kodiak, Ban, Uganik, and Afognak Islands—1 elk per household by Federal registration permit only. The season will be closed by announcement of the Refuge Manager, Kodiak National Wildlife Refuge when the combined Federal/State harvest reaches 15% of the herd | Sept. 15-Nov.30.
Fox, Red (including Cross, Black and Silver Phases): 2 foxes | Sept. 1-Feb. 15.
Hare (Snowshoe): No limit | July 1-June 30.
Ptarmigan (Rock, Willow, and White-tailed): 20 per day, 40 in possession | Aug. 10-Apr. 30.
Trapping
Beaver: 30 beaver per season | Nov. 10-Apr. 30.
Fox, Red (including Cross, Black and Silver Phases): No limit | Nov. 10-Mar. 31.
Marten: No limit | Nov. 10-Jan. 31.
Mink and Weasel: No limit | Nov. 10-Jan. 31.
Muskrat: No limit | Nov. 10-June 10.
Otter: No limit | Nov. 10-Jan. 31.

(9) Unit 9. (i) Unit 9 consists of the Alaska Peninsula and adjacent islands, including drainages east of False Pass, Pacific Ocean drainages west of and excluding the Redoubt Creek drainage; drainages into the south side of Bristol Bay, drainages into the north side of Bristol Bay east of Etolin Point, and including the Sanak and Shumagin Islands:

(A) Unit 9(A) consists of that portion of Unit 9 draining into Shelikof Strait and Cook Inlet between the southern boundary of Unit 16 (Redoubt Creek) and the northern boundary of Katmai National Park and Preserve;

(B) Unit 9(B) consists of the Kvichak River drainage;

(C) Unit 9(C) consists of the Alagnak (Branch) River drainage, the Naknek River drainage, and all land and water within Katmai National Park and Preserve;

(D) Unit 9(D) consists of all Alaska Peninsula drainages west of a line from the southernmost head of Port Moller to the head of American Bay including the Shumagin Islands and other islands of Unit 9 west of the Shumagin Islands;

(E) Unit 9(E) consists of the remainder of Unit 9.

(ii) In the following areas, the taking of wildlife for subsistence uses is prohibited or restricted on public lands:

(A) You may not take wildlife for subsistence uses in Katmai National Park;

(B) You may not use motorized vehicles, except aircraft, boats, or snowmobiles used for hunting and transporting a hunter or harvested animal parts from Aug. 1-Nov. 30 in the Naknek Controlled Use Area, which includes all of Unit 9(C) within the Naknek River drainage upstream from and including the King Salmon Creek drainage; however, you may use a motorized vehicle on the Naknek-King Salmon, Lake Camp, and Rapids Camp roads and on the King Salmon Creek trail, and on frozen surfaces of the Naknek River and Big Creek;

(C) You may hunt brown bear by State registration permit in lieu of a resident tag in the Western Alaska Brown Bear Management Area which consists of Units 9(B) except that portion within the Lake Clark National Park and Preserve, 17, 18, and those portions of 19(A) and (B) downstream of and including the Aniak River drainage, if you have obtained a State registration permit prior to hunting.

(iii) Unit-specific regulations:

(A) If you have a trapping license, you may use a firearm to take beaver in Unit 9(B) from April 1-May 31 and in the remainder of Unit 9 from April 1-April 30;

(B) In Unit 9(B), Lake Clark National Park and Preserve, residents of Nondalton, Iliamna, Newhalen, Pedro Bay, and Port Alsworth, may hunt brown bear by Federal registration permit in lieu of a resident tag; ten permits will be available with at least one permit issued in each community but no more than five permits will be issued in a single community; the season will be closed when four females or ten bears have been taken, whichever occurs first;

(C) Residents of Newhalen, Nondalton, Iliamna, Pedro Bay, and Port Alsworth may take up to a total of 10 bull moose in Unit 9(B) for ceremonial purposes, under the terms of a Federal registration permit from July 1 through June 30. Permits will be issued to individuals only at the request of a local organization. This 10 moose limit is not cumulative with that permitted for potlatches by the State;

(D) For Units 9(C) and (E) only, a Federally-qualified subsistence user (recipient) of Units 9(C) and (E) may designate another Federally-qualified subsistence user of Units 9(C) and (E) to take bull caribou on his or her behalf unless the recipient is a member of a community operating under a community harvest system. The designated hunter must obtain a designated hunter permit and must return a completed harvest report and turn over all meat to the recipient. There is no restriction on the number of possession limits the designated hunter may have in his/her possession at any one time;

(E) For Unit 9(D), a Federally-qualified subsistence user (recipient) may designate another Federally-qualified subsistence user to take caribou on his or her behalf unless the recipient is a member of a community operating under a community harvest system. The designated hunter must obtain a designated hunter permit and must return a completed harvest report. The designated hunter may hunt for any number of recipients but may have no more than four harvest limits in his/her possession at any one time;

(F) The communities of False Pass, King Cove, Cold Bay, Sand Point, and Nelson Lagoon annually may each take, from October 1 through December 31 or May 10 through May 25, one brown bear for ceremonial purposes, under the terms of a Federal registration permit. A permit will be issued to an individual only at the request of a local organization. The brown bear may be taken from either Unit 9(D) or Unit 10 (Unimak Island) only.

Harvest limits | Open season
Hunting
Black Bear:
3 bears. | July 1-June 30.
Brown Bear:
Unit 9(B)—Lake Clark National Park and Preserve—Rural residents of Nondalton, Iliamna, Newhalen, Pedro Bay, and Port Alsworth only—1 bear by Federal registration permit only | July 1-June 30.
Unit 9(B), remainder—1 bear by State registration permit only | Sept. 1-May 31.
Unit 9(E)—1 bear by Federal registration permit | Sept. 25-Dec. 31.
| Apr. 15-May 25.
Caribou:
Unit 9(A)—4 caribou; however, no more than 2 caribou may be taken Aug. 10-Sept. 30 and no more than 1 caribou may be taken Oct. 1-Nov. 30. | Aug. 10-Mar. 31,
Unit 9(C), that portion within the Alagnak River drainage—1 caribou | Aug. 1-Mar. 31.
Unit 9(C), remainder—1 bull by Federal registration permit or State Tier II permit. Federal public lands are closed to the taking of caribou except by residents of Units 9(C) and (E) | Nov. 15-Feb. 28.
Unit 9(B)—5 caribou; however, no more than 2 bulls may be taken from Oct. 1-Nov. 30. | Aug. 1-Apr. 15.
Unit 9(D)—1 caribou by Federal registration permit | Aug. 1-Sept. 30. Nov. 15-Mar. 31.
Unit 9(E)—1 bull by Federal registration permit or State Tier II permit. Federal public lands are closed to the taking of caribou except by residents of Units 9(C) and (E) | Aug. 10-Sept. 20. Nov. 1-Apr. 30.
Sheep:
Unit 9(B)—Residents of Iliamna, Newhalen, Nondalton, Pedro Bay, Port Alsworth, and residents of Lake Clark National Park and Preserve within Unit 9(B).—1 ram with ⅞ curl horn by Federal registration permit only | Aug. 10-Oct. 10.
Remainder of Unit 9—1 ram with ⅞ curl horn | Aug. 10-Sept. 20.
Moose:
Unit 9(A)—1 bull. | Sept. 1-Sept. 15.
Unit 9(B)—1 bull. | Aug. 20-Sept. 15.
| Dec. 1-Jan. 15.
Unit 9(C)—that portion draining into the Naknek River from the north—1 bull | Sept. 1-Sept. 15. Dec. 1-Dec. 31.
Unit 9(C)—that portion draining into the Naknek River from the south—1 bull. However, during the period Aug. 20-Aug. 31, bull moose may be taken by Federal registration permit only. During the December hunt, anterless moose may be taken by Federal registration permit only. The anterless season will be closed when 5 anterless moose have been taken. Public lands are closed during December for the hunting of moose, except by eligible rural Alaska residents | Aug. 20-Sept. 15. Dec. 1-Dec. 31.
Unit 9(C)—remainder—1 bull. | Sept. 1-Sept. 15.
| Dec. 15-Jan. 15.
Unit 9(D)—1 bull by Federal registration permit. Federal public lands will be closed to the harvest of moose when a total of 10 bulls have been harvested between State and Federal hunts | Dec. 15-Jan. 20.
Unit 9(E)—1 bull. | Aug. 20-Sept. 20.
| Dec. 1-Jan. 20.
Coyote:
2 coyotes | Sept. 1.-Apr. 30.
Fox, Arctic (Blue and White):
No limit | Dec. 1-Mar. 15.
Fox, Red (including Cross, Black and Silver Phases):
2 foxes | Sept. 1-Feb. 15.
Hare (Snowshoe and Tundra):
No limit | July 1-June 30.
Lynx:
2 lynx | Nov. 10-Feb. 28.
Wolf:
10 wolves | Aug. 10-Apr. 30.
Wolverine:
1 wolverine | Sept. 1-Mar. 31.
Grouse (Spruce):
15 per day, 30 in possession | Aug. 10-Apr. 30.
Ptarmigan (Rock, Willow, and White-tailed):
20 per day, 40 in possession | Aug. 10-Apr. 30.
Trapping
Beaver:
No limit | Oct. 10-Mar. 31.
2 beaver per day; only firearms may be used. | Apr. 15-May 31.
Coyote:
No limit | Nov. 10-Mar. 31.
Fox, Arctic (Blue and White):
No limit | Nov. 10-Feb. 28.
Fox, Red (including Cross, Black and Silver Phases):
No limit | Nov. 10-Feb. 28.
Lynx:
No limit | Nov. 10-Feb. 28.
Marten:
No limit | Nov. 10-Feb. 28.
Mink and Weasel:
No limit | Nov. 10-Feb. 28.
Muskrat:
No limit | Nov. 10-June 10.
Otter:
No limit | Nov. 10-Mar. 31.
Wolf:
No limit | Nov. 10-Mar. 31.
Wolverine:
No limit | Nov. 10-Feb. 28.

(10) Unit 10. (i) Unit 10 consists of the Aleutian Islands, Unimak Island, and the Pribilof Islands.

(ii) You may not take any wildlife species for subsistence uses on Otter Island in the Pribilof Islands.

(iii) In Unit 10—Unimak Island only, a Federally-qualified subsistence user (recipient) may designate another Federally-qualified subsistence user to take caribou on his or her behalf unless the recipient is a member of a community operating under a community harvest system. The designated hunter must obtain a designated hunter permit and must return a completed harvest report. The designated hunter may hunt for any number of recipients but may have no more than four harvest limits in his/her possession at any one time.

(iv) The communities of False Pass, King Cove, Cold Bay, Sand Point, and Nelson Lagoon annually may each take, from October 1 through December 31 or May 10 through May 25, one brown bear for ceremonial purposes, under the terms of a Federal registration permit. A permit will be issued to an individual only at the request of a local organization. The brown bear may be taken from either Unit 9(D) or Unit 10 (Unimak Island) only.

Harvest limits | Open season
Hunting
Caribou:
Unit 10—Unimak Island only—2 caribou by Federal registration permit only | Aug. 1-Sept. 30. Nov. 15-Mar. 31.
Unit 10—remainder—No limit | July 1-June 30.
Coyote: 2 coyotes | Sept. 1-Apr. 30.
Fox, Arctic (Blue and White Phase): No limit | July 1-June 30.
Fox, Red (including Cross, Black and Silver Phases): 2 foxes | Sept. 1-Feb. 15.
Wolf: 5 wolves | Aug. 10-Apr. 30.
Wolverine: 1 wolverine | Sept. 1-Mar. 31.
Ptarmigan (Rock and Willow): 20 per day, 40 in possession | Aug. 10-Apr. 30.
Trapping
Coyote: 2 coyotes | Sept. 1-Apr. 30.
Fox, Arctic (Blue and White Phase): No limit | July 1-June 30.
Fox, Red (including Cross, Black and Silver Phases): 2 foxes | Sept. 1-Feb. 28.
Mink and Weasel: No limit | Nov. 10-Feb. 28.
Muskrat: No limit | Nov. 10-June 10.
Otter: No limit | Nov. 10-Mar. 31.
Wolf: No limit | Nov. 10-Mar. 31.
Wolverine: No limit | Nov. 10-Feb. 28.

(11) Unit 11. Unit 11 consists of that area draining into the headwaters of the Copper River south of Suslota Creek and the area drained by all tributaries into the east bank of the Copper River between the confluence of Suslota Creek with the Slana River and Miles Glacier.

(i) Unit-specific regulations:

(A) You may use bait to hunt black bear between April 15 and June 15;

(B) One moose without calf may be taken from June 20-July 31 in the Wrangell-St. Elias National Park and Preserve in Unit 11 or 12 for the Batzulnetas Culture Camp. Two hunters from either Chistochina or Mentasta Village may be designated by the Mt. Sanford Tribal Consortium to receive the Federal subsistence harvest permit. The permit may be obtained from a Wrangell-St. Elias National Park and Preserve office.

(ii) [Reserved]

Harvest limits | Open season
Hunting
Black Bear: 3 bears | July 1-June 30.
Brown Bear: Unit 11-1 bear | Aug. 10-June 15.
Caribou: Unit 11 | No open season.
Sheep:
1 sheep | Aug. 10-Sept. 20.
1 sheep by Federal registration permit only by persons 60 years of age or older | Sept. 21-Oct. 20.
Goat: Unit 11—that portion within the Wrangell-St. Elias National Park and Preserve—1 goat by Federal registration permit only. Federal public lands will be closed to the harvest of goats when a total of 45 goats have been harvested between Federal and State hunts | Aug. 25-Dec. 31.
Moose: 1 antlered bull by Federal registration permit only | Aug. 20-Sept. 20.
Beaver: 1 beaver per day, 1 in possession | June 1-Oct. 10.
Coyote: 10 coyotes | Sept. 1-Apr. 30.
Fox, Red (including Cross, Black and Silver Phases): 2 foxes | Sept. 1-Feb. 15.
Hare (Snowshoe): No limit | July 1-June 30.
Lynx: 2 lynx | Dec. 15-Jan. 15.
Wolf: 10 wolves | Aug. 10-Apr. 30.
Wolverine: 1 wolverine | Sept. 1-Jan 31.
Grouse (Spruce, Ruffed, and Sharp-tailed): 15 per day, 30 in possession | Aug. 10-Mar. 31.
Ptarmigan (Rock, Willow, and White-tailed): 20 per day, 40 in possession | Aug. 10-Mar. 31.
Trapping
Beaver: 30 beaver per season | Nov. 10-Apr. 30.
Coyote: No limit | Nov. 10-Mar. 31.
Fox, Red (including Cross, Black and Silver Phases): No limit | Nov. 10-Feb. 28.
Lynx: No limit | Dec. 1-Jan. 15.
Marten: No limit | Nov. 10-Feb. 28.
Mink and Weasel: No limit | Nov. 10-Feb. 28.
Muskrat: No limit | Nov. 10-June 10.
Otter: No limit | Nov. 10-Mar. 31.
Wolf: No limit | Nov. 10-Mar. 31.
Wolverine: No limit | Nov. 10-Jan. 31.

(12) Unit 12. Unit 12 consists of the Tanana River drainage upstream from the Robertson River, including all drainages into the east bank of the Robertson River, and the White River drainage in Alaska, but excluding the Ladue River drainage.

(i) Unit-specific regulations:

(A) You may use bait to hunt black bear between April 15 and June 30;

(B) You may not use a steel trap, or a snare using cable smaller than 3/32 inch diameter to trap coyotes or wolves in Unit 12 during April and October;

(C) One moose without calf may be taken from June 20-July 31 in the Wrangell-St. Elias National Park and Preserve in Unit 11 or 12 for the Batzulnetas Culture Camp. Two hunters from either Chistochina or Mentasta Village may be designated by the Mt. Sanford Tribal Consortium to receive the Federal subsistence harvest permit. The permit may be obtained from a Wrangell-St. Elias National Park and Preserve office.

(ii) [Reserved]

Harvest limits | Open season
Hunting
Black Bear: 3 bears. | July 1-June 30.
Brown Bear: 1 bear | Aug. 10-June 30.
Caribou:
Unit 12—that portion of the Nabesna River drainage within the Wrangell-St. Elias National Park and season. Preserve and all Federal lands south of the Winter Trail running southeast from Pickerel Lake to the Canadian border—The taking of caribou is prohibited on Federal public lands | No open season.
Unit 12—remainder—1 bull | Sept. 1-Sept. 20.
Unit 12—remainder—1 caribou may be taken by a Federal registration permit during a winter season to be announced. Dates for a winter season to occur between Oct. 1 and Apr. 30 and sex of animal to be taken will be announced by Tetlin National Wildlife Refuge Manager in consultation with Wrangell-St. Elias National Park and Preserve Superintendent, Alaska Department of Fish and Game area biologists, and Chairs of the Eastern Interior Regional Advisory Council and Upper Tanana/Fortymile Fish and Game Advisory Committee
Sheep: 1 ram with full curl horn or larger | Aug. 10-Sept. 20.
Moose:
Unit 12—that portion within the Tetlin National Wildlife Refuge and those lands within the Wrangell-St. Elias National Preserve north and east of a line formed by the Pickerel Lake Winter Trail from the Canadian border to the southern boundary of the Tetlin National Wildlife Refuge—1 antlered bull. The November season is open by Federal registration permit only | Aug. 24-Aug. 28. Sept. 8-Sept. 17. Nov. 20-Nov. 30.
Unit 12—that portion lying east of the Nabesna River and Nabesna Glacier and south of the Winter Trail running southeast from Pickerel Lake to the Canadian border—1 antlered bull | Aug. 24-Sept. 30.
Unit 12—remainder—1 antlered bull with spike/fork antlers | Aug. 15-Aug. 28.
Unit 12—remainder—1 antlered bull. | Sept. 1-Sept. 15.
Beaver: Unit 12—Wrangell-Saint Elias National Park and Preserve—6 beaver per season. Meat from harvested. beaver must be salvaged for human consumption | Sept. 20-May 15.
Coyote: 10 coyotes | Aug. 10-Apr. 30.
Fox, Red (including Cross, Black and Silver Phases): 10 foxes; however, no more than 2 foxes may be taken prior to Oct. 1 | Sept. 1-Mar. 15.
Hare (Snowshoe): No limit | July 1-June 30.
Lynx: 2 lynx | Nov. 1-Mar. 15.
Wolf: 10 wolves | Aug. 10-Apr. 30.
Wolverine: 1 wolverine | Sept. 1-Mar. 31
Grouse (Spruce, Ruffed, and Sharp-tailed): 15 per day, 30 in possession | Aug. 10-Mar. 31.
Ptarmigan (Rock, Willow, and White-tailed): 20 per day, 40 in possession | Aug. 10-Apr. 30.
Trapping
Beaver: 15 beaver per season. Only firearms may be used during Sept. 20-Oct. 31 and Apr. 16-May 15, to take up to 6 beaver. Only traps or snares may be used Nov. 1-Apr. 15. The total annual harvest limit for beaver is 15, of which no more than 6 may be taken by firearm under trapping or hunting regulations. Meat from beaver harvested by firearm must be salvaged for human consumption. | Sept. 20-May 15.
Coyote: No limit | Oct. 15-Apr. 30.
Fox, Red (including Cross, Black and Silver Phases): No limit | Nov. 1-Feb. 28.
Lynx: No limit; however, no more than 5 lynx may be taken between Nov. 1 and Nov. 30 | Nov. 1-Jan. 31.
Marten: No limit | Nov. 1-Feb. 28.
Mink and Weasel: No limit | Nov. 1-Feb. 28.
Muskrat: No limit | Sept. 20-June 10.
Otter: No limit | Nov. 1-Apr. 15.
Wolf: No limit | Oct. 1-Apr. 30.
Wolverine: No limit | Nov. 1-Feb. 28.

(13) Unit 13. (i) Unit 13 consists of that area westerly of the east bank of the Copper River and drained by all tributaries into the west bank of the Copper River from Miles Glacier and including the Slana River drainages north of Suslota Creek; the drainages into the Delta River upstream from Falls Creek and Black Rapids Glacier; the drainages into the Nenana River upstream from the southeast corner of Denali National Park at Windy; the drainage into the Susitna River upstream from its junction with the Chulitna River; the drainage into the east bank of the Chulitna River upstream to its confluence with Tokositna River; the drainages of the Chulitna River (south of Denali National Park) upstream from its confluence with the Tokositna River; the drainages into the north bank of the Tokositna River upstream to the base of the Tokositna Glacier; the drainages into the Tokositna Glacier; the drainages into the east bank of the Susitna River between its confluences with the Talkeetna and Chulitna Rivers; the drainages into the north and east bank of the Talkeetna River including the Talkeetna River to its confluence with Clear Creek, the eastside drainages of a line going up the south bank of Clear Creek to the first unnamed creek on the south, then up that creek to lake 4408, along the northeast shore of lake 4408, then southeast in a straight line to the northern most fork of the Chickaloon River; the drainages into the east bank of the Chickaloon River below the line from lake 4408; the drainages of the Matanuska River above its confluence with the Chickaloon River:

(A) Unit 13(A) consists of that portion of Unit 13 bounded by a line beginning at the Chickaloon River bridge at Mile 77.7 on the Glenn Highway, then along the Glenn Highway to its junction with the Richardson Highway, then south along the Richardson Highway to the foot of Simpson Hill at Mile 111.5, then east to the east bank of the Copper River, then northerly along the east bank of the Copper River to its junction with the Gulkana River, then northerly along the west bank of the Gulkana River to its junction with the West Fork of the Gulkana River, then westerly along the west bank of the West Fork of the Gulkana River to its source, an unnamed lake, then across the divide into the Tyone River drainage, down an unnamed stream into the Tyone River, then down the Tyone River to the Susitna River, then down the southern bank of the Susitna River to the mouth of Kosina Creek, then up Kosina Creek to its headwaters, then across the divide and down Aspen Creek to the Talkeetna River, then southerly along the boundary of Unit 13 to the Chickaloon River bridge, the point of beginning;

(B) Unit 13(B) consists of that portion of Unit 13 bounded by a line beginning at the confluence of the Copper River and the Gulkana River, then up the east bank of the Copper River to the Gakona River, then up the Gakona River and Gakona Glacier to the boundary of Unit 13, then westerly along the boundary of Unit 13 to the Susitna Glacier, then southerly along the west bank of the Susitna Glacier and the Susitna River to the Tyone River, then up the Tyone River and across the divide to the headwaters of the West Fork of the Gulkana River, then down the West Fork of the Gulkana River to the confluence of the Gulkana River and the Copper River, the point of beginning;

(C) Unit 13(C) consists of that portion of Unit 13 east of the Gakona River and Gakona Glacier;

(D) Unit 13(D) consists of that portion of Unit 13 south of Unit 13(A);

(E) Unit 13(E) consists of the remainder of Unit 13.

(ii) Within the following areas, the taking of wildlife for subsistence uses is prohibited or restricted on public lands:

(A) You may not take wildlife for subsistence uses on lands within Mount McKinley National Park as it existed prior to December 2, 1980. Subsistence uses as authorized by this paragraph (m)(13) are permitted in Denali National Preserve and lands added to Denali National Park on December 2, 1980;

(B) You may not use motorized vehicles or pack animals for hunting from Aug. 5-Aug. 25 in the Delta Controlled Use Area, the boundary of which is defined as: A line beginning at the confluence of Miller Creek and the Delta River, then west to vertical angle bench mark Miller, then west to include all drainages of Augustana Creek and Black Rapids Glacier, then north and east to include all drainages of McGinnis Creek to its confluence with the Delta River, then east in a straight line across the Delta River to Mile 236.7 Richardson Highway, then north along the Richardson Highway to its junction with the Alaska Highway, then east along the Alaska Highway to the west bank of the Johnson River, then south along the west bank of the Johnson River and Johnson Glacier to the head of the Cantwell Glacier, then west along the north bank of the Cantwell Glacier and Miller Creek to the Delta River;

(C) Except for access and transportation of harvested wildlife on Sourdough and Haggard Creeks, Meiers Lake trails, or other trails designated by the Board, you may not use motorized vehicles for subsistence hunting, is prohibited in the Sourdough Controlled Use Area. The Sourdough Controlled Use Area consists of that portion of Unit 13(B) bounded by a line beginning at the confluence of Sourdough Creek and the Gulkana River, then northerly along Sourdough Creek to the Richardson Highway at approximately Mile 148, then northerly along the Richardson Highway to the Meiers Creek Trail at approximately Mile 170, then westerly along the trail to the Gulkana River, then southerly along the east bank of the Gulkana River to its confluence with Sourdough Creek, the point of beginning;

(D) You may not use any motorized vehicle or pack animal for hunting, including the transportation of hunters, their hunting gear, and/or parts of game from July 26 to September 30 in the Tonsina Controlled Use Area. The Tonsina Controlled Use Area consists of that portion of Unit 13(D) bounded on the west by the Richardson Highway from the Tiekel River to the Tonsina River at Tonsina, on the north along the south bank of the Tonsina River to where the Edgerton Highway crosses the Tonsina River, then along the Edgeton Highway to Chitina, on the east by the Copper River from Chitina to the Tiekel River, and on the south by the north bank of the Tiekel River.

(iii) Unit-specific regulations:

(A) You may use bait to hunt black bear between April 15 and June 15;

(B) [Reserved]

Harvest limits | Open season
Hunting
Black Bear:
3 bears. | July 1-June 30.
Brown Bear:
1 bear. Bears taken within Denali National Park must be sealed within 5 days of harvest. That portion within Denali National Park will be closed by announcement of the Superintendent after 4 bears have been harvested | Aug. 10-May 31.
Caribou:
Unit 13(A)and (B)—2 caribou by Federal registration permit only. Only bulls may be taken during the Aug. 10-Sept. 30. season. During the winter season (Oct. 21-Mar. 31), the sex of animals that may be taken will be announced by the Glennallen Field Office Manager of the Bureau of Land Management in consultation with the Alaska Department of Fish and Game area biologist and Chairs of the Eastern Interior Regional Advisory Council and the Southcentral Regional Advisory Council | Aug. 10-Sept. 30. Oct. 21-Mar. 31.
Unit 13—remainder—2 bulls by Federal registration permit only | Aug. 10-Sept. 30. Oct. 21-Mar. 31.
Hunting within the Trans-Alaska Oil Pipeline right-of-way is prohibited. The right-of-way is identified as the area occupied by the pipeline (buried or above ground) and the cleared area 25 feet on either side of the pipeline
Sheep:
Unit 13—excluding Unit 13(D) and the Tok Management Area and Delta Controlled Use Area—1 ram with ⅞ curl horn | Aug. 10-Sept. 20.
Moose:
Unit 13(E)—1 antlered bull moose by Federal registration permit only; only 1 permit will be issued per household | Aug. 1-Sept. 20.
Unit 13—remainder—1 antlered bull moose by Federal registration permit only | Aug. 1-Sept. 20.
Beaver:
1 beaver per day, 1 in possession | June 15-Sept. 10.
Coyote:
2 coyotes | Sept. 1-Apr. 30.
Fox, Red (including Cross, Black and Silver Phases):
2 foxes | Sept. 1-Feb. 15
Hare (Snowshoe):
No limit | July 1-June 30
Lynx:
2 lynx | Dec. 15-Jan. 15.
Wolf:
10 wolves | Aug. 10-Apr. 30.
Wolverine:
1 wolverine | Sept. 1-Jan. 31.
Grouse (Spruce, Ruffed, and Sharp-tailed):
15 per day, 30 in possession | Aug. 10-Mar. 31.
Ptarmigan (Rock, Willow, and White-tailed):
20 per day, 40 in possession | Aug. 10-Mar. 31.
Trapping
Beaver:
No limit | Oct. 10-May 15.
Coyote:
No limit | Nov. 10-Mar. 31.
Fox, Red (including Cross, Black and Silver Phases):
No limit | Nov. 10-Feb. 28.
Lynx:
No limit | Dec. 1-Jan. 15.
Marten:
Unit 13(A-D)—No limit | Nov. 10-Feb. 28.
Unit 13—remainder—No limit | Nov. 10-Jan. 31.
Mink and Weasel:
No limit | Nov. 10-Feb. 28.
Muskrat:
No limit | Nov. 10-June 10.
Otter:
No limit | Nov. 10-Mar. 31.
Wolf:
No limit | Oct. 15-Apr. 30.
Wolverine:
No limit | Nov. 10-Jan. 31.

(14) Unit 14. (i) Unit 14 consists of drainages into the north side of Turnagain Arm west of and excluding the Portage Creek drainage, drainages into Knik Arm excluding drainages of the Chickaloon and Matanuska Rivers in Unit 13, drainages into the north side of Cook Inlet east of the Susitna River, drainages into the east bank of the Susitna River downstream from the Talkeetna River, and drainages into the south and west bank of the Talkeetna River to its confluence with Clear Creek, the westside drainages of a line going up the south bank of Clear Creek to the first unnamed creek on the south, then up that creek to lake 4408, along the northeast shore of lake 4408, then southeast in a straight line to the northern most fork of the Chickaloon River:

(A) Unit 14(A) consists of drainages in Unit 14 bounded on the west by the east bank of the Susitna River, on the north by the north bank of Willow Creek and Peters Creek to its headwaters, then east along the hydrologic divide separating the Susitna River and Knik Arm drainages to the outlet creek at lake 4408, on the east by the eastern boundary of Unit 14, and on the south by Cook Inlet, Knik Arm, the south bank of the Knik River from its mouth to its junction with Knik Glacier, across the face of Knik Glacier and along the north side of Knik Glacier to the Unit 6 boundary;

(B) Unit 14(B) consists of that portion of Unit 14 north of Unit 14(A);

(C) Unit 14(C) consists of that portion of Unit 14 south of Unit 14(A).

(ii) In the following areas, the taking of wildlife for subsistence uses is prohibited or restricted on public lands:

(A) You may not take wildlife for subsistence uses in the Fort Richardson and Elmendorf Air Force Base Management Areas, consisting of the Fort Richardson and Elmendorf Military Reservation;

(B) You may not take wildlife for subsistence uses in the Anchorage Management Area, consisting of all drainages south of Elmendorf and Fort Richardson military reservations and north of and including Rainbow Creek.

(iii) Unit-specific regulations:

Harvest limits | Open season
Hunting
Black Bear: Unit 14(C)—1 bear | July 1-June 30.
Beaver: Unit 14(C)—1 beaver per day, 1 in possession | May 15-Oct. 31.
Coyote: Unit 14(C)—2 coyotes | Sept. 1-Apr. 30.
Fox, Red (including Cross, Black and Silver Phases): Unit 14(C)—2 foxes | Nov. 1-Feb. 15.
Hare (Snowshoe): Unit 14(C)—5 hares per day | Sept. 8-Apr. 30.
Lynx: Unit 14(C)—2 lynx | Dec. 15-Jan. 15.
Wolf: Unit 14(C)—5 wolves | Aug. 10-Apr. 30.
Wolverine: Unit 14(C)—1 wolverine | Sept. 1-Mar. 31.
Grouse (Spruce and Ruffed): Unit 14(C)—5 per day, 10 in possession | Sept. 8-Mar. 31.
Ptarmigan (Rock, Willow, and White-tailed): Unit 14(C)—10 per day, 20 in possession | Sept. 8-Mar. 31.
Trapping
Beaver: Unit 14(C)—that portion within the drainages of Glacier Creek, Kern Creek, Peterson Creek, the Twentymile River and the drainages of Knik River outside Chugach State Park—20 beaver per season | Dec. 1-Apr. 15.
Coyote: Unit 14(C)—No limit | Nov. 10-Feb. 28.
Fox, Red (including Cross, Black and Silver Phases): Unit 14(C)—1 fox | Nov. 10-Feb. 28.
Marten: Unit 14(C)—No limit | Nov. 10-Jan. 31.
Mink and Weasel: Unit 14(C)—No limit | Nov. 10-Jan. 31.
Muskrat: Unit 14(C)—No limit | Nov. 10-May 15.
Otter: Unit 14(C)—No limit | Nov. 10-Feb. 28.
Wolf: Unit 14(C)—No limit | Nov. 10-Feb. 28
Wolverine: Unit 14(C)—No limit | Nov. 10-Feb. 28.

(15) Unit 15. (i) Unit 15 consists of that portion of the Kenai Peninsula and adjacent islands draining into the Gulf of Alaska, Cook Inlet, and Turnagain Arm from Gore Point to the point where longitude line 150° 00′ W. crosses the coastline of Chickaloon Bay in Turnagain Arm, including that area lying west of longitude line 150° 00′ W. to the mouth of the Russian River, then southerly along the Chugach National Forest boundary to the upper end of Upper Russian Lake; and including the drainages into Upper Russian Lake west of the Chugach National Forest boundary:

(A) Unit 15(A) consists of that portion of Unit 15 north of the north bank of the Kenai River and the north shore of Skilak Lake;

(B) Unit 15(B) consists of that portion of Unit 15 south of the north bank of the Kenai River and the north shore of Skilak Lake, and north of the north bank of the Kasilof River, the north shore of Tustumena Lake, Glacier Creek, and Tustumena Glacier;

(C) Unit 15(C) consists of the remainder of Unit 15.

(ii) You may not take wildlife, except for grouse, ptarmigan, and hares that may be taken only from October 1-March 1 by bow and arrow only, in the Skilak Loop Management Area, which consists of that portion of Unit 15(A) bounded by a line beginning at the eastern most junction of the Sterling Highway and the Skilak Loop (milepost 76.3), then due south to the south bank of the Kenai River, then southerly along the south bank of the Kenai River to its confluence with Skilak Lake, then westerly along the north shore of Skilak Lake to Lower Skilak Lake Campground, then northerly along the Lower Skilak Lake Campground Road and the Skilak Loop Road to its western most junction with the Sterling Highway, then easterly along the Sterling Highway to the point of beginning.

(iii) Unit-specific regulations:

(A) You may use bait to hunt black bear between April 15 and June 15;

(B) You may not trap furbearers for subsistence in the Skilak Loop Wildlife Management Area;

(C) You may not trap marten in that portion of Unit 15(B) east of the Kenai River, Skilak Lake, Skilak River, and Skilak Glacier;

(D) You may not take red fox in Unit 15 by any means other than a steel trap or snare.

Harvest limits | Open season
Hunting
Black Bear:
Unit 15(C)—3 bears | July 1-June 30.
Unit 15—remainder | No open season.
Moose:
Unit 15(A)—Skilak Loop Wildlife Management Area | No open season.
Unit 15(A)—remainder, Unit 15(B), and (C)—1 antlered bull with spike-fork or 50-inch antlers or with 3 or more brow tines on either antler, by Federal registration permit only | Aug. 10-Sept. 20.
Coyote:
No limit | Sept. 1-Apr. 30.
Hare (Snowshoe):
No limit | July 1-June 30.
Wolf:
Unit 15—that portion within the Kenai National Wildlife Refuge—2 wolves | Aug. 10-Apr. 30.
Unit 15—remainder—5 wolves | Aug. 10-Apr. 30.
Wolverine:
1 Wolverine | Sept. 1-Mar. 31.
Grouse (Spruce):
15 per day, 30 in possession | Aug. 10-Mar. 31.
Grouse (Ruffed) | No open season.
Ptarmigan (Rock, Willow, and White-tailed):
Unit 15(A) and (B)—20 per day, 40 in possession | Aug. 10-Mar. 31.
Unit 15(C)—20 per day, 40 in possession | Aug. 10-Dec. 31.
Unit 15(C)—5 per day, 10 in possession | Jan. 1-Mar. 31.
Trapping
Beaver:
20 Beaver per season | Nov. 10-Mar. 31.
Coyote:
No limit | Nov. 10-Mar. 31.
Fox, Red (including Cross, Black and Silver Phases):
Fox | Nov. 10-Feb. 28.
Marten:
Unit 15(B)—that portion east of the Kenai River, Skilak Lake, Skilak River, and Skilak Glacier | No open season.
Remainder of Unit 15—No limit | Nov. 10-Jan. 31.
Mink and Weasel:
No limit | Nov. 10-Jan. 31.
Muskrat:
No limit | Nov. 10-May 15.
Otter:
Unit 15—No limit | Nov. 10-Feb. 28.
Wolf:
No limit | Nov. 10-Mar. 31.
Wolverine:
Unit 15(B) and (C)—No limit | Nov. 10-Feb. 28.

(16) Unit 16. (i) Unit 16 consists of the drainages into Cook Inlet between Redoubt Creek and the Susitna River, including Redoubt Creek drainage, Kalgin Island, and the drainages on the west side of the Susitna River (including the Susitna River) upstream to its confluence with the Chulitna River; the drainages into the west side of the Chulitna River (including the Chulitna River) upstream to the Tokositna River, and drainages into the south side of the Tokositna River upstream to the base of the Tokositna Glacier, including the drainage of the Kahiltna Glacier:

(A) Unit 16(A) consists of that portion of Unit 16 east of the east bank of the Yentna River from its mouth upstream to the Kahiltna River, east of the east bank of the Kahiltna River, and east of the Kahiltna Glacier;

(B) Unit 16(B) consists of the remainder of Unit 16.

(ii) You may not take wildlife for subsistence uses in the Mount McKinley National Park, as it existed prior to December 2, 1980. Subsistence uses as authorized by this paragraph (m)(16) are permitted in Denali National Preserve and lands added to Denali National Park on December 2, 1980.

(iii) Unit-specific regulations:

(A) You may use bait to hunt black bear between April 15 and June 15.

(B) [Reserved]

Harvest limits | Open season
Hunting
Black Bear:
3 bears | July 1-June 30.
Caribou:
1 caribou | Aug. 10-Oct. 31.
Moose:
Unit 16(B)—Redoubt Bay Drainages south and west of, and including the Kustatan River drainage—1 antlered bull | Sept. 1-Sept. 15.
Unit 16(B)—remainder—1 moose; however, antlerless moose may be taken only from Sept. 25-Sept. 30 and from Dec. 1-Feb. 28 by Federal registration permit only | Sept. 1-Sept. 30. Dec. 1-Feb. 28.
Coyote:
2 coyotes | Sept. 1-Apr. 30.
Fox, Red (including Cross, Black and Silver Phases):
2 foxes | Sept. 1-Feb. 15.
Hare (Snowshoe):
No limit | July 1-June 30.
Lynx:
2 lynx | Dec. 15-Jan. 15.
Wolf:
5 wolves | Aug. 10-Apr. 30.
Wolverine:
1 wolverine | Sept. 1-Mar. 31.
Grouse (Spruce and Ruffed):
15 per day, 30 in possession | Aug. 10-Mar. 31.
Ptarmigan (Rock, Willow, and White-tailed):
20 per day, 40 in possession | Aug. 10-Mar. 31.
Trapping
Beaver:
No limit | Oct. 10-May 15.
Coyote:
No limit | Nov. 10-Mar. 31.
Fox, Red (including Cross, Black and Silver Phases):
No limit | Nov. 10-Feb. 28.
Marten:
No limit | Nov. 10-Jan. 31.
Mink and Weasel:
No limit | Nov. 10-Jan. 31.
Muskrat:
No limit | Nov. 10-June 10.
Otter:
No limit | Nov. 10-Mar. 31.
Wolf:
No limit | Nov. 10-Mar. 31.
Wolverine:
No limit | Nov. 10-Feb. 28.

(17) Unit 17. (i) Unit 17 consists of drainages into Bristol Bay and the Bering Sea between Etolin Point and Cape Newenham, and all islands between these points including Hagemeister Island and the Walrus Islands:

(A) Unit 17(A) consists of the drainages between Cape Newenham and Cape Constantine, and Hagemeister Island and the Walrus Islands;

(B) Unit 17(B) consists of the Nushagak River drainage upstream from, and including the Mulchatna River drainage, and the Wood River drainage upstream from the outlet of Lake Beverley;

(C) Unit 17(C) consists of the remainder of Unit 17.

(ii) In the following areas, the taking of wildlife for subsistence uses is prohibited or restricted on public lands:

(A) Except for aircraft and boats and in legal hunting camps, you may not use any motorized vehicle for hunting ungulates, bears, wolves, and wolverine, including transportation of hunters and parts of ungulates, bear, wolves, or wolverine in the Upper Mulchatna Controlled Use Area consisting of Unit 17(B), from Aug. 1-Nov. 1;

(B) You may hunt brown bear by State registration permit in lieu of a resident tag in the Western Alaska Brown Bear Management Area which consists of Units 9(B) except that portion within the Lake Clark National Park and Preserve, 17, 18, and those portions of 19(A) and (B) downstream of and including the Aniak River drainage, if you have obtained a State registration permit prior to hunting.

(iii) Unit-specific regulations:

(A) You may use bait to hunt black bear between April 15 and June 15;

(B) For Federal registration permit caribou hunts for Unit 17(A) and (C), that portion consisting of the Nushagak Peninsula south of the Igushik River, Tuklung River and Tuklung Hills, west to Tvativak Bay, a Federally-qualified subsistence user may designate another Federally-qualified subsistence user to harvest caribou on his or her behalf. The designated hunter must obtain a designated hunter permit and must return a completed harvest report. The designated hunter may hunt for any number of recipients but may have no more than two harvest limits in his/her possession at any one time;

(C) If you have a trapping license, you may use a firearm to take beaver in Unit 17 from April 15-May 31. You may not take beaver with a firearm under a trapping license on National Park Service lands.

Harvest limits | Open season
Hunting
Black Bear: 2 bears | Aug. 1-May 31.
Brown Bear: Unit 17—1 bear by State registration permit only | Sept. 1-May 31.
Caribou:
Unit 17(A)—all drainages west of Right Hand Point—5 caribou; however, no more than 2 bulls may be taken from Oct. 1—Nov. 30. The season may be closed and harvest limit reduced for the drainages between the Togiak River and Right Hand Point by announcement of the Togiak National Wildlife Refuge Manager | Aug. 1-Mar. 31.
Unit 17(A) and (C)—that portion of 17(A) and (C) consisting of the Nushagak Peninsula south of the Igushik River, Tuklung River and Tuklung Hills, west to Tvativak Bay—up to 2 caribou by Federal registration permit. Public lands are closed to the taking of caribou except by the residents of Togiak, Twin Hills, Manokotak, Aleknagik, Dillingham, Clark's Point, and Ekuk during seasons identified above. The harvest objective, harvest limit, and the number of permits available will be announced by the Togiak National Wildlife Refuge Manager after consultation with the Alaska Department of Fish and Game and the Nushagak Peninsula Caribou Planning Committee. Successful hunters must report their harvest to the Togiak National Wildlife Refuge within 24 hours after returning from the field. The season may be closed by announcement of the Togiak National Wildlife Refuge Manager | Aug. 1-Sept. 30. Dec. 1-Mar. 31.
Unit 17(B) and (C)—that portion of 17(C) east of the Wood River and Wood River Lakes—5 caribou; however, no more than 2 bulls may be taken from Oct. 1-Nov. 30 | Aug. 1-Apr. 15.
Unit 17(A)—remainder and 17(C)—remainder—selected drainages; a harvest limit of up to 5 caribou will be determined at the time the season is announced | Season to occur between Aug. 1-Mar. 31, harvest limit, and hunt area to be announced by the Togiak National Wildlife Refuge Manager.
Sheep: 1 ram with full curl horn or larger | Aug. 10-Sept. 20.
Moose:
Unit 17(A)—1 bull by State registration permit. | Aug. 25-Sept. 20.
Unit 17(B)—that portion that includes all the Mulchatna River drainage upstream from and including the Chilchitna River drainage—1 bull by State registration permit. During the period Sept. 1-Sept. 15, a spike/fork bull or a bull with 50-inch antlers or with 3 or more brow tines on one side may be taken with a State harvest ticket | Aug. 20-Sept. 15,
Unit 17(C)—that portion that includes the Iowithla drainage and Sunshine Valley and all lands west of Wood River and south of Aleknagik Lake—1 bull by State registration permit. During the period Sept. 1-Sept. 15, a spike/fork bull or a bull with 50-inch antlers or with 3 or more brow tines on one side may be taken with a State harvest ticket | Aug. 20-Sept. 15.
Unit 17(B)—remainder and 17(C)—remainder—1 bull by State registration permit. During the period Sept. 1-Sept. 15, a spike/fork bull or a bull with 50-inch antlers or with 3 or more brow tines on one side may be taken with a State harvest ticket | Aug. 20-Sept. 15. Dec. 1-Dec. 31.
Coyote: 2 coyotes | Sept. 1-Apr. 30.
Fox, Arctic (Blue and White Phase): No limit | Dec. 1-Mar. 15.
Fox, Red (including Cross, Black and Silver Phases): 2 foxes | Sept. 1-Feb. 15.
Hare (Snowshoe and Tundra): No limit | July 1-June 30.
Lynx: 2 lynx | Nov. 10-Feb. 28.
Wolf: 10 wolves | Aug. 10-Apr. 30.
Wolverine: 1 wolverine | Sept. 1-Mar. 31.
Grouse (Spruce and Ruffed): 15 per day, 30 in possession | Aug. 10-Apr. 30.
Ptarmigan (Rock and Willow): 20 per day, 40 in possession | Aug. 10-Apr. 30.
Trapping
Beaver:
Unit 17—No limit | Oct. 10-Mar. 31.
—2 beaver per day. Only firearms may be used | Apr. 15-May 31.
Coyote: No limit | Nov. 10-Mar. 31.
Fox, Arctic (Blue and White Phase): No limit | Nov. 10-Mar. 31.
Fox, Red (including Cross, Black and Silver Phases): No limit | Nov. 10-Mar. 31.
Lynx: No limit | Nov. 10-Mar. 31.
Marten: No limit | Nov. 10-Feb. 28.
Mink and Weasel: No limit | Nov. 10-Feb. 28.
Muskrat: 2 muskrats | Nov. 10-Feb. 28.
Otter: No limit | Nov. 10-Mar. 31.
Wolf: No limit | Nov. 10-Mar. 31.
Wolverine: No limit | Nov. 10-Feb. 28.

(18) Unit 18. (i) Unit 18 consists of that area draining into the Yukon and Kuskokwim Rivers downstream from a straight line drawn between Lower Kalskag and Paimiut and the drainages flowing into the Bering Sea from Cape Newenham on the south to and including the Pastolik River drainage on the north; Nunivak, St. Matthew, and adjacent islands between Cape Newenham and the Pastolik River.

(ii) In the following areas, the taking of wildlife for subsistence uses is prohibited or restricted on public lands:

(A) In the Kalskag Controlled Use Area which consists of that portion of Unit 18 bounded by a line from Lower Kalskag on the Kuskokwim River, northwesterly to Russian Mission on the Yukon River, then east along the north bank of the Yukon River to the old site of Paimiut, then back to Lower Kalskag, you may not use aircraft for hunting any ungulate, bear, wolf, or wolverine, including the transportation of any hunter and ungulate, bear, wolf, or wolverine part; however, this does not apply to transportation of a hunter or ungulate, bear, wolf, or wolverine part by aircraft between publicly owned airports in the Controlled Use Area or between a publicly owned airport within the Area and points outside the Area;

(B) You may hunt brown bear by State registration permit in lieu of a resident tag in the Western Alaska Brown Bear Management Area which consists of Units 9(B) except that portion within the Lake Clark National Park and Preserve, 17, 18, and those portions of 19(A) and (B) downstream of and including the Aniak River drainage, if you have obtained a State registration permit prior to hunting.

(iii) Unit-specific regulations:

(A) If you have a trapping license, you may use a firearm to take beaver in Unit 18 from Apr. 1—Jun. 10;

(B) You may take caribou from a boat moving under power in Unit 18.

Harvest limits | Open season
Hunting
Black Bear: 3 bears | July 1-June 30.
Brown Bear: 1 bear by State registration permit only | Sept. 1-May 31.
Caribou:
Unit 18—that portion south of the Yukon River—5 caribou . Edible meat must remain on the bones of the front quarters and hind quarters until the meat is removed from the field | Aug. 1-Mar. 31.
Unit 18—that portion north of the Yukon River—5 caribou per day | Aug. 1-Mar. 31.
Moose:
Unit 18—that portion north and west of a line from Cape Romanzof to Kuzilvak Mountain, and then to Mountain Village, and west of, but not including, the Andreafsky River drainage—1 antlered bull | Sept. 5-Sept. 25.
Unit 18—south of and including the Kanektok River drainages | No open season.
Unit 18—Kuskokwim River drainage—1 antlered bull. A 10-day hunt to occur between Dec. 1 and Feb. 28 (1 bull, evidence of sex required) will be opened by announcement | Aug. 25-Sept. 25. Winter season to be announced.
Unit 18—remainder—1 antlered bull. A 10-day hunt to occur between Dec. 1 and Feb. 28 (1 bull, evidence of sex required) will be opened by announcement | Sept. 1-Sept. 30. Winter season to be announced.
Public lands in Unit 18 are closed to the hunting of moose, except by Federally-qualified rural Alaska residents during seasons identified above.
Beaver: No limit | July 1-June 30.
Coyote: 2 coyotes | Sept. 1-Apr. 30.
Fox, Arctic (Blue and White Phase): 2 foxes | Sept. 1-Apr. 30.
Fox, Red (including Cross, Black and Silver Phases): 10 foxes; however, no more than 2 foxes may be taken prior to Oct. 1 | Sept. 1-Mar. 15.
Hare (Snowshoe and Tundra): No limit | July 1-June 30.
Lynx: 2 lynx | Nov. 10-Mar. 31.
Wolf: 5 wolves | Aug. 10-Apr. 30.
Wolverine: 1 wolverine | Sept. 1-Mar. 31.
Grouse (Spruce and Ruffed): 15 per day, 30 in possession | Aug. 10-Apr. 30.
Ptarmigan (Rock and Willow): 20 per day, 40 in possession | Aug. 10-May 30.
Trapping
Beaver: No limit | July 1-June 30.
Coyote: No limit | Nov. 10-Mar. 31.
Fox, Arctic (Blue and White Phase): No limit | Nov. 10-Mar. 31.
Fox, Red (including Cross, Black and Silver Phases): No limit | Nov. 10-Mar. 31.
Lynx: No limit | Nov. 10-Mar. 31.
Marten: No limit | Nov. 10-Mar. 31.
Mink and Weasel: No limit | Nov. 10-Jan. 31.
Muskrat: No limit | Nov. 10-June 10.
Otter: No limit | Nov. 10-Mar. 31.
Wolf: No limit | Nov. 10-Mar. 31.
Wolverine: No limit | Nov. 10-Mar. 31.

(19) Unit 19. (i) Unit 19 consists of the Kuskokwim River drainage upstream from a straight line drawn between Lower Kalskag and Piamiut:

(A) Unit 19(A) consists of the Kuskokwim River drainage downstream from and including the Moose Creek drainage on the north bank and downstream from and including the Stony River drainage on the south bank, excluding Unit 19(B);

(B) Unit 19(B) consists of the Aniak River drainage upstream from and including the Salmon River drainage, the Holitna River drainage upstream from and including the Bakbuk Creek drainage, that area south of a line from the mouth of Bakbuk Creek to the radar dome at Sparrevohn Air Force Base, including the Hoholitna River drainage upstream from that line, and the Stony River drainage upstream from and including the Can Creek drainage;

(C) Unit 19(C) consists of that portion of Unit 19 south and east of a line from Benchmark M#1.26 (approximately 1.26 miles south of the northwest corner of the original Mt. McKinley National Park boundary) to the peak of Lone Mountain, then due west to Big River, including the Big River drainage upstream from that line, and including the Swift River drainage upstream from and including the North Fork drainage;

(D) Unit 19(D) consists of the remainder of Unit 19.

(ii) In the following areas, the taking of wildlife for subsistence uses is prohibited or restricted on public land:

(A) You may not take wildlife for subsistence uses on lands within Mount McKinley National Park as it existed prior to December 2, 1980. Subsistence uses as authorized by this paragraph (m)(19) are permitted in Denali National Preserve and lands added to Denali National Park on December 2, 1980;

(B) In the Upper Kuskokwim Controlled Use Area, which consists of that portion of Unit 19(D) upstream from the mouth of Big River including the drainages of the Big River, Middle Fork, South Fork, East Fork, and Tonzona River, and bounded by a line following the west bank of the Swift Fork (McKinley Fork) of the Kuskokwim River to 152° 50' W. long., then north to the boundary of Denali National Preserve, then following the western boundary of Denali National Preserve north to its intersection with the Minchumina-Telida winter trail, then west to the crest of Telida Mountain, then north along the crest of Munsatli Ridge to elevation 1,610, then northwest to Dyckman Mountain and following the crest of the divide between the Kuskokwim River and the Nowitna drainage, and the divide between the Kuskokwim River and the Nixon Fork River to Loaf benchmark on Halfway Mountain, then south to the west side of Big River drainage, the point of beginning, you may not use aircraft for hunting moose, including transportation of any moose hunter or moose part; however, this does not apply to transportation of a moose hunter or moose part by aircraft between publicly owned airports in the Controlled Use Area, or between a publicly owned airport within the area and points outside the area;

(C) You may hunt brown bear by State registration permit in lieu of a resident tag in the Western Alaska Brown Bear Management Area which consists of Units 9(B) except that portion within the Lake Clark National Park and Preserve, 17, 18, and those portions of 19(A) and (B) downstream of and including the Aniak River drainage, if you have obtained a State registration permit prior to hunting.

(iii) Unit-specific regulations:

(A) You may use bait to hunt black bear between April 15 and June 30.

(B) [Reserved]

Harvest limits | Open season
Hunting
Black Bear: 3 bears | July 1-June 30.
Brown Bear:
Unit 19(A) and (B)—those portions which are downstream of and including the Aniak River drainage—1 bear by State registration permit | Sept. 1-May 31.
Unit 19(A)—remainder, 19(B)—remainder, and Unit 19(D)—1 bear | Sept. 1-May 31.
Caribou:
Unit 19(A)—north of Kuskokwim River—1 caribou | Aug. 10-Sept. 30.
| Nov. 1-Feb. 28.
Unit 19(A)—south of the Kuskokwim River and Unit 19(B) (excluding rural Alaska residents of Lime Village)—5 caribou | Aug. 1-Apr. 15.
Unit 19(C)—1 caribou | Aug. 10-Oct. 10.
Unit 19(D)—south and east of the Kuskokwim River and North Fork of the Kuskokwim River—1 caribou | Aug. 10-Sept. 30.
| Nov. 1-Jan. 31.
Unit 19(D)—remainder—1 caribou | Aug. 10-Sept. 30.
Unit 19—rural Alaska residents domiciled in Lime Village only—no individual harvest limit but a village harvest quota of 200 caribou; cows and calves may not be taken from Apr. 1-Aug. 9. Reporting will be by a community reporting system | July 1-June 30.
Sheep: 1 ram with 7/8 curl horn or larger | Aug. 10-Sept. 20.
Moose:
Unit 19—Rural Alaska residents of Lime Village only—no individual harvest limit, but a village harvest quota of 40 moose (including those taken under the State Tier II system); either sex. Reporting will be by a community reporting system | July 1-June 30.
Unit 19(A)—that portion north of the Kuskokwim River upstream from, but not including, the Kolmakof River drainage and south of the Kuskokwim River upstream from, but not including, the Holokuk River drainage—1 bull | Sept. 1-Sept. 20.
| Nov. 20-. Nov. 30.
| Jan. 1- Jan. 10.
| Feb. 1-Feb. 5.
Unit 19(A)—remainder—1 bull | Sept. 1-Sept. 20.
| Nov. 20-Nov. 30.
| Jan. 1-Jan. 10.
| Feb. 1-Feb. 10.
Unit 19(B)—1 antlered bull | Sept. 1-Sept. 30.
Unit 19(C)—1 antlered bull | Sept. 1-Sept. 20.
Unit 19(C)—1 bull by State registration permit | Jan. 15-Feb. 15.
Unit 19(D)—that portion of the Upper Kuskokwim Controlled Use Area within the North Fork drainage upstream from the confluence of the South Fork to the mouth of the Swift Fork—1 antlered bull | Sept. 1-Sept. 30.
Unit 19(D)—remainder of the Upper Kuskokwim Controlled Use Area—1 bull | Sept. 1-Sept. 30.
| Dec. 1-Feb. 28.
Unit 19(D)—remainder—1 antlered bull | Sept. 1-Sept. 30.
| Dec. 1-Dec. 15.
Coyote: 10 coyotes | Aug. 10-Apr. 30.
Fox, Red (including Cross, Black and Silver Phases): 10 foxes; however, no more than 2 foxes may be taken prior to Oct. 1 | Sept. 1-Mar. 15.
Hare (Snowshoe): No limit | July 1-June 30.
Lynx: 2 lynx | Nov. 1-Feb. 28.
Wolf:
Unit 19(D)—10 wolves per day | Aug. 10-Apr. 30.
Unit 19—remainder—5 wolves | Aug. 10-Apr. 30.
Wolverine: 1 wolverine | Sept. 1-Mar. 31.
Grouse (Spruce, Ruffed, and Sharp-tailed): 15 per day, 30 in possession | Aug. 10-Apr. 30.
Ptarmigan (Rock, Willow, and White-tailed): 20 per day, 40 in possession | Aug. 10-Apr. 30.
Trapping
Beaver: No limit | Nov. 1-Jun. 10.
Coyote: No limit | Nov. 1-Mar. 31.
Fox, Red (including Cross, Black and Silver Phases): No limit | Nov. 1-Mar. 31.
Lynx: No limit | Nov. 1-Feb. 28.
Marten: No limit | Nov. 1-Feb. 28.
Mink and Weasel: No limit | Nov. 1-Feb. 28.
Muskrat: No limit | Nov. 1-June 10.
Otter: No limit | Nov. 1-Apr. 15.
Wolf: No limit | Nov. 1-Apr. 30.
Wolverine: No limit | Nov. 1-Mar. 31.

(20) Unit 20. (i) Unit 20 consists of the Yukon River drainage upstream from and including the Tozitna River drainage to and including the Hamlin Creek drainage, drainages into the south bank of the Yukon River upstream from and including the Charley River drainage, the Ladue River and Fortymile River drainages, and the Tanana River drainage north of Unit 13 and downstream from the east bank of the Robertson River:

(A) Unit 20(A) consists of that portion of Unit 20 bounded on the south by the Unit 13 boundary, bounded on the east by the west bank of the Delta River, bounded on the north by the north bank of the Tanana River from its confluence with the Delta River downstream to its confluence with the Nenana River, and bounded on the west by the east bank of the Nenana River;

(B) Unit 20(B) consists of drainages into the north bank of the Tanana River from and including Hot Springs Slough upstream to and including the Banner Creek drainage;

(C) Unit 20(C) consists of that portion of Unit 20 bounded on the east by the east bank of the Nenana River and on the north by the north bank of the Tanana River downstream from the Nenana River;

(D) Unit 20(D) consists of that portion of Unit 20 bounded on the east by the east bank of the Robertson River and on the west by the west bank of the Delta River, and drainages into the north bank of the Tanana River from its confluence with the Robertson River downstream to, but excluding the Banner Creek drainage;

(E) Unit 20(E) consists of drainages into the south bank of the Yukon River upstream from and including the Charley River drainage, and the Ladue River drainage;

(F) Unit 20(F) consists of the remainder of Unit 20.

(ii) In the following areas, the taking of wildlife for subsistence uses is prohibited or restricted on public land:

(A) You may not take wildlife for subsistence uses on lands within Mount McKinley National Park as it existed prior to December 2, 1980. Subsistence uses as authorized by this paragraph (m)(20) are permitted in Denali National Preserve and lands added to Denali National Park on December 2, 1980;

(B) You may not use motorized vehicles or pack animals for hunting from Aug. 5-Aug. 25 in the Delta Controlled Use Area, the boundary of which is defined as: A line beginning at the confluence of Miller Creek and the Delta River, then west to vertical angle bench mark Miller, then west to include all drainages of Augustana Creek and Black Rapids Glacier, then north and east to include all drainages of McGinnis Creek to its confluence with the Delta River, then east in a straight line across the Delta River to Mile 236.7 Richardson Highway, then north along the Richardson Highway to its junction with the Alaska Highway, then east along the Alaska Highway to the west bank of the Johnson River, then south along the west bank of the Johnson River and Johnson Glacier to the head of the Canwell Glacier, then west along the north bank of the Canwell Glacier and Miller Creek to the Delta River;

(C) You may not use firearms, snowmobiles, licensed highway vehicles or motorized vehicles, except aircraft and boats in the Dalton Highway Corridor Management Area, which consists of those portions of Units 20, 24, 25, and 26 extending 5 miles from each side of the Dalton Highway from the Yukon River to milepost 300 of the Dalton Highway, except as follows: Residents living within the Dalton Highway Corridor Management Area may use snowmobiles only for the subsistence taking of wildlife. You may use licensed highway vehicles only on designated roads within the Dalton Highway Corridor Management Area. The residents of Alatna, Allakaket, Anaktuvuk Pass, Bettles, Evansville, Stevens Village, and residents living within the Corridor may use firearms within the Corridor only for subsistence taking of wildlife;

(D) You may not use any motorized vehicle for hunting from August 5-September 20 in the Glacier Mountain Controlled Use Area, which consists of that portion of Unit 20(E) bounded by a line beginning at Mile 140 of the Taylor Highway, then north along the highway to Eagle, then west along the cat trail from Eagle to Crooked Creek, then from Crooked Creek southwest along the west bank of Mogul Creek to its headwaters on North Peak, then west across North Peak to the headwaters of Independence Creek, then southwest along the west bank of Independence Creek to its confluence with the North Fork of the Fortymile River, then easterly along the south bank of the North Fork of the Fortymile River to its confluence with Champion Creek, then across the North Fork of the Fortymile River to the south bank of Champion Creek and easterly along the south bank of Champion Creek to its confluence with Little Champion Creek, then northeast along the east bank of Little Champion Creek to its headwaters, then northeasterly in a direct line to Mile 140 on the Taylor Highway; however, this does not prohibit motorized access via, or transportation of harvested wildlife on, the Taylor Highway or any airport;

(E) You may by permit only hunt moose on the Minto Flats Management Area, which consists of that portion of Unit 20 bounded by the Elliot Highway beginning at Mile 118, then northeasterly to Mile 96, then east to the Tolovana Hotsprings Dome, then east to the Winter Cat Trail, then along the Cat Trail south to the Old Telegraph Trail at Dunbar, then westerly along the trail to a point where it joins the Tanana River three miles above Old Minto, then along the north bank of the Tanana River (including all channels and sloughs except Swan Neck Slough), to the confluence of the Tanana and Tolovana Rivers and then northerly to the point of beginning;

(F) You may hunt moose by bow and arrow only in the Fairbanks Management Area, which consists of that portion of Unit 20(B) bounded by a line from the confluence of Rosie Creek and the Tanana River, northerly along Rosie Creek to Isberg Road, then northeasterly on Isberg Road to Cripple Creek Road, then northeasterly on Cripple Creek Road to the Parks Highway, then north on the Parks Highway to Alder Creek, then westerly to the middle fork of Rosie Creek through section 26 to the Parks Highway, then east along the Parks Highway to Alder Creek, then upstream along Alder Creek to its confluence with Emma Creek, then upstream along Emma Creek to its headwaters, then northerly along the hydrographic divide between Goldstream Creek drainages and Cripple Creek drainages to the summit of Ester Dome, then down Sheep Creek to its confluence with Goldstream Creek, then easterly along Goldstream Creek to Sheep Creek Road, then north on Sheep Creek Road to Murphy Dome Road, then west on Murphy Dome Road to Old Murphy Dome Road, then east on Old Murphy Dome Road to the Elliot Highway, then south on the Elliot Highway to Goldstream Creek, then easterly along Goldstream Creek to its confluence with First Chance Creek, Davidson Ditch, then southeasterly along the Davidson Ditch to its confluence with the tributary to Goldstream Creek in Section 29, then downstream along the tributary to its confluence with Goldstream Creek, then in a straight line to First Chance Creek, then up First Chance Creek to Tungsten Hill, then southerly along Steele Creek to its confluence with Ruby Creek, then upstream along Ruby Creek to Esro Road, then south on Esro Road to Chena Hot Springs Road, then east on Chena Hot Springs Road to Nordale Road, then south on Nordale Road to the Chena River, to its intersection with the Trans_Alaska Pipeline right of way, then southeasterly along the easterly edge of the Trans_Alaska Pipeline right of way to the Chena River, then along the north bank of the Chena River to the Moose Creek dike, then southerly along the Moose Creek dike to its intersection with the Tanana River, and then westerly along the north bank of the Tanana River to the point of beginning.

(iii) Unit-specific regulations:

(A) You may use bait to hunt black bear between April 15 and June 30;

(B) You may not use a steel trap, or a snare using cable smaller than 3/32 inch diameter to trap coyotes or wolves in Unit 20(E) during April and October;

(C) Residents of Unit 20 and 21 may take up to three moose per regulatory year for the celebration known as the Nuchalawoyya Potlatch, under the terms of a Federal registration permit. Permits will be issued to individuals only at the request of the Native Village of Tanana. This three moose limit is not cumulative with that permitted by the State.

Harvest limits | Open season
Hunting
Black Bear: 3 bears | July 1-June 30.
Brown Bear:
Unit 20(E)—1 bear | Aug. 10-June 30.
Unit 20—remainder—1 bear every four regulatory years | Sept. 1-May 31.
Caribou:
Unit 20(E)—1 caribou by joint State/Federal registration permit only. Up to 900 caribou may be taken under a State/Federal harvest quota. During the winter season, area closures or hunt restrictions may be announced when Nelchina caribou are present in a mix of more than 1 Nelchina caribou to 15 Fortymile caribou, except when the number of caribou present is low enough that less than 50 Nelchina caribou will be harvested regardless of the mixing ratio for the two herds. The season closures will be announced by the Northern Field Office Manager, Bureau of Land Management, after consultation with the National Park Service and Alaska Department of Fish and Game | Aug. 10-Sept. 30 Nov. 1-Feb. 28.
Unit 20(F)—north of the Yukon River—1 caribou | Aug. 10-Mar. 31.
Unit 20(F)—east of the Dalton Highway and south of the Yukon River—1 caribou. However, during the November 1-March 31 season a State registration permit is required | Aug. 10-Sept. 20 Nov. 1-Mar. 31.
Moose:
Unit 20(A)—1 antlered bull | Sept. 1-Sept. 20.
Unit 20(B)—that portion within the Minto Flats Management Area—1 bull by Federal registration permit only | Sept. 1-Sept. 20 Jan. 10-Feb. 28.
Unit 20(B)—remainder—1 antlered bull | Sept. 1-Sept. 20.
Unit 20(C)—that portion within Denali National Park and Preserve west of the Toklat River, excluding lands within Mount McKinley National Park as it existed prior to December 2, 1980—1 antlered bull; however, white-phased or partial albino (more than 50 percent white) moose may not be taken | Sept. 1-Sept. 30 Nov. 15-Dec. 15.
Unit 20(C)—remainder—1 antlered bull; however, white-phased or partial albino (more than 50 percent white) moose may not be taken | Sept. 1-Sept. 30.
Unit 20(E)—that portion within Yukon Charley National Preserve—1 bull | Aug. 20-Sept. 30.
Unit 20(E)—that portion drained by the Forty-mile River (all forks) from Mile 9½ to Mile 145 Taylor Highway, including the Boundary Cutoff Road—1 bull | Aug. 24-Aug. 28. Sept. 1-Sept. 15.
Unit 20(F)—that portion within the Dalton Highway Corridor Management Area—1 antlered bull by Federal registration permit only | Sept. 1-Sept. 25.
Unit 20(F)—remainder—1 antlered bull | Sept. 1-Sept. 25. Dec. 1-Dec. 10.
Beaver: Unit 20(E)—Yukon-Charley Rivers National Preserve—6 beaver per season. Meat from harvested beaver must be salvaged for human consumption | Sept. 20-May 15.
Coyote: 10 coyotes | Aug. 10-Apr. 30.
Fox, Red (including Cross, Black and Silver Phases): 10 foxes; however, no more than 2 foxes may be taken prior to Oct. 1 | Sept. 1-Mar. 15.
Hare (Snowshoe): No limit | July 1-June 30
Lynx:
Unit 20(E)—2 lynx | Nov. 1-Jan. 31.
Unit 20—remainder—2 lynx | Dec. 1-Jan. 31.
Wolf: 10 wolves | Aug. 10-Apr. 30.
Wolverine:
1 wolverine | Sept. 1-Mar. 31.
Grouse (Spruce, Ruffed, and Sharp-tailed):
Unit 20(D)—that portion south of the Tanana River and west of the Johnson River—15 per day, 30 in possession, provided that not more than 5 per day and 10 in possession are sharp-tailed grouse | Aug. 25-Mar. 31.
Unit 20—remainder—15 per day, 30 in possession | Aug. 10-Mar. 31.
Ptarmigan (Rock and Willow):
Unit 20—those portions within five miles of Alaska Route 5 (Taylor Highway, both to Eagle and the Alaska-Canada boundary) and that portion of Alaska Route 4 (Richardson Highway) south of Delta Junction—20 per day, 40 in possession | Aug. 10-Mar. 31.
Unit 20—remainder—20 per day, 40 in possession | Aug. 10-Apr. 30.
Trapping
Beaver:
Units 20(A), 20(B), Unit 20(C), and 20(F)—No limit | Nov. 1-Apr. 15.
Unit 20(D) | Nov. 1-Apr. 15.
Unit 20(E)—25 beaver per season. Only firearms may be used during Oct. 31 and Apr. 16-May 15, to take up to 6 beaver. Only traps or snares may be used Nov. 1—Apr. 15. The total annual harvest limit for beaver is 25, of which no more than 6 may be taken by firearm under trapping or hunting regulations. Meat from beaver harvested by firearm must be salvaged for human consumption. | Sept. 20-May 15.
Coyote:
Unit 20(E)—No limit | Oct. 15-Apr. 30.
Remainder Unit 20—No limit | Nov. 1-Mar. 31.
Fox, Red (including Cross, Black and Silver Phases): No limit | Nov. 1-Feb. 28.
Lynx:
Unit 20(A), (B), (D), and (C) east of the Teklanika River—No limit. | Dec. 1-Jan. 31.
Unit 20(E)—No limit; however, no more than 5 lynx may be taken between Nov. 1 and Nov. 30 | Nov. 1-Jan. 31.
Unit 20(F) and the remainder of 20(C)—No limit | Nov. 1-Feb. 28.
Marten: No limit | Nov. 1-Feb. 28.
Mink and Weasel: No limit | Nov. 1-Feb. 28.
Muskrat:
Unit 20(E)—No limit | Sept. 20-June 10.
Unit 20—remainder—No limit | Nov. 1-June 10.
Otter: No limit | Nov. 1-Apr. 15.
Wolf:
Unit 20(A, B, C, & F)—No limit | Nov. 1-Apr. 30.
Unit 20(D)—No limit | Oct. 15-Apr. 30.
Unit 20(E)—No limit | Oct. 1-Apr. 30
Wolverine: No limit | Nov. 1-Feb. 28.

(21) Unit 21. (i) Unit 21 consists of drainages into the Yukon River upstream from Paimiut to, but not including the Tozitna River drainage on the north bank, and to, but not including the Tanana River drainage on the south bank; and excluding the Koyukuk River drainage upstream from the Dulbi River drainage:

(A) Unit 21(A) consists of the Innoko River drainage upstream from and including the Iditarod River drainage, and the Nowitna River drainage upstream from the Little Mud River;

(B) Unit 21(B) consists of the Yukon River drainage upstream from Ruby and east of the Ruby-Poorman Road, downstream from and excluding the Tozitna River and Tanana River drainages, and excluding the Nowitna River drainage upstream from the Little Mud River, and excluding the Melozitna River drainage upstream from Grayling Creek;

(C) Unit 21(C) consists of the Melozitna River drainage upstream from Grayling Creek, and the Dulbi River drainage upstream from and including the Cottonwood Creek drainage;

(D) Unit 21(D) consists of the Yukon River drainage from and including the Blackburn Creek drainage upstream to Ruby, including the area west of the Ruby-Poorman Road, excluding the Koyukuk River drainage upstream from the Dulbi River drainage, and excluding the Dulbi River drainage upstream from Cottonwood Creek;

(E) Unit 21(E) consists of the Yukon River drainage from Paimiut upstream to, but not including the Blackburn Creek drainage, and the Innoko River drainage downstream from the Iditarod River drainage.

(ii) In the following areas, the taking of wildlife for subsistence uses is prohibited or restricted on public land:

(A) The Koyukuk Controlled Use Area, which consists of those portions of Units 21 and 24 bounded by a line from the north bank of the Yukon River at Koyukuk, then northerly to the confluences of the Honhosa and Kateel Rivers, then northeasterly to the confluences of Billy Hawk Creek and the Huslia River (65° 57′ N. lat., 156° 41′ W. long.), then easterly to the lower forks of the Dakli River, then easterly to the confluence of McLanes Creek and the Hogatza River, then easterly to the middle of the Hughes airstrip, then south to Little Indian River, then southwest to the mouth of Cottonwood Creek then southwest to Bishop Rock, then westerly along the north bank of the Yukon River (including Koyukuk Island) to the point of beginning, is closed during moose-hunting seasons to the use of aircraft for hunting moose, including transportation of any moose hunter or moose part; however, this does not apply to transportation of a moose hunter or moose part by aircraft between publicly owned airports in the controlled use area or between a publicly owned airport within the area and points outside the area; all hunters on the Koyukuk River passing the ADF&G operated check station at Ella's Cabin (15 miles upstream from the Yukon on the Koyukuk River) are required to stop and report to ADF&G personnel at the check station;

(B) The Paradise Controlled Use Area, which consists of that portion of Unit 21 bounded by a line beginning at the old village of Paimiut, then north along the west bank of the Yukon River to Paradise, then northwest to the mouth of Stanstrom Creek on the Bonasila River, then northeast to the mouth of the Anvik River, then along the west bank of the Yukon River to the lower end of Eagle Island (approximately 45 miles north of Grayling), then to the mouth of the Iditarod River, then down the east bank of the Innoko River to its confluence with Paimiut Slough, then south along the east bank of Paimiut Slough to its mouth, and then to the old village of Paimiut, is closed during moose hunting seasons to the use of aircraft for hunting moose, including transportation of any moose hunter or part of moose; however, this does not apply to transportation of a moose hunter or part of moose by aircraft between publicly owned airports in the Controlled Use Area or between a publicly owned airport within the area and points outside the area.

(iii) You may hunt brown bear by State registration permit in lieu of a resident tag in the Northwest Alaska Brown Bear Management Area, which consists of Unit 21(D), Unit 22, except 22(C), those portions of Unit 23, except the Baldwin Peninsula north of the Arctic Circle, Unit 24, and Unit 26(A), if you have obtained a State registration permit prior to hunting. Aircraft may not be used in the Northwest Alaska Brown Bear Management Area in any manner for brown bear hunting under the authority of a brown bear State registration permit, including transportation of hunters, bears, or parts of bears; however, this does not apply to transportation of bear hunters or bear parts by regularly scheduled flights to and between communities by carriers that normally provide scheduled service to this area, nor does it apply to transportation of aircraft to or between publicly owned airports.

(iv) Unit-specific regulations:

(A) You may use bait to hunt black bear between April 15 and June 30; and in the Koyukuk Controlled Use Area, you may also use bait to hunt black bear between September 1 and September 25;

(B) You may use a firearm to take beaver in Unit 21(E) from Nov. 1-June 10;

(C) The residents of Unit 20 and 21 may take up to three moose per regulatory year for the celebration known as the Nuchalawoyya Potlatch, under the terms of a Federal registration permit. Permits will be issued to individuals only at the request of the Native Village of Tanana. This three moose limit is not cumulative with that permitted by the State;

(D) The residents of Unit 21 may take up to three moose per regulatory year for the celebration known as the Kaltag/Nulato Stickdance, under the terms of a Federal registration permit. Permits will be issued to individuals only at the request of the Native Village of Kaltag or Nulato. This three moose limit is not cumulative with that permitted by the State.

Harvest limits | Open season
Hunting
Black Bear: 3 bears | July 1-June 30.
Brown Bear:
Unit 21(D)—1 bear by State registration permit only | Sept. 1-June 15.
Unit 21—remainder—1 bear every four regulatory years | Sept. 1-May 31.
Caribou:
Unit 21(A)—1 caribou | Aug. 10-Sept. 30.
| Dec. 10-Dec. 20.
Unit 21(B), (C), and (E)—1 caribou | Aug. 10-Sept. 30.
Unit 21(D)—north of the Yukon River and east of the Koyukuk | Aug. 10-Sept. 30.
River 1 caribou; however, 2 additional caribou may be taken during a winter season to be announced | Winter season to be announced.
Unit 21(D)—remainder—5 caribou per day; however, cow caribou may not be taken May 16-June 30 | July 1-June 30.
Moose:
Unit 21(A)—1 bull | Aug. 20-Sept. 25
| Nov. 1-Nov. 30.
Unit 21(B) and (C)—1 antlered bull | Sept. 5-Sept. 25.
Unit 21(D)—Koyukuk Controlled Use Area—1 moose; however, antlerless moose may be taken only during Aug. 27-31 and the February season. During the Aug. 27-Sept. 20 season a State registration permit is required. Moose may not be taken within one-half mile of the mainstem Yukon River during the February season. A 10-day winter hunt to occur between Feb. 1 and Feb. 28 will be opened by announcement of the Koyukuk/Nowitna National Wildlife Refuge Manager after consultation with the ADF&G area biologist and the Chairs of the Western Interior Regional Advisory Council and Middle Yukon Fish and Game Advisory Committee | Aug. 27-Sept. 20. Winter season to be announced.
Unit 21(D)—remainder—1 moose; however, antlerless moose may be taken only during Sept. 21-25 and the February season. Moose may not be taken within one-half mile of the mainstem Yukon River during the February season. A 10-day winter hunt to occur between Feb. 1 and Feb. 28 will be opened by announcement of the Koyukuk/Nowitna National Wildlife Refuge Manager after consultation with the ADF&G area biologist and the Chairs of the Western Interior Regional Advisory Council and Middle Yukon Fish and Game Advisory Committee | Sept. 5-Sept. 25. Winter season to be announced.
Unit 21(E)—1 moose; however, only bulls may be taken from Aug. 20-Sept. 25; moose may not be taken within one-half mile of the Innoko or Yukon River during the February season | Aug. 20-Sept. 25. Feb. 1-Feb. 10.
Beaver:
Unit 21(E)—No Limit | Nov. 1-June 10.
Unit 21—remainder | No open season.
Coyote: 10 coyotes | Aug. 10-Apr. 30.
Fox, Red (including Cross, Black and Silver Phases): 10 foxes; however, no more than 2 foxes may be taken prior to Oct. 1 | Sept. 1-Mar. 15.
Hare (Snowshoe and Tundra): No limit | July 1-June 30.
Lynx: 2 lynx | Nov. 1-Feb. 28.
Wolf: 5 wolves | Aug. 10-Apr. 30.
Wolverine: 1 wolverine | Sept. 1-Mar. 31.
Grouse (Spruce, Ruffed, and Sharp-tailed): 15 per day, 30 in possession | Aug. 10-Apr. 30.
Ptarmigan (Rock, Willow, and White-tailed): 20 per day, 40 in possession | Aug. 10-Apr. 30.
Trapping
Beaver: No Limit | Nov. 1-June 10.
Coyote:
No limit | Nov. 1-Mar. 31.
Fox, Red (including Cross, Black and Silver Phases):
No limit | Nov. 1-Feb. 28.
Lynx: No limit | Nov. 1-Feb. 28.
Marten: No limit | Nov. 1-Feb. 28.
Mink and Weasel: No limit | Nov. 1-Feb. 28.
Muskrat: No limit | Nov. 1-June 10.
Otter: No limit | Nov. 1-Apr. 15.
Wolf: No limit | Nov. 1-Apr. 30.
Wolverine: No limit | Nov. 1-Mar. 31.

(22) Unit 22. (i) Unit 22 consists of Bering Sea, Norton Sound, Bering Strait, Chukchi Sea, and Kotzebue Sound drainages from, but excluding, the Pastolik River drainage in southern Norton Sound to, but not including, the Goodhope River drainage in Southern Kotzebue Sound, and all adjacent islands in the Bering Sea between the mouths of the Goodhope and Pastolik Rivers:

(A) Unit 22(A) consists of Norton Sound drainages from, but excluding, the Pastolik River drainage to, and including, the Ungalik River drainage, and Stuart and Besboro Islands;

(B) Unit 22(B) consists of Norton Sound drainages from, but excluding, the Ungalik River drainage to, and including, the Topkok Creek drainage;

(C) Unit 22(C) consists of Norton Sound and Bering Sea drainages from, but excluding, the Topkok Creek drainage to, and including, the Tisuk River drainage, and King and Sledge Islands;

(D) Unit 22(D) consists of that portion of Unit 22 draining into the Bering Sea north of, but not including, the Tisuk River to and including Cape York, and St. Lawrence Island;

(E) Unit 22(E) consists of Bering Sea, Bering Strait, Chukchi Sea, and Kotzebue Sound drainages from Cape York to, but excluding, the Goodhope River drainage, and including Little Diomede Island and Fairway Rock.

(ii) You may hunt brown bear by State registration permit in lieu of a resident tag in the Northwest Alaska Brown Bear Management Area, which consists of Unit 22, except 22(C), those portions of Unit 23, except the Baldwin Peninsula north of the Arctic Circle, Unit 24, and Unit 26(A), if you have obtained a State registration permit prior to hunting. Aircraft may not be used in the Northwest Alaska Brown Bear Management Area in any manner for brown bear hunting under the authority of a brown bear State registration permit, including transportation of hunters, bears, or parts of bears; however, this does not apply to transportation of bear hunters or bear parts by regularly scheduled flights to and between communities by carriers that normally provide scheduled service to this area, nor does it apply to transportation of aircraft to or between publicly owned airports.

(iii) Unit-specific regulations:

(A) If you have a trapping license, you may use a firearm to take beaver in Unit 22 during the established seasons;

(B) Coyote, incidentally taken with a trap or snare intended for red fox or wolf, may be used for subsistence purposes;

(C) A snowmachine may be used to position a hunter to select individual caribou for harvest provided that the animals are not shot from a moving snowmachine;

(D) The taking of one bull moose and one muskox by the community of Wales is allowed for the celebration of the Kingikmiut Dance Festival under the terms of a Federal registration permit. Permits will be issued to individuals only at the request of the Native Village of Wales. The harvest may only occur between November 15 and December 31 in Unit 22 for moose and in Unit 22(E) for muskox. The harvest will count against any established quota for the area.

Harvest limits | Open season
Hunting
Black Bear: 3 bears | July 1-June 30.
Brown Bear:
Unit 22(A), (B), (D), and (E)—1 bear by State registration permit only | Aug. 1-May 31.
Unit 22(C)—1 bear by State registration permit only | Aug. 1-Oct. 31. May 10-May 25.
Caribou: Unit 22(A), (B), (D) that portion in the Kougaruk, Kuzitrin, Pilgrim, American, and Agiapuk River Drainages, and (E) east of and including the Sanaguich River drainage-5 caribou per day; however, cow caribou may not be taken May 16-June 30 | July 1-June 30.
Moose:
Unit 22(A)—1 bull; however, the period of Dec. 1-Jan. 31 is closed to hunting except by residents of Unit 22(A) only | Aug. 1-Sept. 30. Dec. 1-Jan. 31.
Unit 22(B)—West of the Darby Mountains-1 bull by State registration permit. The combined State/Federal harvest may not exceed 42 moose. Federal public lands are closed to the taking of moose except by Federally-qualified subsistence users | Aug. 10-Sept. 23.
Unit 22(B)—West of the Darby Mountains—1 bull by either Federal or State registration permit. The total combined State/Federal harvest for both the Aug/Sept and January seasons may not exceed 48 moose. Federal public lands are closed to the taking of moose except by residents of White Mountain and Golovin | Jan. 1-Jan. 31.
Unit 22(B)—Remainder—1 bull | Aug. 1-Jan.31.
Unit 22(C)—1 antlered bull | Sept. 1-Sept. 14.
Unit 22(D)—That portion within the Kougarok, Kuzitrin, and Pilgrim River drainages—1 bull by Federal registration permit. The combined State/Federal harvest may not exceed 33 moose. Federal public lands are closed to the taking of moose except by residents of Units 22(D) and 22(C) | Aug. 20-Sept. 30.
Unit 22(D)—That portion west of the Tisuk River drainage and Canyon Creek—1 bull by Federal registration permit. The combined State/Federal harvest may not exceed 8 moose | Aug. 20-Sept. 30.
Unit 22(D)—That portion west of the Tisuk River drainage and Canyon Creek—1 bull by Federal registration permit. The combined State/Federal harvest in Aug./Sept. and Dec. may not exceed 8 moose. Federal public lands are closed to the taking of moose except by residents of Units 22(D) and 22(C) | Dec. 1-Dec. 31.
Unit 22(D)—remainder—1 moose; however, antlerless moose may be taken only from Dec. 1-Dec. 31; no person may take a cow accompanied by a calf. Federal public lands are closed to the taking of moose except by Federally-qualified subsistence users | Aug. 1-Jan. 31.
Unit 22(E)—1 bull. Federal public lands are closed to the taking of moose except by Federally-qualified subsistence users | Aug. 1-Dec. 31.
Muskox:
Unit 22(B)—1 bull by Federal permit or State Tier II permit. Federal public lands are closed to the taking of muskox except by Federally-qualified subsistence users. Annual harvest quotas and any needed closures will be announced by the Superintendent of the Western Arctic National Parklands, in consultation with ADF&G and BLM | Aug.1-Mar. 15.
Unit 22(D)—That portion west of the Tisuk River drainage and Canyon Creek—1 muskox by Federal permit or State Tier II permit; however, cows may only be taken during the period Jan. 1-Mar. 15. Federal public lands are closed to the taking of muskox except by Federally-qualified subsistence users. Annual harvest quotas and any needed closures will be announced by the Superintendent of the Western Arctic National Parklands, in consultation with ADF&G and BLM | Sept.1-Mar. 15.
Remainder of Unit 22(D)—1 muskox by Federal permit or State Tier II permit; however, cows may only be taken during the period Jan. 1-Mar. 15. Federal public lands are closed to the taking of muskox except by Federally-qualified subsistence users. Annual harvest quotas and any needed closures will be announced by the Superintendent of the Western Arctic National Parklands, in consultation with ADF&G and BLM | Aug. 1-Mar. 15.
Unit 22(E)—1 muskox by Federal permit or State Tier II permit; however, cows may only be taken during the period Jan. 1-Mar. 15. Federal public lands are closed to the taking of muskox except by Federally-qualified subsistence users. Annual harvest quotas and any needed closures will be announced by the Superintendent of the Western Arctic National Parklands, in consultation with ADF&G and BLM | Aug.1-Mar. 15.
Unit 22—remainder | No open season.
Beaver:
Unit 22(A), (B), (D), and (E)—50 beaver | Nov. 1-June 10.
Unit 22—remainder | No open season.
Coyote: Federal public lands are closed to the taking of coyotes | No open season.
Fox, Arctic (Blue and White Phase): 2 foxes | Sept. 1-Apr. 30.
Fox, Red (including Cross, Black and Silver Phases): 10 foxes | Nov. 1-Apr. 15.
Hare (Snowshoe and Tundra): No limit | Sept. 1-Apr. 15.
Lynx: 2 lynx | Nov. 1-Apr. 15.
Marten:
Unit 22(A) 22(B)—No limit | Nov. 1-Apr. 15.
Unit 22—remainder | No open season.
Mink and Weasel: No limit | Nov. 1-Jan. 31.
Otter: No limit | Nov. 1-Apr. 15.
Wolf: No limit | Nov. 1-Apr. 15.
Wolverine: 3 wolverine | Sept. 1-Mar. 31.
Grouse (Spruce): 15 per day, 30 in possession | Aug. 10-Apr. 30.
Ptarmigan (Rock and Willow):
Unit 22(A) and 22(B) east of and including the Niukluk River drainage-40 per day, 80 in possession | Aug. 10-Apr. 30.
Unit 22 (E)—20 per day, 40 in possession | July 15-May 15.
Unit 22 Remainder—20 per day, 40 in possession | Aug. 10-Apr. 30.
Trapping
Beaver:
Unit 22(A), (B), (D), and (E)—50 beaver | Nov. 1-June 10.
Unit 22(C) | No open season.
Coyote: Federal public lands are closed to the taking of coyotes | No open season.
Fox, Arctic (Blue and White Phase): No limit | Nov. 1-Apr. 15.
Fox, Red (including Cross, Black and Silver Phases): No limit | Nov. 1-Apr. 15.
Lynx: No limit | Nov. 1-Apr. 15.
Marten: No limit | Nov. 1-Apr. 15.
Mink and Weasel: No limit | Nov. 1-Jan. 31.
Muskrat: No limit | Nov. 1-June 10.
Otter: No limit | Nov. 1-Apr. 15.
Wolf: No limit | Nov. 1-Apr. 30.
Wolverine: No limit | Nov. 1-Apr. 15.

(23) Unit 23. (i) Unit 23 consists of Kotzebue Sound, Chukchi Sea, and Arctic Ocean drainages from and including the Goodhope River drainage to Cape Lisburne.

(ii) In the following areas, the taking of wildlife for subsistence uses is prohibited or restricted on public land:

(A) You may not use aircraft in any manner either for hunting of ungulates, bear, wolves, or wolverine, or for transportation of hunters or harvested species in the Noatak Controlled Use Area, which consists of that portion of Unit 23 in a corridor extending five miles on either side of the Noatak River beginning at the mouth of the Noatak River, and extending upstream to the mouth of Sapun Creek, is closed for the period August 25-September 15. This does not apply to the transportation of hunters or parts of ungulates, bear, wolves, or wolverine by regularly scheduled flights to communities by carriers that normally provide scheduled air service;

(B) You may hunt brown bear by State registration permit in lieu of a resident tag in the Northwest Alaska Brown Bear Management Area, which consists of Unit 22, except 22(C), those portions of Unit 23, except the Baldwin Peninsula north of the Arctic Circle, Unit 24, and Unit 26(A); if you have obtained a State registration permit prior to hunting. Aircraft may not be used in the Northwest Alaska Brown Bear Management Area in any manner for brown bear hunting under the authority of a brown bear State registration permit, including transportation of hunters, bears or parts of bears; however, this does not apply to transportation of bear hunters or bear parts by regularly scheduled flights to and between communities by carriers that normally provide scheduled service to this area, nor does it apply to transportation of aircraft to or between publicly owned airports.

(iii) Unit-specific regulations:

(A) You may take caribou from a boat moving under power in Unit 23;

(B) In addition to other restrictions on method of take found in this § _.26, you may also take swimming caribou with a firearm using rimfire cartridges;

(C) If you have a trapping license, you may take beaver with a firearm in all of Unit 23 from Nov. 1-Jun. 10;

(D) For the Baird and DeLong Mountain sheep hunts—A Federally-qualified subsistence user (recipient) may designate another Federally-qualified subsistence user to take sheep on his or her behalf unless the recipient is a member of a community operating under a community harvest system. The designated hunter must obtain a designated hunter permit and must return a completed harvest report. The designated hunter may hunt for any number of recipients but may have no more than two harvest limits in his/her possession at any one time;

(E) A snowmachine may be used to position a hunter to select individual caribou for harvest provided that the animals are not shot from a moving snowmachine.

Harvest limits | Open season
Hunting
Black Bear: 3 bears. | July 1-June 30.
Brown Bear:
Unit 23—except the Baldwin Peninsula north of the Arctic Circle—1 bear by State registration permit | Sept. 1-May 31.
Unit 23—remainder—1 bear every four regulatory years | Sept. 1-Oct. 10. Apr. 15-May 25.
Caribou: 15 caribou per day; however, cow caribou may not be taken May 16-June 30 | July 1-June 30.
Sheep:
Unit 23—south of Rabbit Creek, Kyak Creek, and the Noatak River, and west of the Cutler and Redstone Rivers (Baird Mountains)—1 ram with full curl or larger horns by Federal registration permit. The hunter must deliver the horns attached to the skull to the National Park Service or NPS representative within 30 days of harvesting the animal. The NPS or NPS representative will destroy the trophy value by removing and destroying four inches from the base of one horn. The Superintendent of the Western Arctic National Parklands will announce the fall/winter harvest quota, if any, prior to the the fall season. All harvest quota and season announcements will be done in consultation with ADF&G and BLM. Federal public lands are closed to the taking of sheep except by Federally-qualified subsistence users | (a) Aug. 1-Sept. 30. The season will be closed when half of the total fall/winter quota has been harvested. (b) Dates of the winter season to be announced by Superintendent of the Western Arctic National Parklands. The season will be closed on April 1 or when the total quota of sheep has been harvested, whichever comes first.
Unit 23—north of Rabbit Creek, Kyak Creek, and the Noatak River, and west of the Aniuk River (DeLong Mountains)—1 ram with full curl or larger horns by Federal registration permit. The hunter must deliver the horns attached to the skull to the National Park Service or NPS representative within 30 days of harvesting the animal. The NPS or NPS representative will destroy the trophy value by removing and destroying 4 inches from the base of one horn. The Superintendent of the Western Arctic National Parklands will announce the fall/winter harvest quota, if any, prior to the fall season. All harvest quota and season announcements will be done in consultation with ADF&G and BLM | (a) Aug. 1-Sept. 30. The season will be closed when half of the total fall/winter quota has been harvested in the DeLong Mountains. (b) Dates of the winter season to be announced by Superintendent of the Western Arctic National Parklands. The season will be closed in the DeLong Mountains on April 1 or when the total quota of sheep has been harvested, whichever comes first.
Unit 23—remainder (Schwatka Mountains)—1 ram with ⅞ curl horn or larger | Aug. 10-Sept. 20.
Unit 23—remainder (Schwatka Mountains)—1 sheep | Oct. 1-Apr. 30.
Moose:
Unit 23—that portion north and west of and including the Singoalik River drainage, and all lands draining into the Kukpuk and Ipewik Rivers—1 moose; no person may take a cow accompanied by a calf | July 1-Mar. 31.
Unit 23—that portion lying within the Noatak River drainage—1 moose; however, antlerless moose may be taken only from Nov. 1-Mar. 31; no person may take a cow accompanied by a calf | Aug. 1-Sept. 15. Oct. 1-Mar. 31.
Unit 23—remainder—1 moose; no person may take a cow accompanied by a calf | Aug. 1-Mar. 31.
Muskox:
Unit 23—south of Kotzebue Sound and west of and including the Buckland River drainage—1 muskox by Federal permit or State Tier II permit; however, cows may only be taken during the period Jan. 1-Mar. 15. Federal public lands are closed to the taking of muskox except by Federally-qualified subsistence users. Annual harvest quotas and any needed closures will be announced by the Superintendent of the Western Arctic National Parklands, in consultation with ADF&G and BLM | Aug. 1-Mar. 15.
Unit 23—remainder | No open season.
Coyote: 2 coyotes | Sept. 1-Apr. 30.
Fox, Arctic (Blue and White Phase): 2 foxes | Sept. 1-Apr. 30.
Fox, Red (including Cross, Black and Silver Phases):
10 foxes; however, no more than 2 foxes may be taken prior to Oct. 1 | Sept. 1-Mar. 15.
Hare: (Snowshoe and Tundra)
No limit | July 1-June 30.
Lynx:
2 lynx | Nov. 1-Apr. 15.
Wolf:
5 wolves | Nov. 10-Mar. 31.
Wolverine:
1 wolverine | Sept. 1-Mar. 31.
Grouse (Spruce and Ruffed):
15 per day, 30 in possession | Aug. 10-Apr. 30.
Ptarmigan (Rock, Willow, and White-tailed):
20 per day, 40 in possession | Aug. 10-Apr. 30.
Trapping
Beaver:
Unit 23—the Kobuk and Selawik River drainages—50 beaver | July 1-June 30.
Unit 23—remainder—30 beaver | July 1-June 30.
Coyote: No limit | Nov. 1-Apr. 15
Fox, Arctic (Blue and White Phase): No limit | Nov. 1-Apr. 15.
Fox, Red (including Cross, Black and Silver Phases): No limit | Nov. 1-Apr. 15.
Lynx: No limit | Nov. 1-Apr. 15.
Marten: No limit | Nov. 1-Apr. 15.
Mink and Weasel: No limit | Nov. 1-Jan. 31.
Muskrat: No limit | Nov. 1-June 10.
Otter: No limit | Nov. 1-Apr. 15.
Wolf: No limit | Nov. 1-Apr. 30.
Wolverine: No limit | Nov. 1-Apr. 15.

(24) Unit 24. (i) Unit 24 consists of the Koyukuk River drainage upstream from but not including the Dulbi River drainage.

(ii) In the following areas, the taking of wildlife for subsistence uses is prohibited or restricted on public land:

(A) You may not use firearms, snowmobiles, licensed highway vehicles or motorized vehicles, except aircraft and boats in the Dalton Highway Corridor Management Area, which consists of those portions of Units 20, 24, 25, and 26 extending 5 miles from each side of the Dalton Highway from the Yukon River to milepost 300 of the Dalton Highway, except as follows: Residents living within the Dalton Highway Corridor Management Area may use snowmobiles only for the subsistence taking of wildlife. You may use licensed highway vehicles only on designated roads within the Dalton Highway Corridor Management Area. The residents of Alatna, Allakaket, Anaktuvuk Pass, Bettles, Evansville, Stevens Village, and residents living within the Corridor may use firearms within the Corridor only for subsistence taking of wildlife;

(B) You may not use aircraft for hunting moose, including transportation of any moose hunter or moose part in the Kanuti Controlled Use Area, which consists of that portion of Unit 24 bounded by a line from the Bettles Field VOR to the east side of Fish Creek Lake, to Old Dummy Lake, to the south end of Lake Todatonten (including all waters of these lakes), to the northernmost headwaters of Siruk Creek, to the highest peak of Double Point Mountain, then back to the Bettles Field VOR; however, this does not apply to transportation of a moose hunter or moose part by aircraft between publicly owned airports in the controlled use area or between a publicly owned airport within the area and points outside the area;

(C) You may not use aircraft for hunting moose, including transportation of any moose hunter or moose part in the Koyukuk Controlled Use Area, which consists of those portions of Units 21 and 24 bounded by a line from the north bank of the Yukon River at Koyukuk, then northerly to the confluences of the Honhosa and Kateel Rivers, then northeasterly to the confluences of Billy Hawk Creek and the Huslia River (65° 57′ N. lat., 156° 41′ W. long.), then easterly to the lower forks of the Dakli River, then easterly to the confluence of McLanes Creek and the Hogatza River, then easterly to the middle of the Hughes airstrip, then south to Little Indian River, then southwest to the mouth of Cottonwood Creek then southwest to Bishop Rock, then westerly along the north bank of the Yukon River (including Koyukuk Island) to the point of beginning; however, this does not apply to transportation of a moose hunter or moose part by aircraft between publicly owned airports in the controlled use area or between a publicly owned airport within the area and points outside the area; all hunters on the Koyukuk River passing the ADF&G operated check station at Ella's Cabin (15 miles upstream from the Yukon on the Koyukuk River) are required to stop and report to ADF&G personnel at the check station;

(D) You may hunt brown bear by State registration permit in lieu of a resident tag in the Northwest Alaska Brown Bear Management Area, which consists of Unit 22, except 22(C), those portions of Unit 23, except the Baldwin Peninsula north of the Arctic Circle, Unit 24, and Unit 26(A), if you have obtained a State registration permit prior to hunting. You may not use aircraft in the Northwest Alaska Brown Bear Management Area in any manner for brown bear hunting under the authority of a brown bear State registration permit, including transportation of hunters, bears or parts of bears. However, this does not apply to transportation of bear hunters or bear parts by regularly scheduled flights to and between communities by carriers that normally provide scheduled service to this area, nor does it apply to transportation of aircraft to or between publicly owned airports.

(iii) Unit-specific regulations:

(A) You may use bait to hunt black bear between April 15 and June 30; and in the Koyukuk Controlled Use Area, you may also use bait to hunt black bear between September 1 and September 25;

(B) Arctic fox, incidentally taken with a trap or snare intended for red fox, may be used for subsistence purposes.

Harvest limits | Open season
Hunting
Black Bear: 3 bears | July 1-June 30.
Brown Bear: Unit 24—1 bear by State registration permit | Sept. 1-June 15.
Caribou:
Unit 24—that portion south of the south bank of the Kanuti River, upstream from and including that portion of the Kanuti-Kilolitna River drainage, bounded by the southeast bank of the Kodosin-Nolitna Creek, then downstream along the east bank of the Kanuti-Kilolitna River to its confluence with the Kanuti River—1 caribou | Aug. 10-Mar. 31.
Remainder of Unit 24—5 caribou per day; however, cow caribou may not be taken May 16-June 30 | July 1-June 30.
Sheep:
Unit 24—(Anaktuvuk Pass residents only)—that portion within the Gates of the Arctic National Park—community harvest quota of 60 sheep, no more than 10 of which may be ewes and a daily possession limit of 3 sheep per person no more than 1 of which may be a ewe | July 15-Dec. 31.
Unit 24—(excluding Anaktuvuk Pass residents)—that portion within the Gates of the Arctic National Park—3 sheep | Aug. 1-Apr. 30.
Unit 24—that portion within the Dalton Highway Corridor Management Area; except, Gates of the Arctic National Park—1 ram with ⅞ curl horn or larger by Federal registration permit only | Aug. 10-Sept. 20.
Unit 24—remainder—1 ram with ⅞ curl horn or larger | Aug. 10-Sept. 20.
Moose:
Unit 24—that portion within the Koyukuk Controlled Use Area—1 moose; however, antlerless moose may only be taken during the periods of Aug. 27-31, Dec. 1-Dec. 10, and Mar. 1-Mar. 10. During Aug. 27-Sept. 20, a State registration permit is required | Aug. 27- Sept. 20. Dec. 1-Dec. 10. Mar. 1-Mar. 10.
Unit 24—that portion that includes the John River drainage within the Gates of the Arctic National Park—1 moose | Aug. 1-Dec. 31.
Unit 24—the Alatna River drainage within the Gates of the Arctic National Park—1 moose; however, antlerless moose may be taken only from Sept. 21-Sept. 25 and Mar. 1-Mar. 10 | Aug. 25-Dec. 31. Mar. 1-Mar. 10.
Unit 24—all drainages to the north of the Koyukuk River upstream from and including the Alatna River to and including the North Fork of the Koyukuk River, except those portions of the John River and the Alatna River drainages within the Gates of the Arctic National Park 1 moose; however, antlerless moose may be taken only from Sept. 21-Sept. 25 and Mar. 1-Mar. 10 | Aug. 25-Sept. 25. Mar. 1-Mar. 10.
Unit 24—that portion within the Dalton Highway Corridor Management Area; except, Gates of the Arctic National Park—1 antlered bull by Federal registration permit only | Aug. 25-Sept. 25.
Unit 24—remainder—1 antlered bull. Public lands in the Kanuti Controlled Use Area are closed to taking of moose, except by eligible rural Alaska residents | Aug. 25-Sept. 25.
Coyote: 10 coyotes | Aug. 10-Apr. 30.
Fox, Red (including Cross, Black and Silver Phases):
10 foxes; however, no more than 2 foxes may be taken prior to Oct. 1 | Sept. 1-Mar. 15.
Hare (Snowshoe): No limit | July 1-June 30.
Lynx: 2 lynx | Nov. 1-Feb. 28.
Wolf: 15 wolves; however, no more than 5 wolves may be taken prior to Nov. 1 | Aug. 10-Apr. 30.
Wolverine: 5 wolverine; however, no more than 1 wolverine may be taken prior to Nov. 1 | Sept. 1-Mar. 31.
Grouse (Spruce, Ruffed, and Sharp-tailed): 15 per day, 30 in possession | Aug. 10-Apr. 30.
Ptarmigan (Rock and Willow): 20 per day, 40 in possession | Aug. 10-Apr. 30.
Trapping
Beaver: No limit | Nov. 1-June 10.
Coyote: No limit | Nov. 1-Mar. 31.
Fox, Red (including Cross, Black and Silver Phases): No limit | Nov. 1-Feb. 28.
Lynx: No limit | Nov. 1-Feb. 28.
Marten: No limit | Nov. 1-Feb. 28.
Mink and Weasel: No limit | Nov. 1-Feb. 28.
Muskrat: No limit | Nov. 1-June 10.
Otter: No limit | Nov. 1-Apr. 15.
Wolf: No limit | Nov. 1-Apr. 30.
Wolverine: No limit | Nov. 1-Mar. 31.

(25) Unit 25. (i) Unit 25 consists of the Yukon River drainage upstream from but not including the Hamlin Creek drainage, and excluding drainages into the south bank of the Yukon River upstream from the Charley River:

(A) Unit 25(A) consists of the Hodzana River drainage upstream from the Narrows, the Chandalar River drainage upstream from and including the East Fork drainage, the Christian River drainage upstream from Christian, the Sheenjek River drainage upstream from and including the Thluichohnjik Creek, the Coleen River drainage, and the Old Crow River drainage;

(B) Unit 25(B) consists of the Little Black River drainage upstream from but not including the Big Creek drainage, the Black River drainage upstream from and including the Salmon Fork drainage, the Porcupine River drainage upstream from the confluence of the Coleen and Porcupine Rivers, and drainages into the north bank of the Yukon River upstream from Circle, including the islands in the Yukon River;

(C) Unit 25(C) consists of drainages into the south bank of the Yukon River upstream from Circle to the Subunit 20(E) boundary, the Birch Creek drainage upstream from the Steese Highway bridge (milepost 147), the Preacher Creek drainage upstream from and including the Rock Creek drainage, and the Beaver Creek drainage upstream from and including the Moose Creek drainage;

(D) Unit 25(D) consists of the remainder of Unit 25.

(ii) In the following areas, the taking of wildlife for subsistence uses is prohibited or restricted on public land:

(A) You may not use firearms, snowmobiles, licensed highway vehicles or motorized vehicles, except aircraft and boats in the Dalton Highway Corridor Management Area, which consists of those portions of Units 20, 24, 25, and 26 extending 5 miles from each side of the Dalton Highway from the Yukon River to milepost 300 of the Dalton Highway, except as follows: Residents living within the Dalton Highway Corridor Management Area may use snowmobiles only for the subsistence taking of wildlife. You may use licensed highway vehicles only on designated roads within the Dalton Highway Corridor Management Area. The residents of Alatna, Allakaket, Anaktuvuk Pass, Bettles, Evansville, Stevens Village, and residents living within the Corridor may use firearms within the Corridor only for subsistence taking of wildlife;

(B) The Arctic Village Sheep Management Area consists of that portion of Unit 25(A) north and west of Arctic Village, which is bounded on the east by the East Fork Chandalar River beginning at the confluence of Red Sheep Creek and proceeding southwesterly downstream past Arctic Village to the confluence with Crow Nest Creek, continuing up Crow Nest Creek, through Portage Lake, to its confluence with the Junjik River; then down the Junjik River past Timber Lake and a larger tributary, to a major, unnamed tributary, northwesterly, for approximately 6 miles where the stream forks into 2 roughly equal drainages; the boundary follows the easternmost fork, proceeding almost due north to the headwaters and intersects the Continental Divide; the boundary then follows the Continental Divide easterly, through Carter Pass, then easterly and northeasterly approximately 62 miles along the divide to the head waters of the most northerly tributary of Red Sheep Creek then follows southerly along the divide designating the eastern extreme of the Red Sheep Creek drainage then to the confluence of Red Sheep Creek and the East Fork Chandalar River.

(iii) Unit-specific regulations:

(A) You may use bait to hunt black bear between April 15 and June 30 and between August 1 and September 25;

(B) You may take caribou and moose from a boat moving under power in Unit 25;

(C) The taking of bull moose outside the seasons provided in this part for food in memorial potlatches and traditional cultural events is authorized in Unit 25(D) west provided that:

(1) The person organizing the religious ceremony or cultural event contact the Refuge Manager, Yukon Flats National Wildlife Refuge prior to taking or attempting to take bull moose and provide to the Refuge Manager the name of the decedent, the nature of the ceremony or cultural event, number to be taken, the general area in which the taking will occur;

(2) Each person who takes a bull moose under this section must submit a written report to the Refuge Manager, Yukon Flats National Wildlife Refuge not more than 15 days after the harvest specifying the harvester's name and address, and the date(s) and location(s) of the taking(s);

(3) No permit or harvest ticket is required for taking under this section; however, the harvester must be an Alaska rural resident with customary and traditional use in Unit 25(D) west;

(4) Any moose taken under this provision counts against the annual quota of 60 bulls.

Harvest limits | Open season
Hunting
Black Bear:
3 bears | July 1-June 30.
or 3 bears by State community harvest permit | July 1-June 30.
Brown Bear:
Unit 25(A) and (B)—1 bear | Sept. 1-June 15.
Unit 25(C)—1 bear | Sept. 1-May 31.
Unit 25(D)—1 bear | July 1-June 30.
Caribou:
Unit 25(C)—that portion west of the east bank of the mainstem of Preacher Creek to its confluence with American Creek, then west of the east bank of American Creek—1 caribou; however cow caribou may be taken only from Nov. 1-Mar. 31. However, during the November 1-March 31 season, a State registration permit is required | Aug. 10-Sept. 20. Nov. 1-Mar. 31.
25(C)—remainder—1 caribou by joint State/Federal registration permit only. Up to 600 caribou may be taken under a State/Federal harvest quota. The season closures will be announced by the Northern Field Office Manager, Bureau of Land Management, after consultation with the National Park Service and Alaska Department of Fish and Game | Aug. 10-Sept. 30. Nov. 1-Feb. 28.
Unit 25 (D)—that portion of Unit 25(D) drained by the west fork of the Dall River west of 150° W. long.—1 bull | Aug. 10-Sept. 30. Dec. 1-Dec. 31.
Unit 25(A), (B), and the remainder of Unit 25(D)—10 caribou | July 1-Apr. 30.
Sheep:
Unit 25(A)—that portion within the Dalton Highway Corridor Management Area | No open season.
Units 25(A)—Arctic Village Sheep Management Area—2 rams by Federal registration permit only. Public lands are closed to the taking of sheep except by rural Alaska residents of Arctic Village, Venetie, Fort Yukon, Kaktovik, and Chalkytsik during seasons identified above | Aug. 10-Apr. 30.
Unit 25(A)—remainder—3 sheep by Federal registration permit only | Aug. 10-Apr. 30.
Moose:
Unit 25(A)—1 antlered bull | Aug. 25-Sept. 25.
| Dec. 1-Dec. 10.
Unit 25(B)—that portion within Yukon Charley National Preserve—1 bull | Aug. 20-Sept. 30.
Unit 25(B)—that portion within the Porcupine River drainage upstream from, but excluding the Coleen River drainage—1 antlered bull | Aug. 25-Sept. 30. Dec. 1-Dec. 10.
Unit 25(B)—that portion, other than Yukon Charley National Preserve, draining into the north bank of the Yukon River upstream from and including the Kandik River drainage, including the islands in the Yukon River—1 antlered bull | Sept. 5-Sept. 30. Dec. 1-Dec. 15.
Unit 25(B)—remainder—1 antlered bull | Aug. 25-Sept. 15.
| Dec. 1-Dec. 15.
Unit 25(C)—1 antlered bull | Sept. 1-Sept. 15.
Unit 25(D)(West)—that portion lying west of a line extending from the Unit 25(D) boundary on Preacher Creek, then downstream along Preacher Creek, Birch Creek and Lower Mouth Birch Creek to the Yukon River, then downstream along the north bank of the Yukon River (including islands) to the confluence of the Hadweenzik River, then upstream along the west bank of the Hadweenzik River to the confluence of Forty and One-Half Mile Creek, then upstream along Forty and One-Half Mile Creek to Nelson Mountain on the Unit 25(D) boundary—1 bull by a Federal registration permit. Permits will be available in the following villages: Beaver (25 permits), Birch Creek (10 permits), and Stevens Village (25 permits). Permits for residents of 25(D)(West) who do not live in one of the three villages will be available by contacting the Yukon Flats National Wildlife Refuge Office in Fairbanks or a local Refuge Information Technician. Moose hunting on public land in Unit 25(D)(West) is closed at all times except for residents of Unit 25(D)(West) during seasons identified above. The moose season will be closed when 60 moose have been harvested in the entirety (from Federal and non-Federal lands) of Unit 25(D)(West) | Aug. 25-Feb. 28.
Unit 25(D)—remainder—1 antlered moose | Aug. 25-Sept. 25.
| Dec. 1-Dec. 20.
Beaver:
Unit 25, excluding Unit 25(C)—1 beaver per day; 1 in possession | Apr. 16-Oct. 31.
Unit 25(C) | No Federal open season.
Coyote: 10 coyotes | Aug. 10-Apr. 30.
Fox, Red (including Cross, Black and Silver Phases): 10 foxes; however, no more than 2 foxes may be taken prior to Oct. 1. | Sept. 1-Mar. 15.
Hare (Snowshoe): No limit | July 1-June 30.
Lynx:
Unit 25(C)—2 lynx | Dec. 1-Jan. 31.
Unit 25—remainder—2 lynx | Nov. 1-Feb. 28.
Wolf:
Unit 25(A)—No limit | Aug. 10-Apr. 30.
Remainder of Unit 25—10 wolves | Aug. 10-Apr. 30.
Wolverine: 1 wolverine | Sept. 1-Mar. 31.
Grouse (Spruce, Ruffed, and Sharp-tailed):
Unit 25(C)—15 per day, 30 in possession | Aug. 10-Mar. 31.
Unit 25—remainder—15 per day, 30 in possession | Aug. 10-Apr. 30.
Ptarmigan (Rock and Willow):
Unit 25(C)—those portions within 5 miles of Route 6 (Steese Highway)—20 per day, 40 in possession | Aug. 10-Mar. 31.
Unit 25—remainder—20 per day, 40 in possession | Aug. 10-Apr. 30.
Trapping
Beaver:
Unit 25(C)—No limit | Nov. 1-Apr. 15.
Unit 25—remainder—50 beaver | Nov. 1-Apr. 15.
Coyote: No limit | Nov. 1-Mar. 31.
Fox, Red (including Cross, Black and Silver Phases): No limit | Nov. 1-Feb. 28.
Lynx: No limit | Nov. 1-Feb. 28.
Marten: No limit | Nov. 1-Feb. 28.
Mink and Weasel: No limit | Nov. 1-Feb. 28.
Muskrat: No limit | Nov. 1-June 10.
Otter: No limit | Nov. 1-Apr. 15.
Wolf: No limit | Nov. 1-Apr. 30.
Wolverine:
Unit 25(C)—No limit | Nov. 1-Feb. 28.
Unit 25—remainder—No limit | Nov. 1-Mar. 31.

(26) Unit 26. (i) Unit 26 consists of Arctic Ocean drainages between Cape Lisburne and the Alaska-Canada border including the Firth River drainage within Alaska:

(A) Unit 26(A) consists of that portion of Unit 26 lying west of the Itkillik River drainage and west of the east bank of the Colville River between the mouth of the Itkillik River and the Arctic Ocean;

(B) Unit 26(B) consists of that portion of Unit 26 east of Unit 26(A), west of the west bank of the Canning River and west of the west bank of the Marsh Fork of the Canning River;

(C) Unit 26(C) consists of the remainder of Unit 26.

(ii) In the following areas, the taking of wildlife for subsistence uses is prohibited or restricted on public land:

(A) You may not use aircraft in any manner for moose hunting, including transportation of moose hunters or parts of moose from Aug. 1-Sept. 14 and from Jan. 1-Mar. 31 in Unit 26(A); however, this does not apply to transportation of moose hunters, their gear, or moose parts by aircraft between publicly owned airports;

(B) You may not use firearms, snowmobiles, licensed highway vehicles or motorized vehicles, except aircraft and boats in the Dalton Highway Corridor Management Area, which consists of those portions of Units 20, 24, 25, and 26 extending 5 miles from each side of the Dalton Highway from the Yukon River to milepost 300 of the Dalton Highway, except as follows: Residents living within the Dalton Highway Corridor Management Area may use snowmobiles only for the subsistence taking of wildlife. You may use licensed highway vehicles only on designated roads within the Dalton Highway Corridor Management Area. The residents of Alatna, Allakaket, Anaktuvuk Pass, Bettles, Evansville, Stevens Village, and residents living within the Corridor may use firearms within the Corridor only for subsistence taking of wildlife;

(C) You may hunt brown bear by State registration permit in lieu of a resident tag in the Northwest Alaska Brown Bear Management Area, which consists of Unit 22, except 22(C), those portions of Unit 23, except the Baldwin Peninsula north of the Arctic Circle, Unit 24, and Unit 26(A), if you have obtained a State registration permit prior to hunting. You may not use aircraft in the Northwest Alaska Brown Bear Management Area in any manner for brown bear hunting under the authority of a brown bear State registration permit, including transportation of hunters, bears or parts of bears. However, this does not apply to transportation of bear hunters or bear parts by regularly scheduled flights to and between communities by carriers that normally provide scheduled service to this area, nor does it apply to transportation of aircraft to or between publicly owned airports.

(iii) Unit-specific regulations:

(A) You may take caribou from a boat moving under power in Unit 26;

(B) In addition to other restrictions on method of take found in this § _.26, you may also take swimming caribou with a firearm using rimfire cartridges;

(C) In Kaktovik, a Federally-qualified subsistence user (recipient) may designate another Federally-qualified subsistence user to take sheep or muskox on his or her behalf unless the recipient is a member of a community operating under a community harvest system. The designated hunter must obtain a designated hunter permit and must return a completed harvest report. The designated hunter may hunt for any number of recipients but may have no more than two harvest limits in his/her possession at any one time;

(D) For the DeLong Mountain sheep hunts—A Federally-qualified subsistence user (recipient) may designate another Federally-qualified subsistence user to take sheep on his or her behalf unless the recipient is a member of a community operating under a community harvest system. The designated hunter must obtain a designated hunter permit and must return a completed harvest report. The designated hunter may hunt for any number of recipients but may have no more than two harvest limits in his/her possession at any one time.

Harvest limits | Open season
Hunting
Black Bear: 3 bears | July 1-June 30.
Brown Bear:
Unit 26(A)—1 bear by State registration permit | Sept. 1-May 31.
Unit 26(B) and (C)—1 bear | Sept. 1-May 31.
Caribou:
Unit 26(A)—10 caribou per day; however, cow caribou may not be taken May 16-June 30. Federal lands south of the Colville River and east of the Killik River are closed to the taking of caribou by non-Federally qualified subsistence users from Aug. 1-Sept. 30 | July 1-June 30.
Unit 26(B)—10 caribou per day; however, cow caribou may be taken only from Oct. 1-Apr. 30 | July 1-Apr. 30.
Unit 26(C)—10 caribou per day | July 1-Apr. 30.
(You may not transport more than 5 caribou per regulatory year from Unit 26 except to the community of Anaktuvuk Pass)
Sheep:
Unit 26(A) and (B)—(Anaktuvuk Pass residents July 15-Dec. only)—that portion within the Gates of the Arctic National Park—community harvest quota of 60 sheep, no more than 10 of which may be ewes and a daily possession limit of 3 sheep per person no more than 1 of which may be a ewe | July 15-Dec. 31.
Unit 26(A)—(excluding Anaktuvuk Pass residents)—those portions within the Gates of the Arctic National Park—3 sheep | Aug. 1-Apr. 30.
Unit 26(A)—that portion west of Howard Pass and the Etivluk River (DeLong Mountains)—1 ram with full curl or larger horns by Federal registration permit. The hunter must deliver the horns attached to the skull to the National Park Service or NPS representative within 30 days of harvesting the animal. The NPS or NPS representative will destroy the trophy value by removing and destroying 4 inches from the base of one horn. The Superintendent of the Western Arctic National Parklands will announce the fall/winter harvest quota, if any, prior to the fall season. All harvest quota and season announcements will be done in consultation with ADF&G and BLM | (a) Aug. 1-Sept. 30. The season will be closed when half of the total fall/winter quota has been harvest in the DeLong Mountains. (b) Dates of the winter season to be announced by the Superintendent of the Western Arctic National Parklands. The season will be closed in the DeLong Mountains on April 1 or when the total quota of sheep has been harvested, whichever comes first.
Unit 26(B)—that portion within the Dalton Highway Cooridor Management Area—1 ram with ⅞ curl horn or larger by Federal registration permit only | Aug. 10-Sept. 20.
Unit 26(A)—remainder and 26(b)—remainder—including the Gates of the Arctic National Preserve—1 ram with ⅞ curl horn or larger | Aug. 10-Sept. 20.
Unit 26(C)—3 sheep per regulatory year; the Aug. 10-Sept. 20 season is restricted to 1 ram with ⅞ curl horn or larger. A Federal registration permit is required for the Oct. 1-Apr. 30 season | Aug. 10-Sept. 20. Aug. 10-Apr. 20. Oct. 1-Apr. 30.
Moose:
Unit 26(A)—that portion of the Colville River drainage downstream from and including the Chandler River—1 bull. Federal public lands are closed to the taking of moose except by Federally qualified users | Aug. 1-Sept. 14.
Unit 26(A)—remainder—1 bull | Sept. 1-Sept. 14.
Unit 26—remainder | No open season.
Muskox: Unit 26(C)—1 bull by Federal registration permit only. The number of permits that may be issued only to the residents of the village of Kaktovik will not exceed three percent (3%) of the number of muskoxen counted in Unit 26(C) during a pre-calving census. Public lands are closed to the taking of muskox, except by rural Alaska residents of the village of Kaktovik during open seasons | July 15-Mar. 31.
Coyote: 2 coyotes | Sept. 1-Apr. 30.
Fox, Arctic (Blue and White Phase): 2 foxes. | Sept. 1-Apr. 30.
Fox, Red (including Cross, Black and Silver Phases):
Unit 26(A) and (B)—10 foxes; however, no more than 2 foxes may be taken prior to Oct. 1 | Sept. 1-Mar. 15.
Unit 26(C)—10 foxes | Nov. 1-Apr. 15.
Hare (Snowshoe and Tundra): No limit. | July 1-June 30.
Lynx: 2 lynx | Nov. 1-Apr. 15.
Wolf: 15 wolves | Aug. 10-Apr. 30.
Wolverine: 5 wolverine | Sept. 1-Mar. 31.
Ptarmigan (Rock and Willow): 20 per day, 40 in possession | Aug. 10-Apr. 30.
Trapping
Coyote: No limit | Nov. 1-Apr. 15.
Fox, Arctic (Blue and White Phase): No limit | Nov. 1-Apr. 15.
Fox, Red (including Cross, Black and Silver Phases): No limit | Nov. 1-Apr. 15.
Lynx: No limit | Nov. 1-Apr. 15.
Marten: No limit | Nov. 1-Apr. 15.
Mink and Weasel: No limit | Nov. 1-Jan. 31.
Muskrat: No limit | Nov. 1-June 10.
Otter: No limit | Nov. 1-Apr. 15.
Wolf: No limit | Nov. 1-Apr. 30.
Wolverine: No limit | Nov. 1-Apr. 15.

Dated: May 29, 2003.
Thomas H. Boyd,
Acting Chair, Federal Subsistence Board.
Dated: May 29, 2003.
Kenneth E. Thompson,
Subsistence Program Manager, USDA—-Forest Service.

[FR Doc. 03-15728 Filed 6-26-03; 8:45 am]

BILLING CODES 3410-11-P, 4310-55-P